ENVIRONMENTAL PROTECTION AGENCY

40 CFR Part 63

[EPA-HQ-OAR-2017-0684, EPA-HQ-OAR-2017-0685; FRL-10003-81-OAR]

RIN 2060-AT51

National Emission Standards for Hazardous Air Pollutants: Surface Coating of Metal Cans and Surface Coating of Metal Coil Residual Risk and Technology Reviews

AGENCY: Environmental Protection Agency (EPA).

ACTION: Final rule.

SUMMARY: The U.S. Environmental Protection Agency (EPA) is taking final action on the residual risk and technology reviews (RTRs) conducted for the Surface Coating of Metal Cans and Surface Coating of Metal Coil source categories regulated under national emission standards for hazardous air pollutants (NESHAP). The EPA is also taking final action on amendments for the two source categories to address emissions during periods of startup, shutdown, and malfunction (SSM); electronic reporting of performance test results and compliance reports; the addition of EPA Method 18 and updates to several measurement methods; and the addition of requirements for periodic performance testing. Additionally, several miscellaneous technical amendments are being made to improve the clarity of the rule requirements. We are making no revisions to the numerical emission limits for the two source categories based on the residual risk and technology reviews.

DATES: This final rule is effective on February 25, 2020. The incorporation by reference (IBR) of certain publications listed in the rule is approved by the Director of the Federal Register as of February 25, 2020.

ADDRESSES: The EPA has established dockets for this action under Docket ID No. EPA-HQ-OAR-2017-0684 for 40 Code of Federal Regulations (CFR) part 63, subpart KKKK, Surface Coating of Metal Cans, and Docket ID No. EPA-HQ-OAR-2017-0685 for 40 CFR part 63, subpart SSSS, Surface Coating of Metal Coil. All documents in the docket are listed on the https://www.regulations.gov/ website. Although listed, some information is not publicly available, e.g., confidential business information (CBI) or other information whose disclosure is restricted by statute. Certain other material, such as copyrighted material, is not placed on the internet and will be publicly available only in hard copy form. Publicly available docket materials are available either electronically through https://www.regulations.gov/, or in hard copy at the EPA Docket Center, WJC West Building, Room Number 3334, 1301 Constitution Ave. NW, Washington, DC. The Public Reading Room hours of operation are 8:30 a.m. to 4:30 p.m. Eastern Standard Time (EST), Monday through Friday. The telephone number for the Public Reading Room is (202) 566-1744, and the telephone number for the EPA Docket Center is (202) 566-1742.

FOR FURTHER INFORMATION CONTACT: For questions about this final action, contact Ms. Paula Hirtz, Minerals and Manufacturing Group, Sector Policies and Programs Division (D243-04), Office of Air Quality Planning and Standards, U.S. Environmental Protection Agency, Research Triangle Park, North Carolina 27711; telephone number: (919) 541-2618; fax number: (919) 541-4991; and email address: hirtz.paula@epa.gov. For specific information regarding the risk modeling methodology, contact Mr. Chris Sarsony, Health and Environmental Impacts Division (C539-02), Office of Air Quality Planning and Standards, U.S. Environmental Protection Agency, Research Triangle Park, North Carolina 27711; telephone number: (919) 541-4843; fax number: (919) 541-0840; and email address: sarsony.chris@epa.gov. For information about the applicability of these NESHAP to a particular entity, contact Mr. John Cox, Office of Enforcement and Compliance Assurance, U.S. Environmental Protection Agency, WJC South Building (Mail Code 2227A), 1200 Pennsylvania Avenue NW, Washington, DC 20460; telephone number: (202) 564-1395; and email address: cox.john@epa.gov.

SUPPLEMENTARY INFORMATION:

Preamble acronyms and abbreviations. We use multiple acronyms and terms in this preamble. While this list may not be exhaustive, to ease the reading of this preamble and for reference purposes, the EPA defines the following terms and acronyms here:

ASTM American Society for Testing and Materials

BPA bisphenol A

BPA-NI not intentionally containing BPA

CAA Clean Air Act

CBI Confidential Business Information

CDX Central Data Exchange

CEDRI Compliance and Emissions Data Reporting Interface

CEMS continuous emissions monitoring systems

CFR Code of Federal Regulations

DGME diethylene glycol monobutyl ether

EPA Environmental Protection Agency

ERT Electronic Reporting Tool

HAP hazardous air pollutant(s)

HCl hydrochloric acid

HF hydrogen fluoride

HI hazard index

HQ hazard quotient

HQREL hazard quotient recommended exposure limit

IBR incorporation by reference

ICR Information Collection Request

kg kilogram

km kilometer

MACT maximum achievable control technology

MIR maximum individual risk

NAAQS National Ambient Air Quality Standards

NAICS North American Industry Classification System

NESHAP national emission standards for hazardous air pollutants

NSPS new source performance standard

NSR New Source Review

NTTAA National Technology Transfer and Advancement Act

OAQPS Office of Air Quality Planning and Standards

OMB Office of Management and Budget

OSHA Occupational Safety and Health Administration

PB-HAP hazardous air pollutants known to be persistent and bio-accumulative in the environment

PDF portable document format

PRA Paperwork Reduction Act

PTE permanent total enclosure

REL reference exposure level

RFA Regulatory Flexibility Act

RTR residual risk and technology review

SSM startup, shutdown, and malfunction

TOSHI target organ-specific hazard index

tpy tons per year

μg/m3 micrograms per cubic meter

UMRA Unfunded Mandates Reform Act

VCS voluntary consensus standards

Background information. On June 4, 2019, the EPA proposed revisions to the Surface Coating of Metal Cans NESHAP and the Surface Coating of Metal Coil NESHAP based on our RTRs. In this action, we are finalizing decisions and revisions to the rules. In this preamble, we summarize some of the more significant comments we timely received regarding the proposed rule and provide our responses. A summary of all the public comments on the proposed rules and the EPA's responses to those comments is available in the “Summary of Public Comments and Responses for the Risk and Technology Reviews for the Surface Coating of Metal Cans and the Surface Coating of Metal Coil NESHAP,” in Docket ID Nos. EPA-HQ-OAR-2017-0684 and EPA-HQ-OAR-2017-0685. A “track changes” version of the regulatory language that incorporates the changes in this action is available in the docket for each rule.

Organization of this document. The information in this preamble is organized as follows:

I. General Information

A. Does this action apply to me?

B. Where can I get a copy of this document and other related information?

C. Judicial Review and Administrative Reconsideration

II. Background

A. What is the statutory authority for this action?

B. What are the source categories and how does the NESHAP regulate HAP emissions from the source categories?

C. What changes did we propose for the source categories in our June 4, 2019, RTR proposal?

III. What is included in these final rules?

A. What are the final rule amendments based on the risk reviews for the Surface Coating of Metal Cans and Surface Coating of Metal Coil source categories?

B. What are the final rule amendments based on the technology reviews for the Surface Coating of Metal Cans and Surface Coating of Metal Coil source categories?

C. What are the final rule amendments addressing emissions during periods of SSM?

D. What other changes have been made to the NESHAP?

E. What are the effective and compliance dates of the revisions to the standards?

F. What are the requirements for submission of performance test data to the EPA?

IV. What is the rationale for our final decisions and amendments for the Surface Coating of Metal Cans and Surface Coating of Metal Coil source categories?

A. Residual Risk Reviews

B. Technology Reviews

C. Electronic Reporting Provisions

D. SSM Provisions

E. Ongoing Compliance Demonstrations

V. Summary of Cost, Environmental, and Economic Impacts and Additional Analyses Conducted

A. What are the affected sources?

B. What are the air quality impacts?

C. What are the cost impacts?

D. What are the economic impacts?

E. What are the benefits?

F. What analysis of environmental justice did we conduct?

G. What analysis of children's environmental health did we conduct?

VI. Statutory and Executive Order Reviews

A. Executive Order 12866: Regulatory Planning and Review and Executive Order 13563: Improving Regulation and Regulatory Review

B. Executive Order 13771: Reducing Regulations and Controlling Regulatory Costs

C. Paperwork Reduction Act (PRA)

D. Regulatory Flexibility Act (RFA)

E. Unfunded Mandates Reform Act (UMRA)

F. Executive Order 13132: Federalism

G. Executive Order 13175: Consultation and Coordination With Indian Tribal Governments

H. Executive Order 13045: Protection of Children From Environmental Health Risks and Safety Risks

I. Executive Order 13211: Actions Concerning Regulations That Significantly Affect Energy Supply, Distribution, or Use

J. National Technology Transfer and Advancement Act (NTTAA) and 1 CFR Part 51

K. Executive Order 12898: Federal Actions To Address Environmental Justice in Minority Populations and Low-Income Populations

L. Congressional Review Act (CRA)

I. General Information

A. Does this action apply to me?

Regulated entities. Categories and entities potentially regulated by this action are shown in Table 1 of this preamble.

Table 1—NESHAP and Industrial Source Categories Affected by This Final Action
NESHAP source category | NAICS ¹ code | Regulated entities ²
Surface Coating of Metal Cans | 332431 | Two-piece Beverage Can Facilities, Three-piece Food Can Facilities, Two-piece Draw and Iron Facilities, One-piece Aerosol Can Facilities.
| 332115
| 332116
| 332812
| 332999
| 332431 | Can Assembly Facilities.
| 332812 | End Manufacturing Facilities.
Surface Coating of Metal Coil | 325992 | Photographic Film, Paper, Plate, and Chemical Manufacturing.
| 326199 | All Other Plastics Product Manufacturing.
| 331110 | Iron and Steel Mills and Ferroalloy Manufacturing.
| 331221 | Rolled Steel Shape Manufacturing.
| 331315 | Aluminum Sheet, Plate, and Foil Manufacturing.
| 331318 | Other Aluminum Rolling, Drawing, and Extruding.
| 331420 | Copper Rolling, Drawing, Extruding, and Alloying.
| 332311 | Prefabricated Metal Building and Component Manufacturing.
| 332312 | Fabricated Structural Metal Manufacturing.
| 332322 | Sheet Metal Work Manufacturing.
| ³ 332812 | Metal Coating, Engraving (except Jewelry and Silverware), and Allied Services to Manufacturers.
| 332999 | All Other Miscellaneous Fabricated Metal Product Manufacturing.
| 333249 | Other Industrial Machinery Manufacturing.
| 337920 | Blind and Shade Manufacturing.
¹ North American Industry Classification System.
² Regulated entities are major source facilities that apply surface coatings to these parts or products.
³ The majority of coil coating facilities are included in NAICS Code 332812.

Table 1 of this preamble is not intended to be exhaustive, but rather to provide a guide for readers regarding entities likely to be affected by the final action for the source categories listed. To determine whether your facility is affected, you should examine the applicability criteria in the appropriate NESHAP. If you have any questions regarding the applicability of any aspect of these NESHAP, please contact the appropriate person listed in the preceding FOR FURTHER INFORMATION CONTACT section of this preamble.

B. Where can I get a copy of this document and other related information?

In addition to being available in the dockets, an electronic copy of this final action will also be available on the internet. Following signature by the EPA Administrator, the EPA will post copies of this final action at: https://www.epa.gov/stationary-sources-air-pollution/surface-coating-metal-cans-national-emission-standards-hazardous and https://www.epa.gov/stationary-sources-air-pollution/surface-coating-metal-coil-national-emission-standards-hazardous. Following publication in the Federal Register, the EPA will post the Federal Register version and key technical documents at these same websites.

Additional information is available on the RTR website at https://www.epa.gov/stationary-sources-air-pollution/risk-and-technology-review-national-emissions-standards-hazardous. This information includes an overview of the RTR program, links to project websites for the RTR source categories, and detailed emissions data and other data we used as inputs to the risk assessments.

C. Judicial Review and Administrative Reconsideration

Under Clean Air Act (CAA) section 307(b)(1), judicial review of this final action is available only by filing a petition for review in the United States Court of Appeals for the District of Columbia Circuit (the Court) by April 27, 2020. Under CAA section 307(b)(2), the requirements established by these final rules may not be challenged separately in any civil or criminal proceedings brought by the EPA to enforce the requirements.

Section 307(d)(7)(B) of the CAA further provides that only an objection to a rule or procedure which was raised with reasonable specificity during the period for public comment (including any public hearing) may be raised during judicial review. This section also provides a mechanism for the EPA to reconsider the rule if the person raising an objection can demonstrate to the Administrator that it was impracticable to raise such objection within the period for public comment or if the grounds for such objection arose after the period for public comment (but within the time specified for judicial review) and if such objection is of central relevance to the outcome of the rule. Any person seeking to make such a demonstration should submit a Petition for Reconsideration to the Office of the Administrator, U.S. EPA, Room 3000, WJC South Building, 1200 Pennsylvania Ave. NW, Washington, DC 20460, with a copy to both the person(s) listed in the preceding FOR FURTHER INFORMATION CONTACT section, and the Associate General Counsel for the Air and Radiation Law Office, Office of General Counsel (Mail Code 2344A), U.S. EPA, 1200 Pennsylvania Ave. NW, Washington, DC 20460.

II. Background

A. What is the statutory authority for this action?

Section 112 of the CAA establishes a two-stage regulatory process to address emissions of hazardous air pollutants (HAP) from stationary sources. In the first stage, we must identify categories of sources emitting one or more of the HAP listed in CAA section 112(b) and then promulgate technology-based NESHAP for those sources. “Major sources” are those that emit, or have the potential to emit, any single HAP at a rate of 10 tons per year (tpy) or more, or 25 tpy or more of any combination of HAP. For major sources, these standards are commonly referred to as maximum achievable control technology (MACT) standards and must reflect the maximum degree of emission reductions of HAP achievable (after considering cost, energy requirements, and non-air quality health and environmental impacts). In developing MACT standards, CAA section 112(d)(2) directs the EPA to consider the application of measures, processes, methods, systems, or techniques, including, but not limited to, those that reduce the volume of or eliminate HAP emissions through process changes, substitution of materials, or other modifications; enclose systems or processes to eliminate emissions; collect, capture, or treat HAP when released from a process, stack, storage, or fugitive emissions point; are design, equipment, work practice, or operational standards; or any combination of the above.

For these MACT standards, the statute specifies certain minimum stringency requirements, which are referred to as MACT floor requirements, and which may not be based on cost considerations. See CAA section 112(d)(3). For new sources, the MACT floor cannot be less stringent than the emission control achieved in practice by the best-controlled similar source. The MACT floor for existing sources can be less stringent than floors for new sources, but they cannot be less stringent than the average emission limitation achieved by the best-performing 12 percent of existing sources in the category or subcategory (or the best-performing five sources for categories or subcategories with fewer than 30 sources). In developing MACT standards, we must also consider control options that are more stringent than the floor under CAA section 112(d)(2). We may establish standards more stringent than the floor, based on the consideration of the cost of achieving the emissions reductions, any non-air quality health and environmental impacts, and energy requirements.

In the second stage of the regulatory process, the CAA requires the EPA to undertake two different analyses, which we refer to as the technology review and the residual risk review. Under the technology review, we must review the technology-based standards and revise them “as necessary (taking into account developments in practices, processes, and control technologies)” no less frequently than every 8 years, pursuant to CAA section 112(d)(6). Under the residual risk review, we must evaluate the risk to public health remaining after application of the technology-based standards and revise the standards, if necessary, to provide an ample margin of safety to protect public health or to prevent, taking into consideration costs, energy, safety, and other relevant factors, an adverse environmental effect. The residual risk review is required within 8 years after promulgation of the technology-based standards, pursuant to CAA section 112(f). In conducting the residual risk review, if the EPA determines that the current standards provide an ample margin of safety to protect public health, it is not necessary to revise the MACT standards pursuant to CAA section 112(f).¹ For more information on the statutory authority for this rule, see the proposal preamble (84 FR 25908, June 4, 2019) and the memorandum, CAA Section 112 Risk and Technology Reviews: Statutory Authority and Methodology, December 14, 2017, in the Surface Coating of Metal Cans Docket and the Surface Coating of Metal Coil Docket.

¹ The Court has affirmed this approach of implementing CAA section 112(f)(2)(A): NRDC v. EPA, 529 F.3d 1077, 1083 (D.C. Cir. 2008) (“If EPA determines that the existing technology-based standards provide an ‘ample margin of safety,’ then the Agency is free to readopt those standards during the residual risk rulemaking.”).

B. What are the source categories and how do the NESHAP regulate HAP emissions from the source categories?

1. What is the Surface Coating of Metal Cans source category and how does the current NESHAP regulate its HAP emissions?

The EPA promulgated the Surface Coating of Metal Cans NESHAP on November 13, 2003 (68 FR 64432). The standards are codified at 40 CFR part 63, subpart KKKK. The Surface Coating of Metal Cans industry consists of facilities that are engaged in the surface coating of metal cans and ends (including decorative tins) and metal crowns and closures. The source category covered by this MACT standard currently includes five facilities.

The Surface Coating of Metal Cans NESHAP (40 CFR 63.3561) defines a “metal can” as “a single-walled container manufactured from metal substrate equal to or thinner than 0.3785 millimeter (mm) (0.0149 inch)” and includes coating operations for four subcategories: (1) One- and two- piece draw and iron can body coating; (2) sheetcoating; (3) three-piece can body assembly coating; and (4) end coating. The Surface Coating of Metal Cans NESHAP also defines a “coating” as “a material that is applied to a substrate for decorative, protective, or functional purposes. Such materials include, but are not limited to, paints, sealants, caulks, inks, adhesives, and maskants.” This source category is further described in the June 4, 2019, RTR proposal. See 84 FR 25908.

The primary HAP emitted from this source category are organic HAP and include glycol ethers, formaldehyde, xylenes, toluene, methyl isobutyl ketone, 2-(hexyloxy) ethanol, ethyl benzene, and methanol. These HAP account for 99 percent of the HAP emissions from the source category. The HAP emissions from the Surface Coating of Metal Cans source category are emitted from the coating materials which include the coatings, thinners, and cleaning materials used in the coating operations. The coating operations include: The equipment used to apply the coatings; the equipment to dry or cure the coatings after application; all storage containers and mixing vessels; all manual and automated equipment and containers used to convey the coating materials; and all storage containers and manual and automated equipment used for conveying waste materials generated by the coating operations. The coating application lines and the drying and curing ovens are the largest sources of HAP emissions. The coating application lines apply an exterior base coat to two- and three-piece cans using a lithographic/printing (i.e., roll) application process. The inside, side seam, and repair coatings are spray applied using airless spray equipment and are a minor portion of the can coating operations. As indicated by the name, repair spray coatings are used to cover breaks in the coating that are caused during the formation of the score in easy-open ends or to provide, after the manufacturing process, an additional protective layer for corrosion resistance.

The Surface Coating of Metal Cans NESHAP specifies numerical emission limits for existing sources and for new or reconstructed sources for organic HAP emissions from four subcategories of can coating operations. Within the four subcategories are several different types of coatings with separate emission limits. The specific organic HAP emission limits are provided in Tables 1 and 2 of 40 CRF part 63, subpart KKKK.

The Surface Coating of Metal Cans NESHAP provides that emission limits can be achieved using several different options, including a compliant material option, an emission rate without add-on controls option (averaging option), an emission rate with add-on controls option, or a control efficiency/outlet concentration option. For any coating operation(s) on which the facility uses the compliant material option or the emission rate without add-on controls option, the facility is not required to meet any work practice standards.

If the facility uses the emission rate with add-on controls option, the facility must develop and implement a work practice plan to minimize organic HAP emissions from the storage, mixing, and conveying of coatings, thinners, and cleaning materials used in, and waste materials generated by, the coating operation(s) using that option. The plan must specify practices and procedures to ensure that a set of minimum work practices specified in the NESHAP are implemented. The facility must also comply with site-specific operating limits for the emission capture and control system.

2. What is the Surface Coating of Metal Coil source category and how does the current NESHAP regulate its HAP emissions?

The EPA promulgated the Surface Coating of Metal Coil source category NESHAP on June 10, 2002 (67 FR 39794). The standards are codified at 40 CFR part 63, subpart SSSS. The Surface Coating of Metal Coil industry consists of facilities that operate a metal coil coating line. The source category covered by this MACT standard currently includes 48 facilities.

The Surface Coating of Metal Coil NESHAP (40 CFR 63.5110) defines a “coil coating line” as “a process and the collection of equipment used to apply an organic coating to the surface of metal coil.” A coil coating line includes a web unwind or feed section, a series of one or more work stations, and any associated curing oven, wet section, and quench station. A work station is “a unit on a coil coating line where the coating material is deposited onto the metal coil substrate” or a coating application station. This source category is further described in the June 4, 2019, RTR proposal. See 84 FR 25909.

The primary HAP emitted from metal coil coating operations are organic HAP and include xylenes, glycol ethers, naphthalene, isophorone, toluene, diethylene glycol monobutyl ether (DGME), and ethyl benzene. The majority of organic HAP emissions are from the coating application stations and the curing ovens.

The Surface Coating of Metal Coil NESHAP specifies numerical emission limits for organic HAP emissions from the coating application stations and associated curing ovens. The Surface Coating of Metal Coil NESHAP provides that emission limits can be achieved using several different options: (1) Use only individually compliant coatings with an organic HAP content that does not exceed 0.046 kilogram (kg)/liter of solids applied, (2) use coatings with an average organic HAP content that does not exceed 0.046 kg/liter of solids on a rolling 12-month average, (3) use a capture system and add-on control device to either reduce emissions by 98 percent or use a 100-percent efficient capture system (permanent total enclosure (PTE)) and an oxidizer to reduce organic HAP emissions to no more than 20 parts per million by volume as carbon, or (4) use a combination of compliant coatings and control devices to maintain an average equivalent emission rate of organic HAP not exceeding 0.046 kg/liter of solids on a rolling 12-month average basis. These compliance options apply to an individual coil coating line, to multiple lines as a group, or to the entire affected source.

C. What changes did we propose for the source categories in our June 4, 2019, RTR proposal?

On June 4, 2019, the EPA published proposed rule amendments in the Federal Register for the Surface Coating of Metal Cans NESHAP, 40 CFR part 63, subpart KKKK, and the Surface Coating of Metal Coil NESHAP, 40 CFR part 63, subpart SSSS, that took into consideration the RTR analyses.

For each source category, we proposed that the risks are acceptable, and that additional emission controls for each source category are not necessary to provide an ample margin of safety. For the technology reviews, we did not identify any developments in practices, processes, or control technologies, and, therefore, we did not propose any changes to the standards under CAA section 112(d)(6).

We also proposed the following amendments:

• For each source category, a requirement for electronic submittal of notifications, semi-annual reports, and compliance reports (which include performance test reports);

• for each source category, revisions to the SSM provisions of each NESHAP in order to ensure that they are consistent with the Court decision in Sierra Club v. EPA, 551 F. 3d 1019 (D.C. Cir. 2008), which vacated two provisions that exempted source owners and operators from the requirement to comply with otherwise applicable CAA section 112(d) emission standards during periods of SSM;

• for the Surface Coating of Metal Coil NESHAP, adding the option of conducting EPA Method 18 of appendix A to 40 CFR part 60, “Measurement of Gaseous Organic Compound Emissions by Gas Chromatography,” to measure and then subtract methane emissions from measured total gaseous organic mass emissions as carbon;

• for the Surface Coating of Metal Coil NESHAP, revising 40 CFR 63.5090 to clarify that the NESHAP does not apply to the application of markings (including letters, numbers, or symbols) to bare metal coils that are used for product identification or for product inventory control;

• for each source category, removing references to paragraph (d)(4) of the Occupational Safety and Health Administration's (OSHA's) Hazard Communication standard (29 CFR 1910.1200), which dealt with OSHA-defined carcinogens, and replacing that reference with a list of HAP that must be regarded as potentially carcinogenic based on EPA guidelines;

• for each source category, a requirement to conduct performance testing and reestablish operating limits no less frequently than every 5 years for sources that are using add-on controls to demonstrate compliance; and

• for each source category, Incorporation by Reference (IBR) of alternative test methods and references to updated alternative test methods; and several minor editorial and technical changes in each subpart.

III. What is included in these final rules?

This action finalizes the EPA's determinations pursuant to the RTR provisions of CAA section 112 for the Surface Coating of Metal Cans source category and the Surface Coating of Metal Coil source category. This action also finalizes other changes to the NESHAP for each source category, including:

• A requirement for electronic submittal of notifications, semi-annual reports, and compliance reports (which include performance test reports);

• revisions to the SSM provisions;

• removing references to paragraph (d)(4) of OSHA's Hazard Communication standard (29 CFR 1910.1200), which dealt with OSHA-defined carcinogens, and replacing that reference with a list of HAP that must be regarded as potentially carcinogenic based on EPA guidelines;

• adding a requirement to conduct performance testing and reestablish operating limits no less frequently than every 5 years for sources that are using add-on controls to demonstrate compliance, unless they are already required to perform comparable periodic testing as a condition of renewing their title V operating permit;

• IBR of alternative test methods and references to updated alternative test methods; and

• several minor editorial and technical changes.

This action also finalizes the proposed changes to the NESHAP for the Surface Coating of Metal Coil source category by adding the option of conducting EPA Method 18 of appendix A to 40 CFR part 60, “Measurement of Gaseous Organic Compound Emissions by Gas Chromatography,” to measure and then subtract methane emissions from measured total gaseous organic mass emissions as carbon; and by revising 40 CFR 63.5090 to clarify that the NESHAP does not apply to the application of markings (including letters, numbers, or symbols) to bare metal coils that are used for product identification or for product inventory control.

A. What are the final rule amendments based on the risk reviews for the Surface Coating of Metal Cans and Surface Coating of Metal Coil source categories?

This section describes the final amendments to the Surface Coating of Metal Cans NESHAP (subpart KKKK) and the Surface Coating of Metal Coil NESHAP (subpart SSSS) being promulgated pursuant to CAA section 112(f). In this action, we are finalizing our proposed determinations that risks from these two subparts are acceptable, and that the standards provide an ample margin of safety to protect public health and to prevent an adverse environmental effect. The EPA proposed no changes to these two subparts based on the risk reviews conducted pursuant to CAA section 112(f). The EPA received no new data or other information during the public comment period that causes us to change those proposed determinations. Therefore, we are not requiring additional controls under CAA section 112(f)(2) for either of the two subparts in this action.

B. What are the final rule amendments based on the technology reviews for the Surface Coating of Metal Cans and the Surface Coating of Metal Coil source categories?

We determined that there are no developments in practices, processes, and control technologies that warrant revisions to the MACT standards for these source categories. Therefore, we are not finalizing revisions to the MACT standards under CAA section 112(d)(6).

C. What are the final rule amendments addressing emissions during periods of startup, shutdown, and malfunction?

We are finalizing the proposed amendments to the Surface Coating of Metal Cans NESHAP and the Surface Coating of Metal Coil NESHAP to eliminate the SSM exemption. Consistent with Sierra Club v. EPA, 551 F. 3d 1019 (D.C. Cir. 2008), the EPA is establishing standards in these rules that apply at all times. As detailed in section IV.C of the proposal preamble (84 FR 25904, June 4, 2019), Table 5 to Subpart KKKK of Part 63 and Table 2 to Subpart SSSS of Part 63 (General Provisions applicability tables) are being revised to change several references related to the provisions that apply during periods of SSM. We also eliminated or revised certain recordkeeping and reporting requirements related to the eliminated SSM exemption. The EPA also made other harmonizing changes to remove or modify inappropriate, unnecessary, or redundant language in the absence of the SSM exemption. We determined that facilities in both of these source categories can meet the applicable emission standards in the Surface Coating of Metal Cans NESHAP and the Surface Coating of Metal Coil NESHAP at all times, including periods of startup and shutdown. Therefore, the EPA determined that no additional standards are needed to address emissions during these periods. The legal rationale and explanation of the changes for SSM periods are set forth in the proposed rule. See 84 FR 25925 through 25929 and 25936 through 25939.

Further, the EPA is not finalizing standards for malfunctions. As discussed in section IV.C of the June 4, 2019, proposal preamble, the EPA interprets CAA section 112 as not requiring emissions that occur during periods of malfunction to be factored into development of CAA section 112 standards, although the EPA has the discretion to set standards for malfunctions where feasible. For these source categories, it is unlikely that a malfunction would result in a violation of the standards, and no comments or information were submitted that support a contrary conclusion. Refer to section IV.C of the June 4, 2019 proposal preamble for further discussion of the EPA's rationale for the decision not to set standards for malfunctions, as well as a discussion of the actions a source could take in the unlikely event that a source fails to comply with the applicable CAA section 112(d) standards as a result of a malfunction event, given that administrative and judicial procedures for addressing exceedances of the standards fully recognize that violations may occur despite good faith efforts to comply and the EPA can consider all relevant information when determining the appropriate response to those situations.

We are finalizing a revision to the performance testing requirements at 40 CFR 63.4164 and 40 CFR 63.5160. The final performance testing provisions prohibit performance testing during startup, shutdown, or malfunction as these conditions are not representative of steady state operating conditions. The final rules also require that operators maintain records to document that operating conditions during performance tests represent steady state conditions.

D. What other changes have been made to the NESHAPs?

For both the Surface Coating of Metal Cans NESHAP and the Surface Coating of Metal Coil NESHAP, the EPA is finalizing, as proposed, several other revisions that are described in the following paragraphs.

To increase the ease and efficiency of data submittal and data accessibility, we are finalizing a requirement that owners and operators of facilities in the Surface Coating of Metal Cans and Surface Coating of Metal Coil source categories submit electronic copies of required performance test reports through the EPA's Central Data Exchange (CDX) website using an electronic performance test report tool called the Electronic Reporting Tool (ERT). We also are finalizing, as proposed, provisions that allow facility operators the ability to seek extensions for submitting electronic reports for circumstances beyond the control of the facility, i.e., for a possible outage in the CDX or Compliance and Emissions Data Reporting Interface (CEDRI) or for a force majeure event in the time just prior to a report's due date, as well as the process to assert such a claim.

For each subpart, we also are changing the format of references to test methods in 40 CFR part 60, appendix A to indicate where, in the eight sections of appendix A, each method is found.

For each subpart, we are finalizing the proposal to re-designate the list of applicable organic HAP that must be used when a facility chooses to use the compliant material option (i.e., for calculating total organic HAP content of a coating material present at 0.1 percent or greater by mass). To specify the applicable HAP, we are changing the rule to remove the reference to paragraph (d)(4) of OSHA's Hazard Communication standard (29 CFR 1910.1200) and replace it with a new table in each subpart (Table 8 in 40 CFR part 63, subpart KKKK and Table 3 in 40 CFR part 63, subpart SSSS) that lists the applicable HAP. The organic HAP in these new tables are those HAP that were categorized in the EPA's “Prioritized Chronic Dose-Response Values for Screening Risk Assessments” (dated May 9, 2014) as a “human carcinogen,” “probable human carcinogen,” or “possible human carcinogen” according to The Risk Assessment Guidelines of 1986 (EPA/600/8-87/045, August 1987) ² or as “carcinogenic to humans,” “likely to be carcinogenic to humans,” or with “suggestive evidence of carcinogenic potential” according to the Guidelines for Carcinogen Risk Assessment (EPA/630/P-03/001F, March 2005).

² See https://www.epa.gov/fera/dose-response-assessment-assessing-health-risks-associated-exposure-hazardous-air-pollutants.

We are including in the final rule for each subpart a requirement for facilities that use control devices to conduct control device performance testing no less frequently than once every 5 years. For facilities with title V permits that require comparable periodic testing prior to permit renewal, no additional testing is required, and we included provisions in the rule to allow sources to harmonize the NESHAP testing schedule with a facility's current title V testing schedule.

1. Technical Amendments to the Surface Coating of Metal Cans NESHAP

In the final rule, we are amending 40 CFR 63.3481(c)(5), as proposed, to revise the reference to “future subpart MMMM” of this part by removing the word “future” because subpart MMMM was promulgated in 2004.

We are revising the monitoring provisions for thermal and catalytic oxidizers, as proposed, to clarify that a thermocouple is part of the temperature sensor referred to in 40 CFR 63.3547(c)(3) and 40 CFR 63.3557(c)(3) for purposes of performing periodic calibration and verification checks.

Currently, 40 CFR 63.3513(a) allows records, “where appropriate,” to be maintained as “electronic spreadsheets” or a “database.” As proposed, we are adding a clarification to this provision that the allowance to retain electronic records applies to all records that were submitted as reports electronically via the EPA's CEDRI. We are also adding text to the same provision, as proposed, clarifying that this ability to maintain electronic copies does not affect the requirement for facilities to make records, data, and reports available upon request to a delegated air agency or the EPA as part of an on-site compliance evaluation.

In the final rule, as proposed, we are adding and updating test methods that are incorporated by reference. In accordance with requirements of 1 CFR 51.5, the EPA is incorporating by reference the following voluntary consensus standards (VCS) described in the amendments to 40 CFR 63.14:

• ASTM D1475-13, Standard Test Method for Density of Liquid Coatings, Inks, and Related Products, proposed to be IBR approved for 40 CFR 63.3521(c) and 63.3531(c);

• ASTM D2111-10 (2015), Standard Test Methods for Specific Gravity and Density of Halogenated Organic Solvents and Their Admixtures, proposed to be IBR approved for 40 CFR 63.3521(c) and 63.3531(c);

• ASTM D2369-10 (2015), Test Method for Volatile Content of Coatings, proposed to be IBR approved for 40 CFR 63.3521(a)(2) and 63.3541(i)(3);

• ASTM D2697-03 (2014), Standard Test Method for Volume Nonvolatile Matter in Clear or Pigmented Coatings, proposed to be IBR approved for 40 CFR 63.3521(b)(1); and

• ASTM D6093-97 (2016), Standard Test Method for Percent Volume Nonvolatile Matter in Clear or Pigmented Coatings Using Helium Gas Pycnometer, proposed to be IBR approved for 40 CFR 63.3521(b)(1).

2. Technical Amendments to the Surface Coating of Metal Coil NESHAP

We are finalizing, as proposed, changes to 40 CFR 63.5090 to clarify that 40 CFR part 63, subpart SSSS does not apply to the application to bare metal coils of markings (including letters, numbers, or symbols) that are used for product identification or for product inventory control.

We are finalizing amendments to 40 CFR 63.5160(d) in 40 CFR part 63, subpart SSSS, as proposed, to add the option of conducting EPA Method 18 of appendix A to 40 CFR part 60, “Measurement of Gaseous Organic Compound Emissions by Gas Chromatography,” to measure and then subtract methane emissions from measured total gaseous organic mass emissions, as carbon, for those facilities using the emission rate with add-on control compliance option and EPA Method 25A to measure control device destruction efficiency.

Currently 40 CFR 63.5190 specifies records that must be maintained. We are adding, as proposed, clarification to 40 CFR 63.5190(c) that specifies the allowance to retain electronic records applies to all records that were submitted as reports electronically via the EPA's CEDRI. We are also adding text to the same provision clarifying that this ability to maintain electronic copies does not affect the requirement for facilities to make records, data, and reports available upon request to a delegated air agency or the EPA as part of an on-site compliance evaluation.

We are clarifying and harmonizing, as proposed, the general duty requirement in 40 CFR 63.5140(a) with the reporting requirements in 40 CFR 63.5180(g)(2)(v) and 40 CFR 63.5180(h)(4) and the recordkeeping requirement in 40 CFR 63.5190(a)(5), by including new language in 40 CFR 63.5140(a) to read as, “. . . you must be in compliance with the applicable emission standards in § 63.5120 and the operating limits in Table 1 of this subpart at all times.”

We are revising, as proposed, the text in the semi-annual reporting provisions of 40 CFR 63.5180(g)(2)(v) to read, “A statement that there were no deviations from the applicable emission limit in § 63.5120 or the applicable operating limit(s) established according to § 63.5121 during the reporting period, and that no continuous emissions monitoring systems (CEMS) were inoperative, inactive, malfunctioning, out-of-control, repaired, or adjusted.” Conforming changes are also being made to the reporting requirement at 40 CFR 63.5180(h)(4) and the recordkeeping requirement at 40 CFR 63.5190(a)(5).

We are revising, as proposed, one instance in 40 CFR 63.5160(e) in which an erroneous rule citation, “§ 63.5170(h)(2) through (4),” is made by correcting the citation to “§ 63.5170(g)(2) through (4).”

We are amending, as proposed, 40 CFR 63.5130(a) to clarify that the compliance date for existing affected sources is June 10, 2005.

We are amending, as proposed, 40 CFR 63.5160(d)(3)(ii)(D) to correct a typographical error in a reference to paragraphs “(d)(3)(ii)(D)(1 (3).” The correct reference is to paragraphs (d)(3)(ii)(D)(1)-(3).

We are amending, as proposed, 40 CFR 63.5170(c)(1) and (2) to correct the cross references to 40 CFR 63.5120(a)(1) or (2). The correct cross references are to 40 CFR 63.5120(a)(1) or (3).

We are amending, as proposed, Equation 11 in 40 CFR 63.5170 so that the value calculated by the equation is correctly identified as “He” instead of just “e.”

In the final rule, as proposed, we are adding and updating test methods that are incorporated by reference. In accordance with requirements of 1 CFR 51.5, the EPA is incorporating by reference the following methods and VCS described in the amendments to 40 CFR 63.14:

• ASTM D1475-13, Standard Test Method for Density of Liquid Coatings, Inks, and Related Products, proposed to be IBR approved for 40 CFR 63.5160(c);

• ASTM D2111-10 (2015), Standard Test Methods for Specific Gravity and Density of Halogenated Organic Solvents and Their Admixtures, proposed to be IBR approved for 40 CFR 63.5160(c);

• ASTM D2369-10 (2015), Test Method for Volatile Content of Coatings, proposed to be IBR approved for 40 CFR 63.5160(b)(2);

• ASTM D2697-03 (2014), Standard Test Method for Volume Nonvolatile Matter in Clear or Pigmented Coatings, proposed to be IBR approved for 40 CFR 63.5160(c); and

• ASTM D6093-97 (2016), Standard Test Method for Percent Volume Nonvolatile Matter in Clear or Pigmented Coatings Using Helium Gas Pycnometer, proposed to be IBR approved for 40 CFR 63.5160(c).

E. What are the effective and compliance dates of the revisions to the standards?

The revisions to the MACT standards being promulgated in this action are effective on February 25, 2020.

The compliance date for existing affected sources in both the Surface Coating of Metal Cans and Surface Coating of Metal Coil source categories is August 24, 2020, with the exception of the electronic format for submitting semiannual compliance reports. New sources must comply with all of the standards immediately upon the effective date of the standard, February 25, 2020, or upon startup, whichever is later, with the exception of the electronic format for submitting semiannual compliance reports. For the electronic format for submitting semiannual compliance reports, both existing and new affected sources will have 1 year after the electronic reporting templates are available on CEDRI, or 1 year after February 25, 2020, whichever is later. The EPA selected these compliance dates based on experience with similar industries and the EPA's detailed justification for the selected compliance dates is included in the preamble to the proposed rule (84 FR 25931 and 25942).

F. What are the requirements for submission of performance test data to the EPA?

As proposed, the EPA is taking a step to increase the ease and efficiency of data submittal and data accessibility. Specifically, the EPA is finalizing the requirement for owners and operators of facilities in the Surface Coating of Metal Cans and Surface Coating of Metal Coil source categories to submit electronic copies of certain required performance test reports.

Data will be collected by direct computer-to-computer electronic transfer using EPA-provided software. This EPA-provided software is an electronic performance test report tool called the ERT. The ERT will generate an electronic report package which will be submitted to CEDRI and then archived to the EPA's CDX. A description of the ERT and instructions for using ERT can be found at https://www3.epa.gov/ttn/chief/ert/index.html. The CEDRI interface can be accessed through the CDX website (https://cdx.epa.gov/).

The requirement to submit performance test data electronically to the EPA does not create any additional performance testing requirements and will apply only to those performance tests conducted using test methods that are supported by the ERT. A listing of the pollutants and test methods supported by the ERT is available at the ERT website. Through this approach, industry will save time in the performance test submittal process. Additionally, this rulemaking will benefit industry by reducing recordkeeping costs, as the performance test reports that are submitted to the EPA using CEDRI are no longer required to be kept in hard copy.

State, local, and tribal agencies may benefit from a more streamlined and accurate review of performance test data that will become available to the public through WebFIRE. Having such data publicly available enhances transparency and accountability. For a more thorough discussion of electronic reporting of performance tests using direct computer-to-computer electronic transfer and using EPA-provided software, see the discussion in the preamble of the proposed rules (84 FR 25904, June 24, 2019) and the memorandum, Electronic Reporting Requirements for New Source Performance Standards (NSPS) and National Emission Standards for Hazardous Air Pollutants (NESHAP) Rules, August 8, 2018, in the Surface Coating of Metal Cans and Surface Coating of Metal Coil Dockets.

In summary, in addition to supporting regulation development, control strategy development, and other air pollution control activities, having an electronic database populated with performance test data will save industry, state/local/tribal agencies, and the EPA significant time, money, and effort while improving the quality of emission inventories and air quality regulations.

IV. What is the rationale for our final decisions and amendments for the Surface Coating of Metal Cans and Surface Coating of Metal Coil source categories?

For each issue, this section provides a description of what we proposed and what we are finalizing for the issue, the EPA's rationale for the final decisions and amendments, and a summary of key comments and responses. For all comments not discussed in this preamble, comment summaries and the EPA's responses can be found in the comment summary and response document available in the Surface Coating of Metal Cans and Surface Coating of Metal Coil Dockets.

A. Residual Risk Reviews

1. What did we propose pursuant to CAA section 112(f)?

a. Surface Coating of Metal Cans (40 CFR Part 63, subpart KKKK) Source Category

Pursuant to CAA section 112(f), the EPA conducted a residual risk review and presented the results of this review, along with our proposed decisions regarding risk acceptability and ample margin of safety, in sections IV.A.2.a and b of the proposed rule preamble (84 FR 25904, June 24, 2019). The results of this review are presented briefly below in Table 2 of this preamble. Additional detail is provided in the residual risk technical support document titled, Residual Risk Assessment for the Surface Coating of Metal Cans Source Category in Support of the 2019 Risk and Technology Review Proposed Rule, which is available in the Surface Coating of Metal Cans Docket.

Table 2—Surface Coating of Metal Cans Source Category Inhalation Risk Assessment Results at Proposal
Risk assessment | Maximum individual cancer risk (in 1 million): Based on actual emissions | Maximum individual cancer risk (in 1 million): Based on allowable emissions | Estimated population at increased risk of cancer ≥1-in-1 million: Based on actual emissions | Estimated population at increased risk of cancer ≥1-in-1 million: Based on allowable emissions | Estimated annual cancer incidence (cases per year): Based on actual emissions | Estimated annual cancer incidence (cases per year): Based on allowable emissions | Maximum chronic noncancer TOSHI ¹: Based on actual emissions | Maximum chronic noncancer TOSHI ¹: Based on allowable emissions | Maximum screening acute noncancer HQ ²
Source Category | 3 | 3 | 700 | 800 | 0.0009 | 0.001 | 0.02 | 0.02 | HQREL = 0.4.
Whole Facility | 8 |  | 1,500 |  | 0.002 |  | 0.2 |  |
¹ The target organ-specific hazard index (TOSHI) is the sum of the chronic noncancer hazard quotients (HQ) values for substances that affect the same target organ or organ system.
² The maximum estimated acute exposure concentration was divided by available short-term threshold values to develop HQ values (HQREL = hazard quotient reference exposure level).

The results of the proposal inhalation risk modeling using actual emissions data, as shown in Table 2 of this preamble, indicate that the maximum individual cancer risk based on actual emissions (lifetime) is 3-in-1 million (driven by formaldehyde), the maximum chronic noncancer TOSHI value based on actual emissions is 0.02 (driven by formaldehyde), and the maximum screening acute noncancer HQ value (off-facility site) could be up to 0.4 (driven by formaldehyde). At proposal, the total annual cancer incidence (national) from these facilities based on actual emission levels was estimated to be 0.0009 excess cancer cases per year, or one case in every 1,100 years.

The results of the proposal inhalation risk modeling using allowable emissions data, as shown in Table 2 of this preamble, indicate that the maximum individual cancer risk based on allowable emissions (lifetime) is 3-in-1 million (driven by formaldehyde), and the maximum chronic noncancer TOSHI value based on allowable emissions is 0.02 (driven by formaldehyde). At proposal, the total annual cancer incidence (national) from these facilities based on allowable emissions was estimated to be 0.001 excess cancer cases per year, or one case in every 1,000 years.

The maximum individual cancer risk (lifetime) for the whole facility was determined to be 8-in-1 million at proposal, driven by formaldehyde from miscellaneous industrial processes (other/not classified) and acetaldehyde from beer production (brew kettle). At proposal, the total estimated cancer incidence from the whole facility was determined to be 0.002 excess cancer cases per year, or one excess case in every 500 years. Approximately 1,500 people were estimated to have cancer risks above 1-in-1 million from exposure to HAP emitted from both MACT and non-MACT sources at three of the five facilities in this source category. The maximum facility-wide TOSHI for the source category was estimated to be 0.2, mainly driven by emissions of acetaldehyde from beer production (brew kettle) and formaldehyde from miscellaneous industrial processes (other/not classified).

There are no persistent and bioaccumulative HAP (PB HAP) emitted by facilities in this source category; therefore, we did not estimate any human health multi-pathway risks from this source category. Two environmental HAP are emitted by sources within this source category: Hydrochloric acid (HCl) and hydrogen fluoride (HF). Therefore, at proposal, we conducted a screening-level evaluation of the potential adverse environmental risks associated with emissions of HCl and HF. Based on this evaluation, we proposed that we do not expect an adverse environmental effect as a result of HAP emissions from this source category.

We weighed all health risk factors, including those shown in Table 2 of this preamble, in our risk acceptability determination and proposed that the residual risks from the Surface Coating of Metal Cans source category are acceptable (section IV.A.2.a of proposal preamble, 84 FR 25922, June 4, 2019).

We then considered whether 40 CFR part 63, subpart KKKK provides an ample margin of safety to protect public health and prevents, taking into consideration costs, energy, safety, and other relevant factors, an adverse environmental effect. In considering whether the standards should be tightened to provide an ample margin of safety to protect public health, we considered the same risk factors that we considered for our acceptability determination and also considered the costs, technological feasibility, and other relevant factors related to emissions control options that might further reduce risk associated with emissions from the source category. Related to risk, the baseline risks were low, and regardless of the availability of further control options, little risk reduction could be realized. As discussed further in section IV.B of this preamble, the only development identified in the technology review was the ongoing development and the potential future conversion from conventional interior can coatings that contain bisphenol A (BPA) to interior coatings that do not intentionally contain BPA (BPA-NI). Since BPA and BPA-NI are not HAP, this change would have no effect on the HAP emissions. There were no other technological developments identified that affect HAP emissions for the Surface Coating of Metal Cans source category. Therefore, given the low baseline risks and lack of options for further risk reductions, we proposed that additional emission controls for this source category are not necessary to provide an ample margin of safety (section IV.A.2.b of proposal preamble, 84 FR 25922, June 4, 2019).

b. Surface Coating of Metal Coil (40 CFR Part 63, Subpart KKKK) Source Category

Pursuant to CAA section 112(f), the EPA conducted a residual risk review and presented the results of this review, along with our proposed decisions regarding risk acceptability and ample margin of safety, in sections IV.B.2.a and b of the proposed rule preamble (84 FR 25904, June 24, 2019). The results of this review are presented briefly below in Table 3 of this preamble. Additional detail is provided in the residual risk technical support document titled, Residual Risk Assessment for the Surface Coating of Metal Coil Source Category in Support of the 2019 Risk and Technology Review Proposed Rule, which is available in the Surface Coating of Metal Coil Docket.

Table 3—Surface Coating of Metal Coil Source Category Inhalation Risk Assessment Results at Proposal
Risk assessment | Maximum individual cancer risk (in 1 million): Based on actual emissions | Maximum individual cancer risk (in 1 million): Based on allowable emissions | Estimated population at increased risk of cancer ≥ 1-in-1 million: Based on actual emissions | Estimated population at increased risk of cancer ≥ 1-in-1 million: Based on allowable emissions | Estimated annual cancer incidence (cases per year): Based on actual emissions | Estimated annual cancer incidence (cases per year): Based on allowable emissions | Maximum chronic noncancer TOSHI ¹: Based on actual emissions | Maximum chronic noncancer TOSHI ¹: Based on allowable emissions | Maximum screening acute noncancer HQ ²
Source Category | 10 | 10 | 19,000 | 24,000 | 0.005 | 0.006 | 0.1 | 0.1 | HQREL = 3.
Whole Facility | 40 |  | 270,000 |  | 0.03 |  | 5 |  |
¹ The TOSHI is the sum of the chronic noncancer HQ values for substances that affect the same target organ or organ system.
² The maximum estimated acute exposure concentration was divided by available short-term threshold values to develop HQ values (HQREL = hazard quotient reference exposure level).

The results of the proposal inhalation risk modeling using actual emissions data, as shown in Table 3 of this preamble, indicate that the maximum individual cancer risk based on actual emissions (lifetime) is 10-in-1 million (driven by naphthalene from solvent storage), the maximum chronic noncancer TOSHI value based on actual emissions is 0.1 (driven by glycol ethers from prime and finish coating application), and the maximum screening acute noncancer HQ value (off-facility site) could be up to 3 (driven by DGME). At proposal, the total annual cancer incidence (national) from these facilities based on actual emission levels was estimated to be 0.005 excess cancer cases per year, or one case in every 200 years.

The results of the proposal inhalation risk modeling using allowable emissions data, as shown in Table 3 of this preamble, indicate that the maximum individual cancer risk based on allowable emissions (lifetime) is 10-in-1 million (driven by naphthalene from solvent storage), and the maximum chronic noncancer TOSHI value based on allowable emissions is 0.1 (driven by glycol ethers from prime and finish coating application). At proposal, the total annual cancer incidence (national) from these facilities based on allowable emissions was estimated to be 0.006 excess cancer cases per year, or one case in every 167 years.

The maximum individual cancer risk (lifetime) for the whole facility was determined to be 40-in-1 million at proposal, driven by naphthalene from equipment cleanup of metal coil coating processes. At proposal, the total estimated cancer incidence from the whole facility was determined to be 0.03 excess cancer cases per year, or one excess case in every 30 years. Approximately 270,000 people were estimated to have cancer risks above 1-in-1 million from exposure to HAP emitted from both MACT and non-MACT sources of the 48 facilities in this source category. The maximum facility-wide TOSHI for the source category was estimated to be 5, driven by emissions of chlorine from a secondary aluminum fluxing process.

One PB HAP is emitted by facilities in the source category: lead. In evaluating the potential for multipathway effects from emissions of lead, the modeled maximum annual lead concentration of 0.0004 micrograms per cubic meter (µg/m³) was compared to the National Ambient Air Quality Standards (NAAQS) for lead of 0.15 microgram per cubic meter (µg/m³). Results of this analysis confirmed that the NAAQS for lead would not be exceeded by any facility. Based on this evaluation, we proposed that there is no significant potential for human health multi-pathway risks as a result of HAP emissions from this source category. Two environmental HAP are emitted by sources within this source category: HF and lead. Therefore, at proposal we conducted a screening-level evaluation of the potential adverse environmental risks associated with emissions of HF and lead. Based on this evaluation, we proposed that we do not expect an adverse environmental effect as a result of HAP emissions from this source category.

We weighed all health risk factors, including those shown in Table 3 of this preamble, in our risk acceptability determination and proposed that the residual risks from the Surface Coating of Metal Coil source category are acceptable (section IV.B.2.a of proposal preamble, 84 FR 25933 June 4, 2019).

We then considered whether 40 CFR part 63, subpart SSSS provides an ample margin of safety to protect public health and prevents, taking into consideration costs, energy, safety, and other relevant factors, an adverse environmental effect. In considering whether the standards should be tightened to provide an ample margin of safety to protect public health, we considered the same risk factors that we considered for our acceptability determination and also considered the costs, technological feasibility, and other relevant factors related to emissions control options that might further reduce risk associated with emissions from the source category. As discussed further in section IV.B of this preamble, based on our technology review, we did not identify any developments in practices, processes, or control technologies, and, therefore, we did not propose any changes to the standards under CAA section 112(d)(6).

Due to the low baseline risks for the Surface Coating of Metal Coil source category and lack of options for further risk reductions, we proposed that additional emission controls for this source category are not necessary to provide an ample margin of safety (section IV.B.2.b of proposal preamble, 84 FR 25934, June 4, 2019).

2. How did the risk reviews change?

We have not changed any aspect of the risk assessment for either of these two source categories as a result of public comments received on the June 2019 proposal.

3. What key comments did we receive on the risk reviews, and what are our responses?

We received comments in support of and against the proposed residual risk reviews and our determinations that no revisions were warranted under CAA section 112(f)(2) for either source category. Generally, the comments that were not supportive of our determinations based on the risk reviews suggested changes to the underlying risk assessment methodology. For example, one commenter stated that the EPA should lower the acceptability benchmark so that risks below 100-in-1 million are deemed unacceptable, include emissions outside of the source categories in question in the risk assessment, and assume that pollutants with noncancer health risks have no safe level of exposure. After review of all the comments received, we determined that no changes to our Science Advisory Board-approved residual risk review process were necessary. The comments and our specific responses can be found in the document, Summary of Public Comments and Responses for the Risk and Technology Reviews for Surface Coating of Metal Cans and Surface Coating of Metal Coil, available in the dockets for these actions (Docket ID Nos. EPA-HQ-OAR-2017-0684 and EPA-HQ-OAR-2017-0685).

4. What is the rationale for our final approach and final decisions for the risk reviews?

As noted in our proposal, the EPA sets standards under CAA section 112(f)(2) using “a two-step standard-setting approach, with an analytical first step to determine an `acceptable risk' that considers all health information, including risk estimation uncertainty, and includes a presumptive limit on the maximum individual risk (MIR) of “approximately 1-in-10 thousand” (see 54 FR 38045, September 14, 1989). We weigh all health risk factors in our risk acceptability determination, including the cancer MIR, cancer incidence, the maximum chronic noncancer TOSHI, the maximum acute noncancer HQ, the extent of noncancer risks, the distribution of cancer and noncancer risks in the exposed population, and the risk estimation uncertainties.

Since proposal, neither the risk assessment nor our determinations regarding risk acceptability, ample margin of safety, or adverse environmental effects have changed. For the reasons explained in the proposed rule, we determined that the risks from the Surface Coating of Metal Cans and the Surface Coating of Metal Coil source categories are acceptable, and that the current standards provide an ample margin of safety to protect public health and prevent an adverse environmental effect. Therefore, we are not revising either subpart to require additional controls pursuant to CAA section 112(f)(2) based on the residual risk review, and we are readopting the existing standards under CAA section 112(f)(2).

B. Technology Reviews

1. What did we propose pursuant to CAA section 112(d)(6)?

Based on our review, we did not identify any developments in practices, processes, or control technologies for the Surface Coating of Metal Cans source category, and, therefore, we did not propose any changes to the standards under CAA section 112(d)(6). A brief summary of the EPA's findings in conducting the technology review of metal can coating operations was included in the preamble to the proposed rule (84 FR 25922, June 4, 2019), and a detailed discussion of the EPA's technology review and findings was included in the memorandum, Technology Review for Surface Coating Operations in the Metal Can Category, April 24, 2019, in the Surface Coating of Metal Cans Docket.

Based on our review, we did not identify any developments in practices, processes, or control technologies for the Surface Coating of Metal Coil source category, and, therefore, we did not propose any changes to the standards under CAA section 112(d)(6). A brief summary of the EPA's findings in conducting the technology review of coil coating operations was included in the preamble to the proposed rule (84 FR 25934, June 4, 2019), and a detailed discussion of the EPA's technology review and findings was included in the memorandum, Technology Review for Surface Coating Operations in the Metal Coil Category, September 2017, in the Surface Coating of Metal Coil Docket.

2. How did the technology reviews change?

We are making no changes to the conclusions of the technology reviews and are finalizing the results of the technology reviews for the Surface Coating of Metal Cans and Surface Coating of Metal Coil source categories as proposed.

3. What key comments did we receive on the technology reviews, and what are our responses?

We received two general comments supporting the results of our technology reviews for metal cans and metal coil surface coating and one comment objecting to our conclusions that there have been no technology developments in these two source categories.

Comment: One commenter alleged that the EPA has not met the legal obligation under CAA section 112(d)(6) to review and revise emission standards “as necessary” to account for “developments in practices, processes, and control technologies.” The commenter objected that the EPA proposed no revisions to the emission limits and claimed the EPA provided no legally valid or rational explanation for its determination of a lack of “developments” for these two source categories. The commenter pointed out that the EPA identified several HAP control advancements, including alternative coatings, developments for similar source categories, and work practices and housekeeping measures for metal coil facilities, which would reduce emissions and are in use at a number of facilities, yet failed to determine that it was “necessary” to revise the standard. In addition, the commenter alleged that the EPA technology review analysis did not consider some relevant sources to determine “developments.” As examples, the commenter stated that the EPA did not analyze any control methods or requirements from other national or state or local jurisdictions that might have proven more effective; did not appear to analyze the different methods or brands of emission controls implemented to see which was most effective, efficient, or reliable; and did not examine facility procedures or best practices, including records of malfunctions, to identify best practices to mitigate malfunctions.

Response: We disagree with the commenter that the EPA has failed to meet the CAA's legal obligation to complete the technology reviews for the Surface Coating of Metal Cans and Surface Coating of Metal Coil source categories. The EPA concluded there were no HAP control advancements for these source categories as a result of the technology reviews. The technology reviews included review of coatings currently used by these source categories and any advancements in the coatings; review of HAP control requirements in NESHAP for similar coating source categories and application of those HAP controls to the Surface Coating of Metal Cans and Surface Coating of Metal Coil source categories; state and local HAP control requirements in facility title V operating permits and application of those HAP controls to the Surface Coating of Metal Cans and Surface Coating of Metal Coil source categories; and work practices and housekeeping measures currently used by these source categories and any advances that were applicable to these source categories.

As stated in the proposal preamble (84 FR 25935) for the Surface Coating of Metal Coil source category, alternatives to solvent borne coatings have been in use by the coil coating industry since development of the 2002 Surface Coating of Metal Coil NESHAP but are not considered to be suitable for all end-product applications. The 2002 proposed NESHAP provided an alternative facility HAP emission limit of 0.24 pounds of HAP per gallon of solids applied which was established to provide a compliance option for facilities that chose to limit their coating line HAP emissions either through a combination of low-HAP coatings and add-on controls or through the use of waterborne, high solids, or other pollution prevention coatings. The EPA found no developments in alternative coating technologies during the technology review that would result in achievable emission rates that are substantially lower than those reflected in the current emission limits.

The commenter also asserted that the EPA did not consider developments in control methods for similar source categories and did not analyze the regulations set by state or local jurisdictions that might have proven more effective than the NESHAP requirements. We disagree with the commenter and refer the commenter to the technology review memorandums titled Technology Review for Surface Coating Operations in the Metal Can Category and Technology Review for Surface Coating Operations in the Metal Coil Category which summarizes the EPA's review of the title V operating permits for the five metal can facilities and for 39 metal coil facilities that are major sources and subject to these NESHAP. The title V operating permits incorporate all relevant local, state, or Regional emission limitations, as well as federal limitations. In no case did the EPA find a facility subject to a HAP limit more stringent than the limits in the current NESHAP or a facility using a control technology that was not considered during development of the NESHAP and reflected in the current standards. The results of the technology reviews were documented in these memorandums in the respective docket for each proposed rule.

The technology basis for MACT for metal coil coating operations in the 2002 Surface Coating of Metal Coil NESHAP was emission capture and add on control with an overall control efficiency of 98 percent for new or reconstructed sources and existing sources. This overall control efficiency represents the use of PTE to achieve 100-percent capture of application station HAP emissions and a thermal oxidizer to achieve a destruction efficiency of 98 percent. No technology was identified during the technology review that could achieve a better overall control efficiency than the use of a PTE to capture HAP emissions from the coating application station and a thermal oxidizer to destroy HAP emissions from the coating application and the curing oven.

It would not be feasible, nor is it required under CAA section 112(d)(6), for the EPA to evaluate HAP control advancement by examining different brands of emission controls to see which was most effective, efficient, or reliable, as suggested by the commenter. Similarly, it would not be feasible to examine facility procedures or best practices, nor review records of malfunctions to identify best practices to mitigate malfunctions. That information is not currently available to the EPA. If the information was available, it would be difficult, if not impossible, to correlate that information with emissions performance and develop practical regulatory requirements. Instead, the current emission limits are based on actual performance of existing sources in the two categories determined to represent the MACT level of control for new and existing sources. The performance data used to develop the emission limits were collected during emission tests when the control devices were performing properly and the emission sources were at steady-state operating conditions. Data collected during periods of startup, shutdown, or malfunction were not used to establish the emission limits. After the initial compliance demonstration, facilities using add-on controls must comply with operating limits to ensure the add-on controls continue to be properly operated and maintained to achieve the same level of performance as during the performance test. Facilities experiencing deviations from the emission limits or the operating limits must report these deviations to the EPA, and the EPA will then determine on a case-by-case basis whether the deviation constitutes a violation. Because of the diversity of factors that could lead to a malfunction in these source categories, it would not be practical for the EPA to prescribe specific actions that must be taken to reduce the frequency of malfunctions or to minimize emissions in the event of a malfunction.

The commenter also asserted that the EPA identified work practices and housekeeping measures for metal coil facilities, which would reduce emissions and are in use at a number of facilities yet failed to determine that it was “necessary” to revise the standard. The commenter's assertion appears to be based on a statement in the preamble to the proposal where we note that the facility survey conducted as part of the development of the 2002 MACT standard for Surface Coating of Metal Coil had revealed several types of work practices and housekeeping measures in use at that time. (84 FR at 25935). We also noted in the preamble, however, that we had identified no developments in work practices or procedures for the Surface Coating of Metal Coil source category. As the commenter has provided no additional information regarding possible developments and as the EPA has no information about developments in such work practices and housekeeping measures, we do not agree that it is necessary to revise the standard for this source category as a result of the technology review.

4. What is the rationale for our final approach for the technology reviews?

For the reasons explained in the preamble to the proposed rules (84 FR 25922 and 25934, June 4, 2019), and in the comment responses above in section IV.B.3 of this preamble, we are making no changes and are finalizing the results of the technology reviews as proposed.

C. Electronic Reporting Provisions

1. What did we propose?

In the June 4, 2019, notice we proposed to require owners and operators of surface coating of metal can and metal coil facilities to submit electronic copies of notifications, reports, and performance tests through the EPA's CDX, using the CEDRI. These include the initial notifications required in 40 CFR 63.9(b) and 63.3510(b) for metal can coating and 63.5180(b) for metal coil coating; notifications of compliance status required in 40 CFR 63.9(h) and 63.3510(c) for metal can coating and 63.5180(d) for metal coil coating; the performance test reports required in 40 CFR 63.3511(b) for metal can coating and 63.5160(d) for metal coil coating; and the semiannual reports required in 40 CFR 63.3511(a) for metal can coating and 63.5180(g) for metal coil coating. A description of the electronic submission process is provided in the memorandum, Electronic Reporting Requirements for New Source Performance Standards (NSPS) and National Emission Standards for Hazardous Air Pollutants (NESHAP), August 8, 2018, in the Surface Coating of Metal Cans and Surface Coating of Metal Coil Dockets. The proposed rule requirements would replace the current rule requirements to submit the notifications and reports to the Administrator at the appropriate address listed in 40 CFR 63.13. The proposed rule requirement would not affect submittals required by state air agencies. For metal can facilities, the proposed compliance schedule language in 40 CFR 63.3511(f) for submission of semiannual compliance reports would have provided 181 days after the final rule is published to begin electronic reporting or 1 year after the 40 CFR part 63, subpart KKKK semiannual compliance report template is available in CEDRI, whichever is later. For metal coil facilities, the proposed compliance schedule language in 40 CFR 63.5181(c) for submission of semiannual compliance reports would have provided 1 year after the final rule is published to begin electronic reporting or 1 year after the 40 CFR part 63, subpart SSSS semiannual compliance report template is available in CEDRI, whichever is later.

2. What changed since proposal?

For metal can facilities, the compliance schedule language in proposed 40 CFR 63.3511(f) for submission of semiannual compliance reports has been revised from the proposed 181 days, to either 1 year after the final rule is published or 1 year after the 40 CFR part 63, subpart KKKK, semiannual compliance report template is available in CEDRI, whichever is later. No changes were made to the metal coil compliance schedule.

3. What key comments did we receive and what are our responses?

Comment: One commenter suggested that the EPA change the metal can compliance schedule language in proposed 40 CFR 63.3511(f) for submission of semiannual compliance reports to give facilities either 1year (instead of 181 days) after the final rule is published to begin electronic reporting or 1 year after the 40 CFR part 63, subpart KKKK, semiannual compliance report template is available in CEDRI, whichever is later. The commenter recommended revising 40 CFR 63.3511(f) to say that on and after the date 1 year (instead of 181 days) after the date of publication of the final rule in the Federal Register, or once the reporting template has been available on the CEDRI website for 1 year, whichever date is later, the owner or operator is required to submit the semiannual compliance report via the CEDRI. The commenter noted that the proposed 181-day requirement for 40 CFR part 63, subpart KKKK, is not consistent with the 1-year requirement the EPA is proposing for 40 CFR 63.5181(c) in 40 CFR part 63, subpart SSSS for the Surface Coating of Metal Coil source category. The commenter also argued that 1 year would be justified because metal can coating facilities are not currently using CEDRI and would need to learn how to access and use CEDRI.

Response: The EPA agrees that both rules should be consistent and that the owners and operators should have 1 year after the date of publication of the final rule or 1 year after the reporting template has been on CEDRI, whichever is later, before they are required to submit semiannual compliance reports via CEDRI. This will provide users 1 year to become familiar with the template and electronic reporting system prior to being required to submit reports electronically. This will provide adequate time for facilities to adjust to electronic reporting, as well as assure that the forms will work properly, prior to the date that owners and operators must start submitting these reports electronically. The EPA encourages users to become familiar with the system well in advance of being required to use it. For previous rulemakings with reports required to be submitted electronically via CEDRI, prior to a compliance reporting deadline, the EPA has provided webinars to our various stakeholders on the access and reporting of the given report in CEDRI. The EPA is planning to provide this same service to the industry trade association and facilities subject to the 40 CFR part 63, subparts KKKK and SSSS electronic reporting requirements, if requested to do so. The EPA plans to publish the final template on CEDRI about the same time the final rule is signed and published. Although facilities will have up to 1 year after the final template is on CEDRI to begin using the template and submitting reports via CEDRI, facilities may begin submitting reports via CEDRI as soon as the final template is available.

Comment: One commenter stated they will need an interactive discussion with the EPA (e.g., by conference call or webinar) to answer questions about how to use CEDRI and about the draft electronic reporting template before they can effectively comment on whether the template is appropriate and workable for metal can surface coating facilities subject to subpart 40 CFR part 63, KKKK. The commenter further asked that the EPA not finalize the reporting template until after the proposed rule is finalized.

Response: The EPA agrees that interactive discussions via conference calls or a webinar with the industry trade organization and members would be appropriate to review the electronic reporting process using CEDRI and to collaborate on improvements to the draft electronic reporting template. The EPA has arranged interactive discussions with both the metal can and metal coil industry trade organizations and members in an attempt to finalize the electronic reporting templates concurrent with the final rule promulgation. If that is the case facilities will have 1 year after the final rule is published to submit notifications and semiannual compliance reports using the electronic reporting template in CEDRI. If the reporting templates are not finalized concurrent with the final rule promulgation, the EPA will continue to work with the industry trade organizations and members to finalize the templates and will make the final templates available on the CEDRI website. Facilities would then be required to submit notifications and semiannual compliance reports using the electronic reporting template in CEDRI one year after the reporting template has been available on the CEDRI website.

4. What is the rationale for our final approach for the electronic reporting provisions?

For the reasons explained in the preamble to the proposed rules (84 FR 25922 and 25934, June 4, 2019), and in the comment responses above in section IV.C.3 of this preamble, we are finalizing the electronic reporting provisions for both 40 CFR parts 63, subparts KKKK and SSSS, as proposed with the exception of the change in date by which electronic reporting must commence for the Surface Coating of Metal Cans source category (described in section IV.C.2 of this preamble).

D. SSM Provisions

1. What did we propose?

In the June 4, 2019, action, we proposed amendments to the Surface Coating of Metal Cans NESHAP and the Surface Coating of Metal Coil NESHAP to remove and revise provisions related to SSM that are not consistent with the requirement that the standards apply at all times. More information concerning the elimination of SSM provisions is in the preamble to the proposed rule (84 FR 25909, June 4, 2019).

2. What changed since proposal?

We are finalizing the SSM provisions as proposed with no changes (84 FR 25909, June 4, 2019).

3. What key comments did we receive and what are our responses?

Comment: One commenter noted that new language has been proposed for 40 CFR 63.5150(a) which states that on and after the compliance date sources must also maintain the monitoring equipment at all times in accordance with 40 CFR 63.5140(b) and keep the necessary parts readily available for routine repairs of the monitoring equipment. The commenter expressed concern that different inspectors could have different interpretations of what parts would be “necessary” to be kept readily available and what repairs would be “routine.” The commenter recommended revising the proposed language for 40 CFR 63.5150(a) to omit “and keep the necessary parts readily available for routine repairs of the monitoring equipment.”

The commenter argued that the compliance requirement language will always be open to some degree of interpretation, but the suggested change would minimize differences in how this new language is interpreted and allow the individual facilities to manage and defend their compliance practices required in this section as they see best.

Response: The EPA disagrees with the commenter and is not accepting this recommended change. The requirement is not new, it was simply moved from the 40 CFR part 63 General Provisions to subparts KKKK and SSSS. The language proposed for 40 CFR 63.5150(a) replaces language in 40 CFR 63.8(c)(1)(i) and (ii) that no longer applies. The EPA is amending Table 5 to Subpart KKKK of Part 63 so that 40 CFR 63.8(c)(1) no longer applies because 40 CFR 63.8(c)(1)(iii) requires, “The owner or operator of an affected source must develop a written startup, shutdown, and malfunction plan for CMS as specified in § 63.6(e)(3).” Because 40 CFR 63.8(c)(1) no longer applies as part of the amendments to remove the SSM exemptions, the provisions of 40 CFR 63.8(c)(1)(i) and (ii) are being added to each subpart. The EPA disagrees that the proposed language would lead to differences in interpretation and the commenter provided no evidence that the same language led to compliance issues when it was located only in 40 CFR 63.8(c)(1)(ii).

4. What is the rationale for our final approach for the SSM provisions?

For the reasons explained in the proposed rule and after evaluation of the comments on the proposed amendments to the SSM provisions for the Surface Coating of Metal Cans NESHAP and the Surface Coating of Metal Coil NESHAP, we are finalizing the proposed revisions related to SSM that are not consistent with the requirement that the standards apply at all times. More information concerning the proposed amendments to the SSM provisions is in the preamble to the proposed rule (84 FR 25909, June 4, 2019).

E. Ongoing Compliance Demonstrations

1. What did we propose?

In the June 4, 2019, action we proposed to require owners and operators of surface coating of metal can facilities and surface coating of metal coil facilities to conduct periodic performance testing of add-on control devices on a regular frequency of every 5 years to ensure the equipment continues to operate properly for facilities using the emission rate with add-on controls compliance option. This proposed periodic testing requirement included an exception to the general requirement for periodic testing for facilities using the catalytic oxidizer control options and following catalyst maintenance procedures that are found in both 40 CFR part 63, subparts KKKK and SSSS. These catalyst maintenance procedures include annual testing of the catalyst and other maintenance procedures that provide ongoing demonstrations that the control system is operating properly and may, thus, be considered comparable to conducting a performance test. The proposed periodic performance testing requirement also allows an exception from periodic testing for facilities using CEMS to show actual emissions. The use of CEMS to demonstrate compliance would obviate the need for periodic testing.

This proposed requirement did not require periodic testing or CEMS monitoring of facilities using the compliant materials option or the emission-rate without add-on controls compliance option because these two compliance options do not use any add-on controls or control efficiency measurements in the compliance calculations.

The proposed periodic performance testing requirement requires facilities complying with the standards using emission capture systems and add-on controls and which are not already on a 5-year testing schedule to conduct the first of the periodic performance tests within 3 years of the effective date of the revised standards. Afterward, they would generally conduct periodic testing before they renew their title V operating permits, but in no case more than 5 years following the previous performance test. Additionally, facilities that have already tested as a condition of their permit within the last 2 years before the effective date would be permitted to maintain their current 5-year schedule.

2. What changed since proposal?

We have revised the proposed periodic testing language in 40 CFR part 63, subparts KKKK and SSSS, since proposal to clarify that facilities already conducting comparable periodic testing as a requirement of renewing their title V operating permit under 40 CFR part 70 or part 71 may continue with their current testing schedule. We also reformatted the electronic reporting language in 40 CFR part 63, subparts KKKK and SSSS, to provide clarification on the requirements for asserting a claim of EPA system outage or force majeure for failure to timely comply with the reporting requirements.

3. What key comments did we receive and what are our responses?

Comment: One commenter recommended that language in the proposed rule for 40 CFR part 63, subpart KKKK should be revised to more clearly state that facilities are permitted to use the performance tests conducted under their title V permits, as required by state and local permitting authorities, to meet the proposed requirement for periodic performance testing under 40 CFR part 63, subpart KKKK. The commenter suggested that the EPA modify the proposed language for 40 CFR 63.3540(a)(1)(ii), 63.3540(b)(1)(ii), 63.3550(a)(1)(ii), and 63.3550(b)(1)(ii) and offered clarifying language to say that if a source is not required to complete periodic performance tests as a requirement of renewing its title V operating permit under 40 CFR part 70 or 40 CFR part 71, it must conduct the first periodic performance test before the date 3 years after date of publication of the final rule in the Federal Register, unless the source has already conducted a performance test on or after the date 2 years before the date of publication of the final rule in the Federal Register. The commenter then suggested adding language to say that if a source is already required to complete periodic performance tests as a requirement of renewing its title V operating permit under 40 CFR part 70 or 40 CFR part 71, it must conduct the periodic testing in accordance with the terms and schedule required by its permit conditions.

Response: The EPA agrees that the recommended changes would clarify that facilities can continue to use tests conducted under title V to meet the 40 CFR part 63, subpart KKKK requirement to conduct periodic performance tests. The EPA is making the recommended changes to 40 CFR 63.3540(a)(1)(ii), 63.3540(b)(1)(ii), 63.3550(a)(1)(ii), and 63.3550(b)(1)(ii) and is making comparable changes to Table 1 To 40 CFR 63.5160—Required Performance Testing Summary, in 40 CFR part 63, subpart SSSS.

4. What is the rationale for our final approach for the ongoing compliance demonstrations?

For the reasons explained in the preamble to the proposed rules (84 FR 25922 and 25934, June 4, 2019), and in the comment responses above in section IV.C.3 of this preamble, we are finalizing the periodic testing provisions for both 40 CFR part 63, subparts KKKK and SSSS, as proposed with the exception of the rule clarification change described for 40 CFR part 63, subparts KKKK and SSSS in section IV.D.2 of this preamble.

V. Summary of Cost, Environmental, and Economic Impacts and Additional Analyses Conducted

A. What are the affected sources?

Currently, five major sources subject to the Surface Coating of Metal Cans NESHAP are operating in the United States. The affected source under the NESHAP is the collection of all equipment used to apply coating to a metal can or end (including decorative tins), or metal crown or closure, and to dry or cure the coating after application; all storage containers and mixing vessels in which coatings, thinners, and cleaning materials are stored or mixed; all manual and automated equipment and containers used for conveying coatings, thinners, and cleaning materials; and all storage containers and all manual and automated equipment and containers used for conveying waste materials generated by the coating operations. A coating operation always includes at least the point at which a coating is applied and all subsequent points in the affected source where organic HAP emissions from that coating occur. There may be multiple coating operations in an affected source.

Currently, 48 major sources subject to the Surface Coating of Metal Coil NESHAP are operating in the United States. The affected source under the NESHAP is the collection of all the coil coating lines at a facility, including the equipment used to apply an organic coating to the surface of metal coil. A coil coating line includes a web unwind or feed section, a series of one or more work stations, and any associated curing oven, wet section, and quench station. A coil coating line does not include ancillary operations such as mixing/thinning, cleaning, wastewater treatment, and storage of coating material. Metal coil is a continuous metal strip that is at least 0.15 mm (0.006 inch) thick, which is packaged in a roll or coil prior to coating. Material less than 0.15 mm (0.006 inch) thick is considered metal foil, not metal coil. The NESHAP applies to coating lines on which more than 15 percent of the material coated, based on surface area, meets the definition of metal coil. There may be multiple coating operations in an affected source.

B. What are the air quality impacts?

The EPA estimates the current emissions of volatile organic HAP from the Surface Coating of Metal Cans source category are approximately 77 tpy and the current emissions of volatile organic HAP from the Surface Coating of Metal Coil source category are approximately 291 tpy.

The amendments require that all 53 major sources in the Surface Coating of Metal Cans and Surface Coating of Metal Coil source categories comply with the relevant emission standards at all times, including periods of SSM. We were unable to quantify the emissions that occur during periods of SSM or the specific emissions reductions that will occur as a result of this action. However, eliminating the SSM exemption has the potential to reduce emissions by requiring facilities to meet the applicable standard during SSM periods.

The amendments will have no effect on the energy needs of the affected facilities in either of the two source categories and will, therefore, have no adverse energy impacts or indirect or secondary air emissions impacts. Energy impacts consist of the electricity and steam needed to operate control devices and other equipment. Indirect or secondary air emissions impacts are impacts that would result from the increased energy usage associated with the operation of control devices (e.g., increased secondary emissions of criteria pollutants from power plants).

C. What are the cost impacts?

We estimate that each facility in these two source categories will experience increased costs as a result of these final amendments for recordkeeping and reporting. Each facility will experience costs to read and understand the rule amendments. Costs associated with elimination of the SSM exemption were estimated as part of the reporting and recordkeeping costs and include time for re-evaluating and modifying, as necessary, previously developed SSM record systems. Costs associated with the requirement to electronically submit notifications and semi-annual compliance reports using CEDRI were estimated as part of the reporting and recordkeeping costs and include time for becoming familiar with CEDRI and the reporting template for semi-annual compliance reports. The recordkeeping and reporting costs are presented in section VI.C of this preamble.

We are also finalizing a requirement for performance testing no less frequently than every 5 years for sources in each source category that use the add-on controls compliance options. We estimate that the new periodic testing requirement will impose additional costs for 22 facilities across the two source categories. We estimate that one facility using three add-on control devices subject to the Surface Coating of Metal Cans NESHAP will incur costs to conduct control device performance testing because it is using the emission rate with add-on controls compliance option and is not required by its title V operating permit to conduct testing every 5 years. We estimate that 21 facilities subject to the Surface Coating of Metal Coil NESHAP will incur costs to conduct periodic testing because they are currently using the emission rate with add-on controls compliance option and are not required by their title V operating permits to conduct testing every 5 years. These 21 metal coil coating facilities have a total of 30 add-on control devices. This total does not include facilities in the Surface Coating of Metal Coil source category that have add-on controls and are currently required to perform periodic performance testing as a condition of their title V operating permit. The cost for a facility to conduct a destruction or removal efficiency performance test using EPA Method 25 or 25A is estimated to be about $19,000, with tests of additional control devices at the same facility costing 25 percent less due to reduced travel costs. The estimated total cost for the one metal can surface coating facility to test three add-on control devices in a single year would be $47,000. The estimated total cost for all 21 metal coil facilities to test 30 add-on control devices in a single year, plus two retests to account for 5 percent of control devices failing to pass the first test, would be $560,000. The total annualized testing cost is estimated to be approximately $11,000 per year for the Surface Coating of Metal Cans source category, and $130,000 per year for the Surface Coating of Metal Coil source category, including retests. In addition to the testing costs, each facility performing a test will have an estimated additional $5,500 in reporting costs in the year in which the test occurs.

As a result of changes to recordkeeping and reporting requirements, a one-time review of the updated rule language, and the addition of the periodic testing requirement for facilities using add-on controls, the costs of the final amendments are estimated to be $21,800 for the Surface Coating of Metal Cans source category and $271,000 for the Surface Coating of Metal Coil source category averaged over the first 3 years after the amendments are finalized. For further information on the estimated costs, see the cost tables in the memoranda titled Estimated Costs/Impacts of the 40 CFR part 63 Subparts KKKK and SSSS Monitoring Review Revisions, February 2019, and the Economic Impact and Small Business Screening Assessments for Hazardous Air Pollutants for Metal Cans Coating Plants (Subpart KKKK) and the Economic Impact and Small Business Screening Assessments for Hazardous Air Pollutants for Metal Coil Coating Plants (Subpart SSSS) in the Surface Coating of Metal Cans and Surface Coating of Metal Coil Dockets.

D. What are the economic impacts?

The economic impact analysis is designed to inform decision makers about the potential economic consequences of a regulatory action. For the final revisions, the EPA estimated the cost of becoming familiar with the rule and re-evaluating and revising, as necessary, previously developed SSM record systems and performing periodic emissions testing at certain facilities with add-on controls that are not already required to perform testing. To assess the maximum potential impact, the largest cost expected to be experienced in any 1 year is compared to the total sales for the ultimate owners of the affected facilities to estimate the total burden for each ultimate owner.

For the final revisions to the NESHAP for the Surface Coating of Metal Cans, the annualized cost is estimated to be $11,000 for the five affected entities. The five affected facilities are owned by three different parent companies, and the total costs associated with the final requirements range from 0.00002 to 0.77 percent of annual sales revenue per ultimate owner. These costs are not expected to result in a significant market impact, regardless of whether they are passed on to the purchaser or absorbed by the firms.

For the final revisions to the NESHAP for the Surface Coating of Metal Coil, the annualized cost is estimated to be $130,000 for the 48 affected entities. The 48 affected facilities are owned by 25 different parent companies, and the total costs associated with the proposed requirements range from 0.00001 to 0.28 percent of annual sales revenue per ultimate owner. These costs are not expected to result in a significant market impact, regardless of whether they are passed on to the purchaser or absorbed by the firms.

The EPA also prepared a small business screening assessment to determine whether any of the identified affected entities are small entities, as defined by the U.S. Small Business Administration. One of the facilities potentially affected by the final revisions to the NESHAP for the Surface Coating of Metal Cans is a small entity. Ten of the facilities potentially affected by the final revisions to the NESHAP for the Surface Coating of Metal Coil are small entities. However, the annualized costs associated with the final revisions for the seven ultimate owners of these eleven affected small entities range from 0.0029 to 0.77 percent of annual sales revenues per ultimate owner. Therefore, there are no significant economic impacts on a substantial number of small entities from these final amendments.

More information and details of this analysis are provided in the technical documents titled Economic Impact and Small Business Screening Assessments for Proposed Amendments to the National Emission Standards for Hazardous Air Pollutants for the Surface Coating of Metal Cans (Subpart KKKK) and Economic Impact and Small Business Screening Assessments for Proposed Amendments to the National Emission Standards for Hazardous Air Pollutants for the Surface Coating of Metal Coil (Subpart SSSS), available in the Surface Coating of Metal Cans and Surface Coating of Metal Coil Dockets, respectively.

E. What are the benefits?

As stated above in section V.B of this preamble, we were unable to quantify the specific emissions reductions associated with eliminating the SSM exemption or as a result of adding the requirement to conduct periodic add-on control device performance tests, although these final revisions have the potential to reduce emissions of volatile organic HAP.

Because these final amendments are not considered economically significant, as defined by Executive Order 12866, and because we were unable to quantify the specific emission reductions that will occur as a result of this action, we did not monetize the benefits of reducing these emissions. This does not mean that there are no benefits associated with the potential reduction in volatile organic HAP from this rule.

F. What analysis of environmental justice did we conduct?

Executive Order 12898 (59 FR 7629, February 16, 1994) establishes federal executive policy on environmental justice. Its main provision directs federal agencies, to the greatest extent practicable and permitted by law, to make environmental justice part of their mission by identifying and addressing, as appropriate, disproportionately high and adverse human health or environmental effects of their programs, policies, and activities on minority populations and low-income populations in the United States.

To examine the potential for any environmental justice issues that might be associated with these source categories, we performed a demographic analysis for each source category, which is an assessment of risks to individual demographic groups of the populations living within 5 kilometers (km) and within 50 km of the facilities. In these analyses, we evaluated the distribution of HAP-related cancer and noncancer risks from each source category across different demographic groups within the populations living near facilities.

1. Surface Coating of Metal Cans

The results of the demographic analysis for the Surface Coating of Metal Cans source category are summarized in Table 4 of this preamble. These results, for various demographic groups, are based on the estimated risk from actual emissions levels for the population living within 50 km of the facilities.

The results of the Surface Coating of Metal Cans source category demographic analysis indicate that emissions from the source category expose approximately 700 people to a cancer risk at or above 1-in-1 million and no one to a chronic noncancer TOSHI greater than 1. The percentages of the population exposed to emissions from the source category in three demographic groups (White, Above Poverty Level, and Over 25 with a High School Diploma) are greater than their respective nationwide percentages. The methodology and the results of the demographic analysis are presented in more detail in the technical report titled Risk and Technology Review—Analysis of Demographic Factors for Populations Living Near Surface Coating of Metal Cans Source Category Operations, May 2018, in the Surface Coating of Metal Cans Docket.

Table 4—Surface Coating of Metal Cans Source Category Demographic Risk Analysis Results
| Nationwide | Population with cancer risk at or above 1-in-1 million due to surface coating of metal cans | Population with chronic noncancer HI above 1 due to surface coating of metal cans
Total Population | 317,746,049 | 700 | 0
White and Minority by Percent
White | 62 | 92 | 0
Minority | 38 | 8 | 0
Minority by Percent
African American | 12 | 0 | 0
Native American | 0.8 | 0 | 0
Hispanic | 18 | 4 | 0
Other and Multiracial | 7 | 4 | 0
Income by Percent
Below Poverty Level | 14 | 4 | 0
Above Poverty Level | 86 | 96 | 0
Education by Percent
Over 25 and without High School Diploma. | 14 | 4 | 0
Over 25 and with a High School Diploma. | 86 | 96 | 0
Linguistically Isolated by Percent
Linguistically Isolated | 6 | 0 | 0

2. Surface Coating of Metal Coil

The results of the demographic analysis for the Surface Coating of Metal Coil source category are summarized in Table 5 of this preamble. These results, for various demographic groups, are based on the estimated risk from actual emissions levels for the population living within 50 km of the facilities.

The results of the Surface Coating of Metal Coil source category demographic analysis indicate that emissions from the source category expose approximately 19,000 people to a cancer risk at or above 1-in-1 million and no one is exposed to a chronic noncancer TOSHI greater than 1. The percentages of the population exposed to emissions from the source category in three demographic groups (White, African American, and Over 25 and with a High School Diploma) are greater than their respective nationwide percentages.

The methodology and the results of the demographic analysis are presented in a technical report, Risk and Technology Review—Analysis of Demographic Factors for Populations Living Near Surface Coating of Metal Coil Source Category Operations, May 2017, available in the Surface Coating of Metal Coil Docket.

Table 5—Surface Coating of Metal Coil Source Category Demographic Risk Analysis Results
| Nationwide | Population with cancer risk at or above 1-in-1 million due to surface coating of metal coil | Population with chronic noncancer HI above 1 due to surface coating of metal coil
Total Population | 317,746,049 | 19,000 | 0
White and Minority by Percent
White | 62 | 70 | 0
Minority | 38 | 30 | 0
Minority by Percent
African American | 12 | 21 | 0
Native American | 0.8 | 0.1 | 0
Hispanic | 18 | 4 | 0
Other and Multiracial | 7 | 5 | 0
Income by Percent
Below Poverty Level | 14 | 15 | 0
Above Poverty Level | 86 | 85 | 0
Education by Percent
Over 25 and without High School Diploma | 14 | 10 | 0
Over 25 and with a High School Diploma | 86 | 90 | 0
Linguistically Isolated by Percent
Linguistically Isolated | 6 | 1 | 0

G. What analysis of children's environmental health did we conduct?

This action is not subject to Executive Order 13045 because it is not economically significant as defined in Executive Order 12866, and because the EPA does not believe the environmental health or safety risks addressed by this action present a disproportionate risk to children. This action's health and risk assessments are summarized in section IV.A of this preamble and are further documented in the Residual Risk Assessment for the Surface Coating of Metal Cans Source Category in Support of the 2019 Risk and Technology Review Proposed Rule, and the Residual Risk Assessment for the Surface Coating of Metal Coil Source Category in Support of the 2019 Risk and Technology Review Proposed Rule, in the Surface Coating of Metal Cans and Surface Coating of Metal Coil Dockets, respectively.

VI. Statutory and Executive Order Reviews

Additional information about these statutes and Executive Orders can be found at https://www.epa.gov/laws-regulations/laws-and-executive-orders.

A. Executive Order 12866: Regulatory Planning and Review and Executive Order 13563: Improving Regulation and Regulatory Review

This action is not a significant regulatory action and was, therefore, not submitted to Office of Management and Budget (OMB) for review.

B. Executive Order 13771: Reducing Regulations and Controlling Regulatory Costs

This action is not an Executive Order 13771 regulatory action because this action is not significant under Executive Order 12866.

C. Paperwork Reduction Act (PRA)

The information collection activities in this action have been submitted for approval to OMB under the PRA, as discussed for each source category covered by this action in sections VI.C.1 and 2.

1. Surface Coating of Metal Cans

The Information Collection Request (ICR) document that the EPA prepared for this source category has been assigned EPA ICR number 2079.08. You can find a copy of the ICR document in the Surface Coating of Metal Cans Docket (Docket ID No. EPA-HQ-OAR-2017-0684), and it is briefly summarized here. The information collection requirements are not enforced until OMB approves them.

As part of the RTR for the Surface Coating of Metal Cans NESHAP, the EPA is not revising the emission limit requirements. The EPA is revising the SSM provisions of the rule and requiring the use of electronic data reporting for future performance test data submittals, notifications, and reports. This information is being collected to assure compliance with 40 CFR part 63, subpart KKKK.

Respondents/affected entities: Facilities performing surface coating of metal cans.

Respondent's obligation to respond: Mandatory (40 CFR part 63, subpart KKKK).

Estimated number of respondents: In the 3 years after the amendments are final, approximately five respondents per year will be subject to the NESHAP and no additional respondents are expected to become subject to the NESHAP during that period.

Frequency of response: The total number of responses in year 1 is 15 and in year 3 is one. Year 2 would have no responses.

Total estimated burden: The average annual information collection burden to the five metal can facilities over the 3 years after the amendments are finalized is estimated to be 54 hours (per year). The average annual burden to the Agency over the 3 years after the amendments are finalized is estimated to be 23 hours (per year). Burden is defined at 5 CFR 1320.3(b).

Total estimated cost: The average annual labor cost to the metal can facilities is estimated to be $6,200 in the first 3 years after the amendments are finalized. The average annual capital and operation and maintenance (O&M) cost is estimated to be $15,600 over this period. The average annual Agency cost over the first 3 years after the amendments are finalized is estimated to be $1,090.

2. Surface Coating of Metal Coil

The ICR document that the EPA prepared for this source category has been assigned EPA ICR number 1957.10. You can find a copy of the ICR document in the Surface Coating of Metal Coil Docket (Docket ID No. EPA-HQ-OAR-2017-0685), and it is briefly summarized here. The information collection requirements are not enforced until OMB approves them.

As part of the RTR for the Surface Coating of Metal Coil NESHAP, the EPA is not revising the emission limit requirements. The EPA is revising the SSM provisions of the rule and requiring the use of electronic data reporting for future performance test data submittals, notifications, and reports. This information is being collected to assure compliance with 40 CFR part 63, subpart SSSS.

Respondents/affected entities: Facilities performing surface coating of metal coil.

Respondent's obligation to respond: Mandatory (40 CFR part 63, subpart SSSS).

Estimated number of respondents: In the 3 years after the amendments are finalized, approximately 48 respondents per year will be subject to the NESHAP and no additional respondents are expected to become subject to the NESHAP during that period.

Frequency of response: The total number of responses in year 1 is 144 and in year 3 is 69. Year 2 would have no responses.

Total estimated burden: The average annual burden to the 48 metal coil coating facilities over the 3 years after the amendments are finalized is estimated to be 738 hours (per year). The average annual burden to the Agency over the 3 years after the amendments are finalized is estimated to be 179 hours (per year). Burden is defined at 5 CFR 1320.3(b).

Total estimated cost: The average annual cost to the 48 metal coil coating facilities is estimated to be $85,000 in labor costs and $186,000 in capital and O&M costs in the first 3 years after the amendments are finalized. The average annual Agency cost over the first 3 years after the amendments are finalized is estimated to be $8,530.

An agency may not conduct or sponsor, and a person is not required to respond to, a collection of information unless it displays a currently valid OMB control number. The OMB control numbers for the EPA's regulations in 40 CFR are listed in 40 CFR part 9. When OMB approves the ICRs, the Agency will announce that approval in the Federal Register and publish a technical amendment to 40 CFR part 9 to display the OMB control number for the approved information collection actions contained in the final rule.

D. Regulatory Flexibility Act (RFA)

I certify that this action will not have a significant economic impact on a substantial number of small entities under the RFA. The eleven small entities that are subject to the requirements of this action are small businesses. The Agency has determined that the seven ultimate owners of these eleven affected small entities (21 percent of the facilities affected by this action) so impacted may experience an impact of 0.0029 to 0.77 percent of annual sales revenues per ultimate owner. Details of this analysis are described in section V.D above and in the economic impact memorandums located in the dockets for this action.

E. Unfunded Mandates Reform Act (UMRA)

This action does not contain an unfunded mandate of $100 million or more as described in UMRA, 2 U.S.C. 1531-1538, and does not significantly or uniquely affect small governments. The action imposes no enforceable duty on any state, local, or tribal governments or the private sector.

F. Executive Order 13132: Federalism

This action does not have federalism implications. It will not have substantial direct effects on the states, on the relationship between the national government and the states, or on the distribution of power and responsibilities among the various levels of government.

G. Executive Order 13175: Consultation and Coordination With Indian Tribal Governments

This action does not have tribal implications as specified in Executive Order 13175. No tribal facilities are known to be engaged in any of the industries that would be affected by this action (metal can surface coating and metal coil surface coating). Thus, Executive Order 13175 does not apply to this action.

H. Executive Order 13045: Protection of Children From Environmental Health Risks and Safety Risks

This action is not subject to Executive Order 13045 because it is not economically significant as defined in Executive Order 12866, and because the EPA does not believe the environmental health or safety risks addressed by this action present a disproportionate risk to children. This action's health and risk assessments are contained in sections III.A and C, IV.A.1 and 2, IV.B.1 and 2, and IV.C.1 and 2 of the proposal preamble (84 FR 25904, June 4, 2019) and are further documented in the Residual Risk Assessment for the Surface Coating of Metal Cans Source Category in Support of the 2019 Risk and Technology Review Proposed Rule and the Residual Risk Assessment for the Surface Coating of Metal Coil Source Category in Support of the 2019 Risk and Technology Review Proposed Rule in the Surface Coating of Metal Cans Docket and the Surface Coating of Metal Coil Docket, respectively.

I. Executive Order 13211: Actions Concerning Regulations That Significantly Affect Energy Supply, Distribution, or Use

This action is not subject to Executive Order 13211 because it is not a significant regulatory action under Executive Order 12866.

J. National Technology Transfer and Advancement Act (NTTAA) and 1 CFR Part 51

This rulemaking involves technical standards. The EPA amended the Surface Coating of Metal Coil NESHAP in this action to provide owners and operators with the option of conducting two new methods: EPA Method 18 of appendix A to 40 CFR part 60, “Measurement of Gaseous Organic Compound Emissions by Gas Chromatography,” to measure and subtract methane emissions from measured total gaseous organic mass emissions as carbon, and ASTM Method D1475-13, “Standard Test Method for Density of Liquid Coatings, Inks, and Related Products.” We are incorporating ASTM Method D1475-13 by reference. We are adding these two standards to the Surface Coating of Metal Coil NESHAP only, as these methods are already provided in the Surface Coating of Metal Cans NESHAP.

The EPA is also amending the Surface Coating of Metal Cans NESHAP to update three ASTM test methods and amend the Surface Coating of Metal Coil NESHAP to update two ASTM test methods. We are updating ASTM Method D1475-90, “Standard Test Method for Density of Liquid Coatings, Inks, and Related Products,” in the Surface Coating of Metal Cans NESHAP by incorporating by reference ASTM Method D1475-13. The updated version, ASTM Method D1475-13, clarifies units of measure and reduces the number of determinations required. We are updating ASTM Method D2697-86 (1998), “Standard Test Method for Volume Nonvolatile Matter in Clear or Pigmented Coatings,” in both the Surface Coating of Metal Cans and the Surface Coating of Metal Coil NESHAP by incorporating by reference ASTM D2697-03 (2014), which is the updated version of the previously approved method. We are also updating ASTM Method D6093-97 (2003), “Standard Test Method for Percent Volume Nonvolatile Matter in Clear or Pigmented Coatings Using Helium Gas Pycnometer,” in both the Surface Coating of Metal Cans and the Surface Coating of Metal Coil NESHAP by incorporating by reference ASTM D6093-97 (2016), which is the updated version of the previously approved method. ASTM D2697-03 (2014) is a test method that can be used to determine the volume of nonvolatile matter in clear and pigmented coatings and ASTM D6093-97 (2016) is a test method that can be used to determine the percent volume of nonvolatile matter in clear and pigmented coatings.

For the Surface Coating of Metal Cans NESHAP and the Surface Coating of Metal Coil NESHAP, we are incorporating by reference ASTM D2369-10 (2015), “Test Method for Volatile Content of Coatings,” as an alternative to EPA Method 24 for the determination of the volatiles emitted by the surface coatings. The test method determines the weight percent volatile content of solvent borne and water borne coatings under specified test conditions. It is viable for coatings wherein one or more parts may, at ambient conditions, contain liquid co-reactants that are volatile until a chemical reaction has occurred with another component of a multi-package system.

For the Surface Coating of Metal Cans and the Surface Coating of Metal Coil NESHAP, we are incorporating by reference ASTM D2111-10 (2015), “Standard Test Methods for Specific Gravity and Density of Halogenated Organic Solvents and Their Admixtures,” for the determination of the specific gravity of halogenated organic solvents and solvent admixtures in surface coatings. ASTM D2111-10 (2015) includes three test methods to measure specific gravity using suitable apparatus (i.e., a hydrometer, a pycnometer, or an electronic densitometer), procedures, and details underlying the interpretation of test data and the selection of numerical limits.

The ASTM standards are available from the American Society for Testing and Materials (ASTM), 100 Barr Harbor Drive, Post Office Box C700, West Conshohocken, PA 19428-2959. See http://www.astm.org/.

The EPA decided not to include certain other VCS; these methods are impractical as alternatives because of the lack of equivalency, documentation, validation date, and other important technical and policy considerations. The search and review results have been documented and are in the memoranda titled Voluntary Consensus Standard Results for Surface Coating of Metal Cans, August 16, 2018, and Voluntary Consensus Standard Results for Surface Coating of Metal Coil, August 16, 2018, in the Surface Coating of Metal Cans Docket and the Surface Coating of Metal Coil Docket, respectively.

Under 40 CFR 63.7(f) and 40 CFR 63.8(f) of subpart A of the General Provisions, a source may apply to the EPA for permission to use alternative test methods or alternative monitoring requirements in place of any required testing methods, performance specifications, or procedures in the final rule or any amendments.

K. Executive Order 12898: Federal Actions To Address Environmental Justice in Minority Populations and Low-Income Populations

The EPA believes that this action does not have disproportionately high and adverse human health or environmental effects on minority populations, low-income populations, and/or indigenous peoples, as specified in Executive Order 12898 (59 FR 7629, February 16, 1994) because it does not significantly affect the level of protection provided to human health or the environment. The documentation for this decision is contained in section IV of this preamble and the technical reports titled Risk and Technology Review—Analysis of Demographic Factors for Populations Living Near Surface Coating of Metal Cans Source Category Operations, May 2018, and Risk and Technology Review—Analysis of Demographic Factors for Populations Living Near Surface Coating of Metal Coil Source Category Operations, May 2018, which are available in the Surface Coating of Metal Cans and Surface Coating of Metal Coil Dockets, respectively.

L. Congressional Review Act (CRA)

This action is subject to the CRA, and the EPA will submit a rule report to each House of the Congress and to the Comptroller General of the United States. This action is not a “major rule” as defined by 5 U.S.C. 804(2)

List of Subjects in 40 CFR Part 63

Environmental protection, Administrative practice and procedures, Air pollution control, Hazardous substances, Incorporation by reference, Surface Coating of Metal Cans, Surface Coating of Metal Coil, Reporting and recordkeeping requirements, Appendix A.

Dated: December 20, 2019.
Andrew R. Wheeler,
Administrator.

For the reasons stated in the preamble, the EPA amends 40 CFR part 63 as follows:

PART 63—NATIONAL EMISSION STANDARDS FOR HAZARDOUS AIR POLLUTANTS FOR SOURCE CATEGORIES

1. The authority citation for part 63 continues to read as follows:

Authority: 42 U.S.C. 7401 et seq.

Subpart A—General Provisions

2. Section 63.14 is amended by revising paragraphs (h)(13), (21), (26), (29), (30), (78) and (79) to read as follows:

§ 63.14 Incorporations by reference.

* * * * *

(h) * * *

(13) ASTM D1475-13, Standard Test Method for Density of Liquid Coatings, Inks, and Related Products, approved November 1, 2013, IBR approved for §§ 63.3521(c), 63.3531(c), 63.4141(b) and (c), 63.4741(b) and (c), 63.4751(c), 63.4941(b) and (c), and 63.5160(c).

* * * * *

(21) ASTM D2111-10 (Reapproved 2015), Standard Test Methods for Specific Gravity and Density of Halogenated Organic Solvents and Their Admixtures, approved June 1, 2015, IBR approved for §§ 63.3531(c), 63.4141(b) and (c), 63.4741(a), and 63.5160(c).

* * * * *

(26) ASTM D2369-10 (Reapproved 2015)ᵉ, Standard Test Method for Volatile Content of Coatings, approved June 1, 2015, IBR approved for §§ 63.3521(a), 63.3541(i), 63.4141(a) and (b), 63.4161(h), 63.4321(e), 63.4341(e), 63.4351(d), 63.4741(a), 63.4941(a) and (b), 63.4961(j), and 63.5160(b).

* * * * *

(29) ASTM D2697-86 (Reapproved 1998), Standard Test Method for Volume Nonvolatile Matter in Clear or Pigmented Coatings, IBR approved for §§ 63.3161(f), 63.3941(b), 63.4141(b), 63.4741(b), and 63.4941(b).

(30) ASTM D2697-03 (Reapproved 2014), Standard Test Method for Volume Nonvolatile Matter in Clear or Pigmented Coatings, approved July 1, 2014, IBR approved for §§ 63.3521(b), 63.4141(b), 63.4741(a) and (b), 63.4941(b), and 63.5160(c).

* * * * *

(78) ASTM D6093-97 (Reapproved 2003), Standard Test Method for Percent Volume Nonvolatile Matter in Clear or Pigmented Coatings Using a Helium Gas Pycnometer, IBR approved for §§ 63.3161 and 63.3941.

(79) ASTM D6093-97 (Reapproved 2016), Standard Test Method for Percent Volume Nonvolatile Matter in Clear or Pigmented Coatings Using a Helium Gas Pycnometer, Approved December 1, 2016, IBR approved for §§ 63.3521(b), 63.4141(b), 63.4741(a) and (b), 63.4941(b), and 63.5160(c).

* * * * *

Subpart KKKK—National Emission Standards for Hazardous Air Pollutants: Surface Coating of Metal Cans

3. Section 63.3481 is amended by revising paragraph (c)(5) to read as follows:

§ 63.3481 Am I subject to this subpart?

* * * * *

(c) * * *

(5) Surface coating of metal pails, buckets, and drums. Subpart MMMM of this part covers surface coating of all miscellaneous metal parts and products not explicitly covered by another subpart.

4. Section 63.3492 is amended by revising paragraph (b) to read as follows:

§ 63.3492 What operating limits must I meet?

* * * * *

(b) For any controlled coating operation(s) on which you use the emission rate with add-on controls option or the control efficiency/outlet concentration option, except those for which you use a solvent recovery system and conduct a liquid-liquid material balance according to § 63.3541(i), you must meet the operating limits specified in Table 4 to this subpart. Those operating limits apply to the emission capture and control systems for the coating operation(s) used for purposes of complying with this subpart. You must establish the operating limits during the performance tests required in § 63.3540 or § 63.3550 according to the requirements in § 63.3546 or § 63.3556. You must meet the operating limits established during the most recent performance tests required in § 63.3540 or § 63.3550 at all times after they have been established during the performance test.

* * * * *

5. Section 63.3500 is amended by revising paragraphs (a)(1), (b), and (c) to read as follows:

§ 63.3500 What are my general requirements for complying with this subpart?

(a) * * *

(1) Any coating operation(s) for which you use the compliant material option or the emission rate without add-on controls option, as specified in § 63.3491(a) and (b), must be in compliance with the applicable emission limit in § 63.3490 at all times.

* * * * *

(b) Before August 24, 2020, you must always operate and maintain your affected source, including all air pollution control and monitoring equipment you use for purposes of complying with this subpart, according to the provisions in § 63.6(e)(1)(i). On and after August 24, 2020, at all times, the owner or operator must operate and maintain any affected source, including associated air pollution control equipment and monitoring equipment, in a manner consistent with safety and good air pollution control practices for minimizing emissions. The general duty to minimize emissions does not require the owner or operator to make any further efforts to reduce emissions if levels required by the applicable standard have been achieved. Determination of whether a source is operating in compliance with operation and maintenance requirements will be based on information available to the Administrator that may include, but is not limited to, monitoring results, review of operation and maintenance procedures, review of operation and maintenance records, and inspection of the affected source.

(c) Before August 24, 2020, if your affected source uses an emission capture system and add-on control device for purposes of complying with this subpart, you must develop a written startup, shutdown, and malfunction plan (SSMP) according to the provisions in § 63.6(e)(3). The plan must address startup, shutdown, and corrective actions in the event of a malfunction of the emission capture system or the add-on control device. The plan must also address any coating operation equipment that may cause increased emissions or that would affect capture efficiency if the process equipment malfunctions, such as conveyors that move parts among enclosures. On and after August 24, 2020, the SSMP is not required.

6. Section 63.3511 is amended by:

a. Revising paragraphs (a)(4), (a)(5) introductory text, (a)(5)(i), and (a)(5)(iv);

b. Adding paragraph (a)(5)(v);

c. Revising paragraph (a)(6) introductory text and (a)(6)(iii);

d. Adding paragraph (a)(6)(iv);

e. Revising paragraphs (a)(7) introductory text, (a)(7)(iii), (a)(7)(vi) through (viii), (a)(7)(x), and (a)(7)(xiii) and (xiv);

f. Adding paragraph (a)(7)(xv);

g. Revising paragraphs (a)(8) introductory text, (a)(8)(i), (a)(8)(iv) through (vi), (a)(8)(viii), and (a)(8)(xi) and (xii);

f. Adding paragraph (a)(8)(xiii);

g. Revising paragraph (c) introductory text; and

h. Adding paragraphs (d) through (h).

The revisions and additions read as follows:

§ 63.3511 What reports must I submit?

(a) * * *

(4) No deviations. If there were no deviations from the emission limits, operating limits, or work practice standards in §§ 63.3490, 63.3492, and 63.3493 that apply to you, the semiannual compliance report must include a statement that there were no deviations from the emission limitations during the reporting period. If you used the emission rate with add-on controls option or the control efficiency/outlet concentration option and there were no periods during which the continuous parameter monitoring systems (CPMS) were out of control as specified in § 63.8(c)(7), the semiannual compliance report must include a statement that there were no periods during which the CPMS were out of control during the reporting period.

(5) Deviations: Compliant material option. If you used the compliant material option and there was a deviation from the applicable emission limit in § 63.3490, the semiannual compliance report must contain the information in paragraphs (a)(5)(i) through (v) of this section.

(i) Identification of each coating used that deviated from the emission limit, each thinner used that contained organic HAP, and the date, time, and duration each was used.

* * * * *

(iv) Before August 24, 2020, a statement of the cause of each deviation. On and after August 24, 2020, a statement of the cause of each deviation (including unknown cause, if applicable).

(v) On and after August 24, 2020, the number of deviations and, for each deviation, a list of the affected source or equipment, an estimate of the quantity of each regulated pollutant emitted over any applicable emission limit in § 63.3490, a description of the method used to estimate the emissions, and the actions you took to minimize emissions in accordance with § 63.3500(b).

(6) Deviations: Emission rate without add-on controls option. If you used the emission rate without add-on controls option and there was a deviation from the applicable emission limit in § 63.3490, the semiannual compliance report must contain the information in paragraphs (a)(6)(i) through (iv) of this section.

* * * * *

(iii) Before August 24, 2020, a statement of the cause of each deviation. On and after August 24, 2020, a statement of the cause of each deviation (including unknown cause, if applicable).

(iv) On and after August 24, 2020, the number of deviations, date, time, duration, a list of the affected source or equipment, an estimate of the quantity of each regulated pollutant emitted over any applicable emission limit in § 63.3490, a description of the method used to estimate the emissions, and the actions you took to minimize emissions in accordance with § 63.3500(b).

(7) Deviations: Emission rate with add-on controls option. If you used the emission rate with add-on controls option and there was a deviation from the applicable emission limit in § 63.3490 or the applicable operating limit(s) in Table 4 to this subpart (including any periods when emissions bypassed the add-on control device and were diverted to the atmosphere), before August 24, 2020, the semiannual compliance report must contain the information in paragraphs (a)(7)(i) through (xiv) of this section. That includes periods of startup, shutdown, and malfunction during which deviations occurred. On and after August 24, 2020, the semiannual compliance report must contain the information in paragraphs (a)(7)(i) through (xii), (a)(7)(xiv), and (a)(7)(xv) of this section. If you use the emission rate with add-on controls option and there was a deviation from the applicable work practice standards in § 63.3493(b), the semiannual compliance report must contain the information in paragraph (a)(7)(xiii) of this section.

* * * * *

(iii) The date and time that each malfunction of the capture system or add-on control devices started and stopped.

* * * * *

(vi) Before August 24, 2020, the date and time that each CPMS was inoperative, except for zero (low-level) and high-level checks. On and after August 24, 2020, the number of instances that the CPMS was inoperative, and for each instance, except for zero (low-level) and high-level checks, the date, time, and duration that the CPMS was inoperative; the cause (including unknown cause) for the CPMS being inoperative; and the actions you took to minimize emissions in accordance with § 63.3500(b).

(vii) Before August 24, 2020, the date, time, and duration that each CPMS was out of control, including the information in § 63.8(c)(8). On and after August 24, 2020, the number of instances that the CPMS was out of control as specified in § 63.8(c)(7) and, for each instance, the date, time, and duration that the CPMS was out-of-control; the cause (including unknown cause) for the CPMS being out-of-control; and descriptions of corrective actions taken.

(viii) Before August 24, 2020, the date and time period of each deviation from an operating limit in Table 4 to this subpart; date and time period of any bypass of the add-on control device; and whether each deviation occurred during a period of startup, shutdown, or malfunction or during another period. On and after August 24, 2020, the number of deviations from an operating limit in Table 4 to this subpart and, for each deviation, the date, time, and duration of each deviation; the date, time, and duration of any bypass of the add-on control device.

* * * * *

(x) Before August 24, 2020, a breakdown of the total duration of the deviations from the operating limits in Table 4 to this subpart and bypasses of the add-on control device during the semiannual reporting period into those that were due to startup, shutdown, control equipment problems, process problems, other known causes, and other unknown causes. On and after August 24, 2020, a breakdown of the total duration of the deviations from the operating limits in Table 4 to this subpart and bypasses of the add-on control device during the semiannual reporting period into those that were due to control equipment problems, process problems, other known causes, and other unknown causes.

* * * * *

(xiii) Before August 24, 2020, for each deviation from the work practice standards, a description of the deviation; the date, and time period of the deviation; and the actions you took to correct the deviation. On and after August 24, 2020, for deviations from the work practice standards, the number of deviations, and, for each deviation, the information in paragraphs (a)(7)(xiii)(A) and (B) of this section:

(A) A description of the deviation; the date, time, and duration of the deviation; and the actions you took to minimize emissions in accordance with § 63.3500(b).

(B) The description required in paragraph (a)(7)(xiii)(A) of this section must include a list of the affected sources or equipment for which a deviation occurred and the cause of the deviation (including unknown cause, if applicable.

(xiv) Before August 24, 2020, a statement of the cause of each deviation. On and after August 24, 2020, for deviations from an emission limit in § 63.3490 or an operating limit in Table 4 to this subpart, a statement of the cause of each deviation (including unknown cause, if applicable) and the actions you took to minimize emissions in accordance with § 63.3500(b).

(xv) On and after August 24, 2020, for each deviation from an emission limit in § 63.3490 or operating limit in Table 4 to this subpart, a list of the affected sources or equipment for which a deviation occurred, an estimate of the quantity of each regulated pollutant emitted over any emission limit in § 63.3490 or operating limit in Table 4 to this subpart, and a description of the method used to estimate the emissions.

(8) Deviations: control efficiency/outlet concentration option. If you used the control efficiency/outlet concentration option, and there was a deviation from the applicable emission limit in § 63.3490 or the applicable operating limit(s) in Table 4 to this subpart (including any periods when emissions bypassed the add-on control device and were diverted to the atmosphere), before August 24, 2020, the semiannual compliance report must contain the information in paragraphs (a)(8)(i) through (xii) of this section. This includes periods of startup, shutdown, and malfunction during which deviations occurred. On and after August 24, 2020, the semiannual compliance report must specify the number of deviations during the compliance period and contain the information in paragraphs (a)(8)(i) through (x), (xii), and (xiii) of this section. If you use the control efficiency/outlet concentration option and there was a deviation from the applicable work practice standards in § 63.3493(b), the semiannual compliance report must contain the information in paragraph (a)(8)(xi) of this section.

(i) The date and time that each malfunction of the capture system or add-on control devices started and stopped.

* * * * *

(iv) Before August 24, 2020, the date and time that each CPMS was inoperative, except for zero (low-level) and high-level checks. On and after August 24, 2020, for each instance that the CPMS was inoperative, except for zero (low-level) and high-level checks, the date, time, and duration that the CPMS was inoperative; the cause (including unknown cause) for the CPMS being inoperative; and the actions you took to minimize emissions in accordance with § 63.3500(b).

(v) For each instance that the CPMS was out of control as specified in § 63.8(c)(7), the date, time, and duration that the CPMS was out of control; the cause (including unknown cause) for the CPMS being out of control; and the actions you took to minimize emissions in accordance with § 63.3500(b).

(vi) Before August 24, 2020, the date and time period of each deviation from an operating limit in Table 4 to this subpart; date and time of any bypass of the add-on control device; and whether each deviation occurred during a period of startup, shutdown, or malfunction or during another period. On and after August 24, 2020, the date, time, and duration of each deviation from an operating limit in Table 4 to this subpart; and the date, time, and duration of any bypass of the add-on control device.

* * * * *

(viii) Before August 24, 2020, a breakdown of the total duration of the deviations from the operating limits in Table 4 to this subpart and bypasses of the add-on control device during the semiannual reporting period into those that were due to startup, shutdown, control equipment problems, process problems, other known causes, and other unknown causes. On and after August 24, 2020, a breakdown of the total duration of the deviations from the operating limits in Table 4 to this subpart and bypasses of the add-on control device during the semiannual reporting period into those that were due to control equipment problems, process problems, other known causes, and other unknown causes.

* * * * *

(xi) Before August 24, 2020, for each deviation from the work practice standards, a description of the deviation; the date and time period of the deviation; and the actions you took to correct the deviation. On and after August 24, 2020, for deviations from the work practice standards in § 63.3493(b), the number of deviations, and, for each deviation, the information in paragraphs (a)(8)(xiii)(A) and (B) of this section:

(A) A description of the deviation; the date, time, and duration of the deviation; and the actions you took to minimize emissions in accordance with § 63.3500(b).

(B) The description required in paragraph (a)(8)(xi)(A) of this section must include a list of the affected sources or equipment for which a deviation occurred and the cause of the deviation (including unknown cause, if applicable).

(xii) Before August 24, 2020, a statement of the cause of each deviation. On and after August 24, 2020, for deviations from an emission limit in § 63.3490 or operating limit in Table 4 to this subpart, a statement of the cause of each deviation (including unknown cause, if applicable).

(xiii) On and after August 24, 2020, for each deviation from an emission limit in § 63.3490 or operating limit in Table 4 to this subpart, a list of the affected sources or equipment for which a deviation occurred, an estimate of the quantity of each regulated pollutant emitted over any emission limit in § 63.3490, and a description of the method used to estimate the emissions.

* * * * *

(c) Startup, shutdown, malfunction reports. Before August 24, 2020, if you used the emission rate with add-on controls option or the control efficiency/outlet concentration option and you had a startup, shutdown, or malfunction during the semiannual reporting period, you must submit the reports specified in paragraphs (c)(1) and (2) of this section. On and after August 24, 2020, the reports specified in paragraphs (c)(1) and (2) of this section are not required.

* * * * *

(d) On and after August 24, 2020, you must submit the results of the performance test required in §§ 63.3540 and 63.3550 following the procedure specified in paragraphs (d)(1) through (3) of this section.

(1) For data collected using test methods supported by the EPA's Electronic Reporting Tool (ERT) as listed on the EPA's ERT website (https://www.epa.gov/electronic-reporting-air-emissions/electronic-reporting-tool-ert) at the time of the test, you must submit the results of the performance test to the EPA via the Compliance and Emissions Data Reporting Interface (CEDRI). The CEDRI interface can be accessed through the EPA's Central Data Exchange (CDX) (https://cdx.epa.gov/). Performance test data must be submitted in a file format generated through the use of the EPA's ERT or an alternate electronic file format consistent with the extensible markup language (XML) schema listed on the EPA's ERT website.

(2) For data collected using test methods that are not supported by the EPA's ERT as listed on the EPA's ERT website at the time of the test, you must submit the results of the performance test in portable document format (PDF) using the attachment module of the ERT.

(3) If you claim that some of the performance test information being submitted under paragraph (d)(1) of this section is confidential business information (CBI), you must submit a complete file generated through the use of the EPA's ERT or an alternate electronic file consistent with the XML schema listed on the EPA's ERT website, including information claimed to be CBI, on a compact disc, flash drive, or other commonly used electronic storage medium to the EPA. The electronic medium must be clearly marked as CBI and mailed to U.S. EPA/OAPQS/CORE CBI Office, Attention: Group Leader, Measurement Policy Group, MD C404-02, 4930 Old Page Rd., Durham, NC 27703. The same ERT or alternate file with the CBI omitted must be submitted to the EPA via the EPA's CDX as described in paragraph (c)(1) of this section.

(e) On and after August 24, 2020, the owner or operator shall submit the initial notifications required in § 63.9(b) and the notification of compliance status required in §§ 63.9(h) and 63.3510(c) to the EPA via the CEDRI. The CEDRI interface can be accessed through the EPA's CDX (https://cdx.epa.gov). The owner or operator must upload to CEDRI an electronic copy of each applicable notification in PDF. The applicable notification must be submitted by the deadline specified in this subpart, regardless of the method in which the reports are submitted. Owners or operators who claim that some of the information required to be submitted via CEDRI is CBI shall submit a complete report generated using the appropriate form in CEDRI or an alternate electronic file consistent with the XML schema listed on the EPA's CEDRI website, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(f) On and after March 25, 2021, or once the reporting template has been available on the CEDRI website for 1 year, whichever date is later, the owner or operator shall submit the semiannual compliance report required in paragraph (a) of this section to the EPA via the CEDRI. The CEDRI interface can be accessed through the EPA's CDX (https://cdx.epa.gov). The owner or operator must use the appropriate electronic template on the CEDRI website for this subpart (https://www.epa.gov/electronic-reporting-air-emissions/compliance-and-emissions-data-reporting-interface-cedri). The date report templates become available will be listed on the CEDRI website. If the reporting form for the semiannual compliance report specific to this subpart is not available in CEDRI at the time that the report is due, you must submit the report to the Administrator at the appropriate addresses listed in § 63.13. Once the form has been available in CEDRI for 1 year, you must begin submitting all subsequent reports via CEDRI. The reports must be submitted by the deadlines specified in this subpart, regardless of the method in which the reports are submitted. Owners or operators who claim that some of the information required to be submitted via CEDRI is CBI shall submit a complete report generated using the appropriate form in CEDRI, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(g) If you are required to electronically submit a report through the CEDRI in the EPA's CDX, you may assert a claim of the EPA system outage for failure to timely comply with the reporting requirement. To assert a claim of the EPA system outage, you must meet the requirements outlined in paragraphs (g)(1) through (7) of this section.

(1) You must have been or will be precluded from accessing CEDRI and submitting a required report within the time prescribed due to an outage of either the EPA's CEDRI or CDX systems.

(2) The outage must have occurred within the period of time beginning five business days prior to the date that the submission is due.

(3) The outage may be planned or unplanned.

(4) You must submit notification to the Administrator in writing as soon as possible following the date you first knew, or through due diligence should have known, that the event may cause or caused a delay in reporting.

(5) You must provide to the Administrator a written description identifying:

(i) The date(s) and time(s) when CDX or CEDRI was accessed and the system was unavailable;

(ii) A rationale for attributing the delay in reporting beyond the regulatory deadline to the EPA system outage;

(iii) Measures taken or to be taken to minimize the delay in reporting; and

(iv) The date by which you propose to report, or if you have already met the reporting requirement at the time of the notification, the date you reported.

(6) The decision to accept the claim of the EPA system outage and allow an extension to the reporting deadline is solely within the discretion of the Administrator.

(7) In any circumstance, the report must be submitted electronically as soon as possible after the outage is resolved.

(h) If you are required to electronically submit a report through CEDRI in the EPA's CDX, you may assert a claim of force majeure for failure to timely comply with the reporting requirement. To assert a claim of force majeure, you must meet the requirements outlined in paragraphs (h)(1) through (5) of this section.

(1) You may submit a claim if a force majeure event is about to occur, occurs, or has occurred or there are lingering effects from such an event within the period of time beginning five business days prior to the date the submission is due. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) Measures taken or to be taken to minimize the delay in reporting; and

(iv) The date by which you propose to report, or if you have already met the reporting requirement at the time of the notification, the date you reported.

(4) The decision to accept the claim of force majeure and allow an extension to the reporting deadline is solely within the discretion of the Administrator.

(5) In any circumstance, the reporting must occur as soon as possible after the force majeure event occurs.

7. Section 63.3512 is amended by revising paragraphs (i), (j) introductory text, and (j)(1) and (2) to read as follows:

§ 63.3512 What records must I keep?

* * * * *

(i) Before August 24, 2020, a record of the date, time, and duration of each deviation. On and after August 24, 2020, for each deviation from an emission limitation reported under § 63.3511(a)(5) through (8), a record of the information specified in paragraphs (i)(1) through (4) of this section, as applicable.

(1) The date, time, and duration of the deviation, as reported under § 63.3511(a)(5) through (8).

(2) A list of the affected sources or equipment for which the deviation occurred and the cause of the deviation, as reported under § 63.3511(a)(5) through (8).

(3) An estimate of the quantity of each regulated pollutant emitted over any applicable emission limit in § 63.3490 or any applicable operating limit in Table 4 to this subpart, and a description of the method used to calculate the estimate, as reported under § 63.3511(a)(5) through (8).

(4) A record of actions taken to minimize emissions in accordance with § 63.3500(b) and any corrective actions taken to return the affected unit to its normal or usual manner of operation.

(j) If you use the emission rate with add-on controls option or the control efficiency/outlet concentration option, you must also keep the records specified in paragraphs (j)(1) through (8) of this section.

(1) Before August 24, 2020, for each deviation, a record of whether the deviation occurred during a period of startup, shutdown, or malfunction. On and after August 24, 2020, a record of whether the deviation occurred during a period of startup, shutdown, or malfunction is not required.

(2) Before August 24, 2020, the records in § 63.6(e)(3)(iii) through (v) related to startup, shutdown, and malfunction. On and after August 24, 2020, the records in § 63.6(e)(3)(iii) through (v) related to startup, shutdown, and malfunction are not required.

* * * * *

8. Section 63.3513 is amended by revising paragraph (a) to read as follows:

§ 63.3513 In what form and for how long must I keep my records?

(a) Your records must be kept in a form suitable and readily available for expeditious review, according to § 63.10(b)(1). Where appropriate, the records may be maintained as electronic spreadsheets or as a database. On and after August 24, 2020, any records required to be maintained by this subpart that are in reports that were submitted electronically via the EPA's CEDRI may be maintained in electronic format. This ability to maintain electronic copies does not affect the requirement for facilities to make records, data, and reports available upon request to a delegated air agency or the EPA as part of an on-site compliance evaluation.

* * * * *

9. Section 63.3521 is amended by revising paragraphs (a)(1)(i), (a)(2), (a)(4), (b)(1), and (c) to read as follows:

§ 63.3521 How do I demonstrate initial compliance with the emission limitations?

* * * * *

(a) * * *

(1) * * *

(i) Count each organic HAP in Table 8 to this subpart that is measured to be present at 0.1 percent by mass or more and at 1.0 percent by mass or more for other compounds. For example, if toluene (not listed in Table 8 to this subpart) is measured to be 0.5 percent of the material by mass, you do not have to count it. Express the mass fraction of each organic HAP you count as a value truncated to four places after the decimal point (e.g., 0.3791).

* * * * *

(2) Method 24 (appendix A to 40 CFR part 60). For coatings, you may use Method 24 to determine the mass fraction of nonaqueous volatile matter and use that value as a substitute for mass fraction of organic HAP. As an alternative to using Method 24, you may use ASTM D2369-10 (2015), “Test Method for Volatile Content of Coatings” (incorporated by reference, see § 63.14).

* * * * *

(4) Information from the supplier or manufacturer of the material. You may rely on information other than that generated by the test methods specified in paragraphs (a)(1) through (3) of this section, such as manufacturer's formulation data, if it represents each organic HAP in Table 8 to this subpart that is present at 0.1 percent by mass or more and at 1.0 percent by mass or more for other compounds. For example, if toluene (not listed in Table 8 to this subpart) is 0.5 percent of the material by mass, you do not have to count it. If there is a disagreement between such information and results of a test conducted according to paragraphs (a)(1) through (3) of this section, then the test method results will take precedence unless, after consultation, a regulated source can demonstrate to the satisfaction of the enforcement agency that the formulation data are correct.

* * * * *

(b) * * *

(1) ASTM Method D2697-03 (2014) or D6093-97 (2016). You may use ASTM D2697-03 (2014), “Standard Test Method for Volume Nonvolatile Matter in Clear or Pigmented Coatings,” (incorporated by reference, see § 63.14) or ASTM D6093-97 (2016), “Standard Test Method for Percent Volume Nonvolatile Matter in Clear or Pigmented Coatings Using a Helium Gas Pycnometer” (incorporated by reference, see § 63.14), to determine the volume fraction of coating solids for each coating. Divide the nonvolatile volume percent obtained with the methods by 100 to calculate volume fraction of coating solids. If these values cannot be determined using these methods, the owner/operator may submit an alternative technique for determining the values for approval by the Administrator.

* * * * *

(c) Determine the density of each coating. Determine the density of each coating used during the compliance period from test results using ASTM Method D1475-13 “Standard Test Method for Density of Liquid Coatings, Inks, and Related Products” (incorporated by reference, see § 63.14) or information from the supplier or manufacturer of the material. If there is disagreement between ASTM Method D1475-13 test results and the supplier's or manufacturer's information, the test results will take precedence.

* * * * *

10. Section 63.3531 is amended by revising paragraph (c) to read as follows:

§ 63.3531 How do I demonstrate initial compliance with the emission limitations?

* * * * *

(c) Determine the density of each material. Determine the density of each coating and thinner used during each month from test results using ASTM D1475-13 or ASTM D2111-10 (2015) (both incorporated by reference, see § 63.14), information from the supplier or manufacturer of the material, or reference sources providing density or specific gravity data for pure materials. If there is disagreement between ASTM D1475-13 or ASTM D2111-10 (2015) test results and such other information sources, the test results will take precedence.

* * * * *

11. Section 63.3540 is amended by revising the section heading and paragraphs (a)(1), (a)(4), and (b)(1) to read as follows:

§ 63.3540 By what date must I conduct performance tests and initial compliance demonstrations?

(a) * * *

(1) All emission capture systems, add-on control devices, and CPMS must be installed and operating no later than the applicable compliance date specified in § 63.3483. Except for solvent recovery systems for which you conduct liquid-liquid material balances according to § 63.3541(i), you must conduct according to the schedule in paragraphs (a)(1)(i) and (ii) of this section initial and periodic performance tests of each capture system and add-on control device according to the procedures in §§ 63.3543, 63.3544, and 63.3545 and establish the operating limits required by § 63.3492. For a solvent recovery system for which you conduct liquid-liquid material balances according to § 63.3541(i), you must initiate the first material balance no later than the applicable compliance date specified in § 63.3483.

(i) You must conduct the initial performance test and establish the operating limits required by § 63.3492 no later than 180 days after the applicable compliance date specified in § 63.3483.

(ii) If you are not required to complete periodic performance tests as a requirement of renewing your facility's operating permit under 40 CFR part 70 or 40 CFR part 71, you must conduct the first periodic performance test before March 25, 2023, unless you already have conducted a performance test on or after March 25, 2018. Thereafter you must conduct a performance test no later than 5 years following the previous performance test. Operating limits must be confirmed or reestablished during each performance test. If you are required to complete periodic performance tests as a requirement of renewing your facility's operating permit under 40 CFR part 70 or 40 CFR part 71, you must conduct the periodic testing in accordance with the terms and schedule required by your permit conditions.

* * * * *

(4) For the initial compliance demonstration, you do not need to comply with the operating limits for the emission capture system and add-on control device required by § 63.3492 until after you have completed the initial performance tests specified in paragraph (a)(1) of this section. Instead, you must maintain a log detailing the operation and maintenance of the emission capture system, add-on control device, and continuous parameter monitors during the period between the compliance date and the performance test. You must begin complying with the operating limits established based on the initial performance tests specified in paragraph (a)(1) of this section for your affected source on the date you complete the performance tests. The requirements in this paragraph (a)(4) do not apply to solvent recovery systems for which you conduct liquid-liquid material balances according to the requirements in § 63.3541(i).

(b) * * *

(1) All emission capture systems, add-on control devices, and CPMS must be installed and operating no later than the applicable compliance date specified in § 63.3483. Except for solvent recovery systems for which you conduct liquid-liquid material balances according to § 63.3541(i), you must conduct according to the schedule in paragraphs (b)(1)(i) and (ii) of this section initial and periodic performance tests of each capture system and add-on control device according to the procedures in §§ 63.3543, 63.3544, and 63.3545 and establish the operating limits required by § 63.3492. For a solvent recovery system for which you conduct liquid-liquid material balances according to § 63.3541(i), you must initiate the first material balance no later than the compliance date specified in § 63.3483.

(i) You must conduct the initial performance test and establish the operating limits required by § 63.3492 no later than 180 days after the applicable compliance date specified in § 63.3483.

(ii) If you are not required to complete periodic performance tests as a requirement of renewing your facility's operating permit under 40 CFR part 70 or 40 CFR part 71, you must conduct the first periodic performance test before March 25, 2023, unless you already have conducted a performance test on or after March 25, 2018. Thereafter you must conduct a performance test no later than 5 years following the previous performance test. Operating limits must be confirmed or reestablished during each performance test. If you are required to complete periodic performance tests as a requirement of renewing your facility's operating permit under 40 CFR part 70 or 40 CFR part 71, you must conduct the periodic testing in accordance with the terms and schedule required by your permit conditions.

* * * * *

12. Section 63.3541 is amended by revising paragraphs (h) introductory text and (i)(3) to read as follows:

§ 63.3541 How do I demonstrate initial compliance?

* * * * *

(h) Calculate the organic HAP emission reduction for each controlled coating operation not using liquid-liquid material balances. For each controlled coating operation using an emission capture system and add-on control device, other than a solvent recovery system for which you conduct liquid-liquid material balances, calculate the organic HAP emission reduction, using Equation 1 of this section. The calculation applies the emission capture system efficiency and add-on control device efficiency to the mass of organic HAP contained in the coatings and thinners that are used in the coating operation served by the emission capture system and add-on control device during each month. For any period of time a deviation specified in § 63.3542(c) or (d) occurs in the controlled coating operation, you must assume zero efficiency for the emission capture system and add-on control device, unless you have other data indicating the actual efficiency of the emission capture system and add-on control device, and the use of these data has been approved by the Administrator. Equation 1 of this section treats the materials used during such a deviation as if they were used on an uncontrolled coating operation for the time period of the deviation.

* * * * *

(i) * * *

(3) Determine the mass fraction of volatile organic matter for each coating and thinner used in the coating operation controlled by the solvent recovery system during the month, in kg volatile organic matter per kg coating. You may determine the volatile organic matter mass fraction using Method 24 of 40 CFR part 60, appendix A, ASTM D2369-10 (2015), “Test Method for Volatile Content of Coatings” (incorporated by reference, see § 63.14), or an EPA approved alternative method. Alternatively, you may determine the volatile organic matter mass fraction using information provided by the manufacturer or supplier of the coating. In the event of any inconsistency between information provided by the manufacturer or supplier and the results of Method 24 of 40 CFR part 60, appendix A, ASTM D2369-10 (2015) or an approved alternative method, the test method results will take precedence unless, after consultation, a regulated source can demonstrate to the satisfaction of the enforcement agency that the formulation data are correct.

* * * * *

13. Section 63.3542 is amended by revising paragraphs (f) and (h) to read as follows:

§ 63.3542 How do I demonstrate continuous compliance with the emission limitations?

* * * * *

(f) As part of each semiannual compliance report required in § 63.3511, you must identify the coating operation(s) for which you used the emission rate with add-on controls option. If there were no deviations from the emission limits in § 63.3490, the operating limits in § 63.3492, and the work practice standards in § 63.3493, submit a statement that you were in compliance with the emission limitations during the reporting period because the organic HAP emission rate for each compliance period was less than or equal to the applicable emission limit in § 63.3490, and you achieved the operating limits required by § 63.3492 and the work practice standards required by § 63.3493 during each compliance period.

* * * * *

(h) Before August 24, 2020, consistent with §§ 63.6(e) and 63.7(e)(1), deviations that occur during a period of startup, shutdown, or malfunction of the emission capture system, add-on control device, or coating operation that may affect emission capture or control device efficiency are not violations if you demonstrate to the Administrator's satisfaction that you were operating in accordance with § 63.6(e)(1). The Administrator will determine whether deviations that occur during a period you identify as a startup, shutdown, or malfunction are violations according to the provisions in § 63.6(e). On and after August 24, 2020, deviations that occur due to malfunction of the emission capture system, add-on control device, or coating operation that may affect emission capture or control device efficiency are required to operate in accordance with § 63.3500(b). The Administrator will determine whether the deviations are violations according to the provisions in § 63.3500(b).

* * * * *

14. Section 63.3543 is amended by revising paragraphs (a) introductory text and (a)(1) to read as follows:

§ 63.3543 What are the general requirements for performance tests?

(a) Before August 24, 2020, you must conduct each performance test required by § 63.3540 according to the requirements in § 63.7(e)(1) and under the conditions in this section unless you obtain a waiver of the performance test according to the provisions in § 63.7(h). On and after August 24, 2020, you must conduct each performance test required by § 63.3540 according to the requirements in this section unless you obtain a waiver of the performance test according to the provisions in § 63.7(h).

(1) Representative coating operation operating conditions. You must conduct the performance test under representative operating conditions for the coating operation. Operations during periods of startup, shutdown, or nonoperation do not constitute representative conditions for purposes of conducting a performance test. The owner or operator may not conduct performance tests during periods of malfunction. You must record the process information that is necessary to document operating conditions during the test and explain why the conditions represent normal operation. Upon request, you must make available to the Administrator such records as may be necessary to determine the conditions of performance tests.

* * * * *

15. Section 63.3544 is amended by revising the introductory text to read as follows:

§ 63.3544 How do I determine the emission capture system efficiency?

You must use the procedures and test methods in this section to determine capture efficiency as part of each performance test required by § 63.3540.

* * * * *

16. Section 63.3545 is amended by revising the introductory text, paragraph (b) introductory text, and paragraphs (b)(1) through (4) to read as follows:

§ 63.3545 How do I determine the add-on control device emission destruction or removal efficiency?

You must use the procedures and test methods in this section to determine the add-on control device emission destruction or removal efficiency as part of the performance tests required by § 63.3540. For each performance test, you must conduct three test runs as specified in § 63.7(e)(3) and each test run must last at least 1 hour.

* * * * *

(b) Measure total gaseous organic mass emissions as carbon at the inlet and outlet of the add-on control device simultaneously using either Method 25 or 25A of appendix A-7 to 40 CFR part 60 as specified in paragraphs (b)(1) through (5) of this section. You must use the same method for both the inlet and outlet measurements.

(1) Use Method 25 of appendix A-7 to 40 CFR part 60 if the add-on control device is an oxidizer and you expect the total gaseous organic concentration as carbon to be more than 50 ppm at the control device outlet.

(2) Use Method 25A of appendix A-7 to 40 CFR part 60 if the add-on control device is an oxidizer and you expect the total gaseous organic concentration as carbon to be 50 ppm or less at the control device outlet.

(3) Use Method 25A of appendix A-7 to 40 CFR part 60 if the add-control device is not an oxidizer.

(4) You may use Method 18 of appendix A-6 to 40 CFR part 60 to subtract methane emissions from measured total gaseous organic mass emissions as carbon.

* * * * *

17. Section 63.3546 is amended by revising the introductory text and paragraphs (a)(1) and (2), (b)(1) through (3), (d)(1), (e)(1) and (2), (f)(1) through (3), and (f)(5) and (6) to read as follows:

§ 63.3546 How do I establish the emission capture system and add-on control device operating limits during the performance test?

During performance tests required by § 63.3540 and described in §§ 63.3543, 63.3544, and 63.3545, you must establish the operating limits required by § 63.3492 unless you have received approval for alternative monitoring and operating limits under § 63.8(f) as specified in § 63.3492.

(a) * * *

(1) During performance tests, you must monitor and record the combustion temperature at least once every 15 minutes during each of the three test runs. You must monitor the temperature in the firebox of the thermal oxidizer or immediately downstream of the firebox before any substantial heat exchange occurs.

(2) For each performance test, use the data collected during the performance test to calculate and record the average combustion temperature maintained during the performance test. That average combustion temperature is the minimum operating limit for your thermal oxidizer.

(b) * * *

(1) During performance tests, you must monitor and record the temperature at the inlet to the catalyst bed and the temperature difference across the catalyst bed at least once every 15 minutes during each of the three test runs.

(2) For each performance test, use the data collected during the performance test to calculate and record the average temperature at the inlet to the catalyst bed and the average temperature difference across the catalyst bed maintained during the performance test. The average temperature difference is the minimum operating limit for your catalytic oxidizer.

(3) As an alternative to monitoring the temperature difference across the catalyst bed, you may monitor the temperature at the inlet to the catalyst bed and implement a site-specific inspection and maintenance plan for your catalytic oxidizer as specified in paragraph (b)(4) of this section. During performance tests, you must monitor and record the temperature at the inlet to the catalyst bed at least once every 15 minutes during each of the three test runs. For each performance test, use the data collected during the performance test to calculate and record the average temperature at the inlet to the catalyst bed during the performance test. That is the minimum operating limit for your catalytic oxidizer.

* * * * *

(d) * * *

(1) During performance tests, you must monitor and record the total regeneration desorbing gas (e.g., steam or nitrogen) mass flow for each regeneration cycle, and the carbon bed temperature after each carbon bed regeneration and cooling cycle for the regeneration cycle either immediately preceding or immediately following the performance test.

* * * * *

(e) * * *

(1) During performance tests, monitor and record the condenser outlet (product side) gas temperature at least once every 15 minutes during each of the three test runs of the performance test.

(2) For each performance test, use the data collected during the performance test to calculate and record the average condenser outlet (product side) gas temperature maintained during the performance test. This average condenser outlet gas temperature is the maximum operating limit for your condenser.

(f) * * *

(1) During performance tests, monitor and record the inlet temperature to the desorption/reactivation zone of the concentrator at least once every 15 minutes during each of the three runs of the performance test.

(2) For each performance test, use the data collected during the performance test to calculate and record the average temperature. This is the minimum operating limit for the desorption/reactivation zone inlet temperature.

(3) During each performance test, monitor and record an indicator(s) of performance for the desorption/reactivation fan operation at least once every 15 minutes during each of the three runs of the performance test. The indicator can be speed in revolutions per minute (rpm), power in amps, static pressure, or flow rate.

* * * * *

(5) During each performance test, monitor the rotational speed of the concentrator at least once every 15 minutes during each of the three runs of the performance test.

(6) For each performance test, use the data collected during the performance test to calculate and record the average rotational speed. This is the minimum operating limit for the rotational speed of the concentrator. However, the indicator range for the rotational speed may be changed if an engineering evaluation is conducted and a determination made that the change in speed will not affect compliance with the emission limit.

* * * * *

18. Section 63.3547 is amended by revising paragraphs (a)(4) and (5), (a)(7), and (c)(3) introductory text to read as follows:

§ 63.3547 What are the requirements for continuous parameter monitoring system installation, operation, and maintenance?

(a) * * *

(4) Before August 24, 2020, you must maintain the CPMS at all times and have available necessary parts for routine repairs of the monitoring equipment. On and after August 24, 2020, you must maintain the CPMS at all times in accordance with § 63.3500(b) and keep necessary parts readily available for routine repairs of the monitoring equipment.

(5) Before August 24, 2020, you must operate the CPMS and collect emission capture system and add-on control device parameter data at all times that a controlled coating operation is operating, except during monitoring malfunctions, associated repairs, and required quality assurance or control activities (including, if applicable, calibration checks and required zero and span adjustments). On and after August 24, 2020, you must operate the CPMS and collect emission capture system and add-on control device parameter data at all times in accordance with § 63.3500(b).

* * * * *

(7) A monitoring malfunction is any sudden, infrequent, not reasonably preventable failure of the CPMS to provide valid data. Monitoring failures that are caused, in part, by poor maintenance or careless operation are not malfunctions. Before August 24, 2020, any period for which the monitoring system is out of control and data are not available for required calculations is a deviation from the monitoring requirements. On and after August 24, 2020, except for periods of required quality assurance or control activities, any period for which the CPMS fails to operate and record data continuously as required by paragraph (a)(5) of this section, or generates data that cannot be included in calculating averages as specified in (a)(6) of this section constitutes a deviation from the monitoring requirements.

* * * * *

(c) * * *

(3) For all thermal oxidizers and catalytic oxidizers, you must meet the requirements in paragraphs (a) and (c)(3)(i) through (ii) of this section for each gas temperature monitoring device. For the purposes of this paragraph (c)(3), a thermocouple is part of the temperature sensor.

* * * * *

19. Section 63.3550 is amended by revising the section heading and paragraphs (a)(1), (a)(4), and (b)(1) to read as follows:

§ 63.3550 By what date must I conduct performance tests and initial compliance demonstrations?

(a) * * *

(1) All emission capture systems, add-on control devices, and CPMS must be installed and operating no later than the applicable compliance date specified in § 63.3483. You must conduct according to the schedule in paragraphs (a)(1)(i) and (ii) of this section initial and periodic performance tests of each capture system and add-on control device according to §§ 63.3553, 63.3554, and 63.3555 and establish the operating limits required by § 63.3492.

(i) You must conduct the initial performance test and establish the operating limits required by § 63.3492 no later than 180 days after the applicable compliance date specified in § 63.3483.

(ii) If you are not required to complete periodic performance tests as a requirement of renewing your facility's operating permit under 40 CFR part 70 or 40 CFR part 71, you must conduct the first periodic performance test before March 25, 2023, unless you already have conducted a performance test on or after March 25, 2018. Thereafter you must conduct a performance test no later than 5 years following the previous performance test. Operating limits must be confirmed or reestablished during each performance test. If you are required to complete periodic performance tests as a requirement of renewing your facility's operating permit under 40 CFR part 70 or 40 CFR part 71, you must conduct the periodic testing in accordance with the terms and schedule required by your permit conditions.

* * * * *

(4) For the initial compliance demonstration, you do not need to comply with the operating limits for the emission capture system and add-on control device required by § 63.3492 until after you have completed the initial performance tests specified in paragraph (a)(1) of this section. Instead, you must maintain a log detailing the operation and maintenance of the emission capture system, add-on control device, and continuous parameter monitors during the period between the compliance date and the performance test. You must begin complying with the operating limits established based on the initial performance tests specified in paragraph (a)(1) of this section on the date you complete the performance tests.

(b) * * *

(1) All emission capture systems, add-on control devices, and CPMS must be installed and operating no later than the applicable compliance date specified in § 63.3483. Except for solvent recovery systems for which you conduct liquid-liquid material balances according to § 63.3541(i), you must conduct according to the schedule in paragraphs (a)(1)(i) and (ii) of this section initial and periodic performance tests of each capture system and add-on control device according to the procedures in §§ 63.3543, 63.3544, and 63.3545 and establish the operating limits required by § 63.3492.

(i) You must conduct the initial performance test and establish the operating limits required by § 63.3492 no later than 180 days after the applicable compliance date specified in § 63.3483.

(ii) If you are not required to complete periodic performance tests as a requirement of renewing your facility's operating permit under 40 CFR part 70 or 40 CFR part 71, you must conduct the first periodic performance test before March 25, 2023, unless you already have conducted a performance test on or after March 25, 2018. Thereafter you must conduct a performance test no later than 5 years following the previous performance test. Operating limits must be confirmed or reestablished during each performance test. If you are required to complete periodic performance tests as a requirement of renewing your facility's operating permit under 40 CFR part 70 or 40 CFR part 71, you must conduct the periodic testing in accordance with the terms and schedule required by your permit conditions.

* * * * *

20. Section 63.3552 is amended by revising paragraph (g) to read as follows:

§ 63.3552 How do I demonstrate continuous compliance with the emission limitations?

* * * * *

(g) Before August 24, 2020, consistent with §§ 63.6(e) and 63.7(e)(1), deviations that occur during a period of startup, shutdown, or malfunction of the emission capture system, add-on control device, or coating operation that may affect emission capture or control device efficiency are not violations if you demonstrate to the Administrator's satisfaction that you were operating in accordance with § 63.6(e)(1). The Administrator will determine whether deviations that occur during a period you identify as a startup, shutdown, or malfunction are violations, according to the provisions in § 63.6(e). On and after August 24, 2020 deviations that occur due to malfunction of the emission capture system, add-on control device, or coating operation that may affect emission capture or control device efficiency are required to operate in accordance with § 63.3500(b). The Administrator will determine whether the deviations are violations according to the provisions in § 63.3500(b).

* * * * *

21. Section 63.3553 is amended by revising paragraphs (a) introductory text and (a)(1) to read as follows:

§ 63.3553 What are the general requirements for performance tests?

(a) Before August 24, 2020, you must conduct each performance test required by § 63.3550 according to the requirements in § 63.7(e)(1) and under the conditions in this section unless you obtain a waiver of the performance test according to the provisions in § 63.7(h). On and after August 24, 2020, you must conduct each performance test required by § 63.3550 according to the requirements in this section unless you obtain a waiver of the performance test according to the provisions in § 63.7(h).

(1) Representative coating operating conditions. You must conduct the performance test under representative operating conditions for the coating operation(s). Operations during periods of startup, shutdown, or nonoperation do not constitute representative conditions for purposes of conducting a performance test. The owner or operator may not conduct performance tests during periods of malfunction. You must record the process information that is necessary to document operating conditions during the test and explain why the conditions represent normal operation. Upon request, you must make available to the Administrator such records as may be necessary to determine the conditions of performance tests.

* * * * *

22. Section 63.3555 is amended by revising the introductory text, paragraph (b) introductory text, and paragraphs (b)(1) through (4) to read as follows:

§ 63.3555 How do I determine the outlet THC emissions and add-on control device emission destruction or removal efficiency?

You must use the procedures and test methods in this section to determine either the outlet THC emissions or add-on control device emission destruction or removal efficiency as part of the performance tests required by § 63.3550. You must conduct three test runs as specified in § 63.7(e)(3), and each test run must last at least 1 hour.

* * * * *

(b) Measure total gaseous organic mass emissions as carbon at the inlet and outlet of the add-on control device simultaneously using either Method 25 or 25A of appendix A-7 to 40 CFR part 60 as specified in paragraphs (b)(1) through (3) of this section. You must use the same method for both the inlet and outlet measurements.

(1) Use Method 25 of appendix A-7 to 40 CFR part 60 if the add-on control device is an oxidizer, and you expect the total gaseous organic concentration as carbon to be more than 50 ppm at the control device outlet.

(2) Use Method 25A of appendix A-7 to 40 CFR part 60 if the add-on control device is an oxidizer, and you expect the total gaseous organic concentration as carbon to be 50 ppm or less at the control device outlet.

(3) Use Method 25A of appendix A-7 to 40 CFR part 60 if the add-on control device is not an oxidizer.

(4) You may use Method 18 of appendix A-6 to 40 CFR part 60 to subtract methane emissions from measured total gaseous organic mass emissions as carbon.

* * * * *

23. Section 63.3556 is amended by revising the introductory text and paragraphs (a)(1) and (2), (b)(1) through (3), (d)(1), (e)(1) and (2), (f)(1) through (3), and (f)(5) and (6) to read as follows:

§ 63.3556 How do I establish the emission capture system and add-on control device operating limits during the performance test?

During the performance tests required by § 63.3550 and described in §§ 63.3553, 63.3554, and 63.3555, you must establish the operating limits required by § 63.3492 according to this section, unless you have received approval for alternative monitoring and operating limits under § 63.8(f) as specified in § 63.3492.

(a) * * *

(1) During performance tests, you must monitor and record the combustion temperature at least once every 15 minutes during each of the three test runs. You must monitor the temperature in the firebox of the thermal oxidizer or immediately downstream of the firebox before any substantial heat exchange occurs.

(2) For each performance test, use the data collected during the performance test to calculate and record the average combustion temperature maintained during the performance test. That average combustion temperature is the minimum operating limit for your thermal oxidizer.

(b) * * *

(1) During performance tests, you must monitor and record the temperature at the inlet to the catalyst bed and the temperature difference across the catalyst bed at least once every 15 minutes during each of the three test runs.

(2) For each performance test, use the data collected during the performance test to calculate and record the average temperature at the inlet to the catalyst bed and the average temperature difference across the catalyst bed maintained during the performance test. The average temperature difference is the minimum operating limit for your catalytic oxidizer.

(3) As an alternative to monitoring the temperature difference across the catalyst bed, you may monitor the temperature at the inlet to the catalyst bed and implement a site-specific inspection and maintenance plan for your catalytic oxidizer as specified in paragraph (b)(4) of this section. During performance tests, you must monitor and record the temperature at the inlet to the catalyst bed at least once every 15 minutes during each of the three test runs. Use the data collected during each performance test to calculate and record the average temperature at the inlet to the catalyst bed during the performance test. That is the minimum operating limit for your catalytic oxidizer.

* * * * *

(d) * * *

(1) You must monitor and record the total regeneration desorbing gas (e.g., steam or nitrogen) mass flow for each regeneration cycle, and the carbon bed temperature after each carbon bed regeneration and cooling cycle for the regeneration cycle either immediately preceding or immediately following performance tests.

* * * * *

(e) * * *

(1) During performance tests, monitor and record the condenser outlet (product side) gas temperature at least once every 15 minutes during each of the three test runs.

(2) For each performance test, use the data collected during the performance test to calculate and record the average condenser outlet (product side) gas temperature maintained during the performance test. This average condenser outlet gas temperature is the maximum operating limit for your condenser.

(f) * * *

(1) During performance tests, monitor and record the inlet temperature to the desorption/reactivation zone of the concentrator at least once every 15 minutes during each of the three runs of the performance test.

(2) For each performance test, use the data collected during the performance test to calculate and record the average temperature. This is the minimum operating limit for the desorption/reactivation zone inlet temperature.

(3) During performance tests, monitor and record an indicator(s) of performance for the desorption/reactivation fan operation at least once every 15 minutes during each of the three runs of the performance test. The indicator can be speed in rpm, power in amps, static pressure, or flow rate.

* * * * *

(5) During performance tests, monitor the rotational speed of the concentrator at least once every 15 minutes during each of the three runs of a performance test.

(6) For each performance test, use the data collected during the performance test to calculate and record the average rotational speed. This is the minimum operating limit for the rotational speed of the concentrator. However, the indicator range for the rotational speed may be changed if an engineering evaluation is conducted and a determination made that the change in speed will not affect compliance with the emission limit.

* * * * *

24. Section 63.3557 is amended by revising paragraphs (a)(4) and (5), (a)(7), and (c)(3) introductory text to read as follows:

§ 63.3557 What are the requirements for continuous parameter monitoring system installation, operation, and maintenance?

(a) * * *

(4) You must maintain the CPMS at all times in accordance with § 63.3500(b) and have readily available necessary parts for routine repairs of the monitoring equipment.

(5) You must operate the CPMS and collect emission capture system and add-on control device parameter data at all times in accordance with § 63.3500(b) that a controlled coating operation is operating, except during monitoring malfunctions, associated repairs, and required quality assurance or control activities (including, if applicable, calibration checks and required zero and span adjustments).

* * * * *

(7) A monitoring malfunction is any sudden, infrequent, not reasonably preventable failure of the CPMS to provide valid data. Monitoring failures that are caused, in part, by poor maintenance or careless operation are not malfunctions. Before August 24, 2020, any period for which the monitoring system is out of control and data are not available for required calculations is a deviation from the monitoring requirements. On and after August 24, 2020, except for periods of required quality assurance or control activities, any period for which the CPMS fails to operate and record data continuously as required by paragraph (a)(5) of this section, or generates data that cannot be included in calculating averages as specified in (a)(6) of this section constitutes a deviation from the monitoring requirements.

* * * * *

(c) * * *

(3) For all thermal oxidizers and catalytic oxidizers, you must meet the requirements in paragraphs (a) and (c)(3)(i) through (ii) of this section for each gas temperature monitoring device. For the purposes of this paragraph (c)(3), a thermocouple is part of the temperature sensor.

* * * * *

25. Section 63.3561 is amended by removing the definition for “Deviation” and adding definitions for “Deviation, before” and “Deviation, on and after” in alphabetical order to read as follows:

§ 63.3561 What definitions apply to this subpart?

* * * * *

Deviation, before August 24, 2020, means any instance in which an affected source subject to this subpart or an owner or operator of such a source:

(1) Fails to meet any requirement or obligation established by this subpart including but not limited to any emission limit, operating limit, or work practice standard; or

(2) Fails to meet any term or condition that is adopted to implement an applicable requirement in this subpart and that is included in the operating permit for any affected source required to obtain such a permit; or

(3) Fails to meet any emission limit, operating limit, or work practice standard in this subpart during startup, shutdown, or malfunction regardless of whether or not such failure is permitted by this subpart.

Deviation, on and after August 24, 2020, means any instance in which an affected source subject to this subpart or an owner or operator of such a source:

(1) Fails to meet any requirement or obligation established by this subpart including but not limited to any emission limit, operating limit, or work practice standard; or

(2) Fails to meet any term or condition that is adopted to implement an applicable requirement in this subpart and that is included in the operating permit for any affected source required to obtain such a permit.

* * * * *

26. Table 5 to subpart KKKK of part 63 is revised to read as follows:

Table 5 to Subpart KKKK of Part 63—Applicability of General Provisions to Subpart KKKK
You must comply with the applicable General Provisions requirements according to the following table:
Citation | Subject | Applicable to subpart KKKK | Explanation
§ 63.1(a)(1)-(4) | General Applicability | Yes
§ 63.1(a)(6) | Source Category Listing | Yes
§ 63.1(a)(10)-(12) | Timing and Overlap Clarifications | Yes
§ 63.1(b)(1) | Initial Applicability Determination | Yes | Applicability to subpart KKKK is also specified in § 63.3481.
§ 63.1(b)(3) | Applicability Determination Recordkeeping | Yes
§ 63.1(c)(1) | Applicability after Standard Established | Yes
§ 63.1(c)(2) | Applicability of Permit Program for Area Sources | No | Area sources are not subject to subpart KKKK.
§ 63.1(c)(5) | Extensions and Notifications | Yes
§ 63.1(e) | Applicability of Permit Program before Relevant Standard is Set | Yes
§ 63.2 | Definitions | Yes | Additional definitions are specified in § 63.3561.
§ 63.3 | Units and Abbreviations | Yes
§ 63.4(a)(1)-(2) | Prohibited Activities | Yes
§ 63.4(b)-(c) | Circumvention/Fragmentation | Yes
§ 63.5(a) | Construction/Reconstruction | Yes
§ 63.5(b)(1), (3), (4), (6) | Requirements for Existing, Newly Constructed, and Reconstructed Sources | Yes
§ 63.5(d)(1)(i)-(ii)(F), (d)(1)(ii)(H), (d)(1)(ii)(J), (d)(1)(iii), (d)(2)-(4) | Application for Approval of Construction/Reconstruction | Yes
§ 63.5(e) | Approval of Construction/Reconstruction | Yes
§ 63.5(f) | Approval of Construction/Reconstruction Based on Prior State Review | Yes
§ 63.6(a) | Compliance with Standards and Maintenance Requirements—Applicability | Yes
§ 63.6(b)(1)-(5), (b)(7) | Compliance Dates for New and Reconstructed Sources | Yes | Section 63.3483 specifies the compliance dates.
§ 63.6(c)(1), (2), (5) | Compliance Dates for Existing Sources | Yes | Section 63.3483 specifies the compliance dates.
§ 63.6(e)(1)(i)-(ii) | Operation and Maintenance | Yes before August 24, 2020, No on and after August 24, 2020 | See § 63.3500(b) for general duty requirement.
§ 63.6(e)(1)(iii) | Operation and Maintenance | Yes
§ 63.6(e)(3)(i), (e)(3)(iii)-(ix) | SSMP | Yes before August 24, 2020, No on and after August 24, 2020
§ 63.6(f)(1) | Compliance Except during Startup, Shutdown, and Malfunction | Yes before August 24, 2020, No on and after August 24, 2020
§ 63.6(f)(2)-(3) | Methods for Determining Compliance | Yes
§ 63.6(g) | Use of an Alternative Standard | Yes
§ 63.6(h) | Compliance with Opacity/Visible Emission Standards | No | Subpart KKKK does not establish opacity standards and does not require continuous opacity monitoring systems (COMS).
§ 63.6(i)(1)-(14) | Extension of Compliance | Yes
§ 63.6(i)(16) | Compliance Extensions and Administrator's Authority | Yes
§ 63.6(j) | Presidential Compliance Exemption | Yes
§ 63.7(a)(1) | Performance Test Requirements—Applicability | Yes | Applies to all affected sources. Additional requirements for performance testing are specified in §§ 63.3543, 63.3544, 63.3545, 63.3554, and 63.3555.
§ 63.7(a)(2) except (a)(2)(i)-(viii) | Performance Test Requirements—Dates | Yes | Applies only to performance tests for capture system and control device efficiency at sources using these to comply with the standards. Sections 63.3540 and 63.3550 specify the schedule for performance test requirements that are earlier than those specified in § 63.7(a)(2).
§ 63.7(a)(3) | Performance Tests Required by the Administrator | Yes
§ 63.7(b)-(d) | Performance Test Requirements—Notification, Quality Assurance, Facilities Necessary for Safe Testing, Conditions During Test | Yes | Applies only to performance tests for capture system and add-on control device efficiency at sources using these to comply with the standards.
§ 63.7(e)(1) | Conduct of Performance Tests | Yes before August 24, 2020, No on and after August 24, 2020 | See §§ 63.3543 and 63.3553.
§ 63.7(e)(2)-(4) | Conduct of Performance Tests | Yes
§ 63.7(f) | Performance Test Requirements—Use of Alternative Test Method | Yes | Applies to all test methods except those used to determine capture system efficiency.
§ 63.7(g)-(h) | Performance Test Requirements—Data Analysis, Recordkeeping, Reporting, Waiver of Test | Yes | Applies only to performance tests for capture system and add-on control device efficiency at sources using these to comply with the standards.
§ 63.8(a)(1)-(2) | Monitoring Requirements—Applicability | Yes | Applies only to monitoring of capture system and add-on control device efficiency at sources using these to comply with the standards. Additional requirements for monitoring are specified in §§ 63.3547 and 63.3557.
§ 63.8(a)(4) | Additional Monitoring Requirements | No | Subpart KKKK does not have monitoring requirements for flares.
§ 63.8(b) | Conduct of Monitoring | Yes
§ 63.8(c)(1) | Continuous Monitoring System (CMS) Operation and Maintenance | Yes before August 24, 2020, No on and after August 24, 2020 | Sections 63.3547 and 63.3557 specify the requirements for the operation of CMS for capture systems and add-on control devices at sources using these to comply.
§ 63.8(c)(2)-(3) | CMS Operation and Maintenance | Yes | Applies only to monitoring of capture system and add-on control device efficiency at sources using these to comply with the standards. Additional requirements for CMS operations and maintenance are specified in §§ 63.3547 and 63.3557.
§ 63.8(c)(4) | CMS | No | Sections 63.3547 and 63.3557 specify the requirements for the operation of CMS for capture systems and add-on control devices at sources using these to comply.
§ 63.8(c)(5) | COMS | No | Subpart KKKK does not have opacity or visible emission standards.
§ 63.8(c)(6) | CMS Requirements | No | Sections 63.3547 and 63.3557 specify the requirements for monitoring systems for capture systems and add-on control devices at sources using these to comply.
§ 63.8(c)(7) | CMS Out-of-Control Periods | Yes
§ 63.8(c)(8) | CMS Out-of-Control Periods Reporting | No | Section 63.3511 requires reporting of CMS out of control periods.
§ 63.8(d)-(e) | Quality Control Program and CMS Performance Evaluation | No
§ 63.8(f)(1)-(5) | Use of an Alternative Monitoring Method | Yes
§ 63.8(f)(6) | Alternative to Relative Accuracy Test | No | Section 63.8(f)(6) provisions are not applicable because subpart KKKK does not require CEMS.
§ 63.8(g) | Data Reduction | No | Sections 63.3542, 63.3547, 63.3552 and 63.3557 specify monitoring data reduction.
§ 63.9(a) | Notification Applicability | Yes
§ 63.9(b)(1)-(2) | Initial Notifications | Yes
§ 63.9(b)(4)(i), (b)(4)(v), (b)(5) | Application for Approval of Construction or Reconstruction | Yes
§ 63.9(c) | Request for Extension of Compliance | Yes
§ 63.9(d) | Special Compliance Requirement Notification | Yes
§ 63.9(e) | Notification of Performance Test | Yes | Applies only to capture system and add-on control device performance tests at sources using these to comply with the standards.
§ 63.9(f) | Notification of Visible Emissions/Opacity Test | No | Subpart KKKK does not have opacity or visible emission standards.
§ 63.9(g) | Additional Notifications When Using CMS | No
§ 63.9(h)(1)-(3) | Notification of Compliance Status | Yes | Section 63.3510 specifies the dates for submitting the notification of compliance status.
§ 63.9(h)(5)-(6) | Clarifications | Yes
§ 63.9(i) | Adjustment of Submittal Deadlines | Yes
§ 63.9(j) | Change in Previous Information | Yes
§ 63.10(a) | Recordkeeping/Reporting—Applicability and General Information | Yes
§ 63.10(b)(1) | General Recordkeeping Requirements | Yes | Additional requirements are specified in §§ 63.3512 and 63.3513.
§ 63.10(b)(2)(i)-(ii) | Recordkeeping of Occurrence and Duration of Startups and Shutdowns and of Failures to Meet Standards | Yes before August 24, 2020, No on and after August 24, 2020 | See § 63.3512(i).
§ 63.10(b)(2)(iii) | Recordkeeping Relevant to Maintenance of Air Pollution Control and Monitoring Equipment | Yes
§ 63.10(b)(2)(iv)-(v) | Actions Taken to Minimize Emissions During Startup, Shutdown, and Malfunction | Yes before August 24, 2020, No on and after August 24, 2020 | See § 63.3512(i)(4) for a record of actions taken to minimize emissions duration a deviation from the standard.
§ 63.10(b)(2)(vi) | Recordkeeping for CMS Malfunctions | Yes before August 24, 2020, No on and after August 24, 2020 | See § 63.3512(i) for records of periods of deviation from the standard, including instances where a CMS is inoperative or out-of-control.
§ 63.10(b)(2) (vii)-(xii) | Records | Yes
§ 63.10(b)(2) (xiii) |  | No
§ 63.10(b)(2) (xiv) |  | Yes
§ 63.10(b)(3) | Recordkeeping Requirements for Applicability Determinations | Yes
§ 63.10(c)(1) | Additional Recordkeeping Requirements for Sources with CMS | Yes
§ 63.10(c)(5)-(6) |  | Yes
§ 63.10(c)(7)-(8) | Additional Recordkeeping Requirements for Sources with CMS | No | See § 63.3512(i) for records of periods of deviation from the standard, including instances where a CMS is inoperative or out-of-control.
§ 63.10(c)(10)-(14) | Additional Recordkeeping Requirements for Sources with CMS | Yes
§ 63.10(c)(15) | Records Regarding the Startup, Shutdown, and Malfunction Plan | Yes before August 24, 2020, No on and after August 24, 2020
§ 63.10(d)(1) | General Reporting Requirements | Yes | Additional requirements are specified in § 63.3511.
§ 63.10(d)(2) | Report of Performance Test Results | Yes | Additional requirements are specified in § 63.3511(b).
§ 63.10(d)(3) | Reporting Opacity or Visible Emissions Observations | No | Subpart KKKK does not require opacity or visible emissions observations.
§ 63.10(d)(4) | Progress Reports for Sources with Compliance Extensions | Yes
§ 63.10(d)(5) | Startup, Shutdown, Malfunction Reports | Yes before August 24, 2020, No on and after August 24, 2020 | See § 63.3511(a)(7) and (8).
§ 63.10(e)(1)-(2) | Additional CMS Reports | No
§ 63.10(e)(3) | Excess Emissions/CMS Performance Reports | No | Section 63.3511(b) specifies the contents of periodic compliance reports.
§ 63.10(e)(4) | COMS Data Reports | No | Subpart KKKK does not specify requirements for opacity or COMS.
§ 63.10(f) | Recordkeeping/Reporting Waiver | Yes
§ 63.11 | Control Device Requirements/Flares | No | Subpart KKKK does not specify use of flares for compliance.
§ 63.12 | State Authority and Delegations | Yes
§ 63.13(a) | Addresses | Yes before August 24, 2020, No on and after August 24, 2020
§ 63.13(b) | Submittal to State Agencies | Yes
§ 63.13(c) | Submittal to State Agencies | Yes before August 24, 2020, No unless the state requires the submittal via CEDRI, on and after August 24, 2020
§ 63.14 | Incorporation by Reference | Yes
§ 63.15 | Availability of Information/Confidentiality | Yes

27. Table 8 to subpart KKKK of part 63 is added to read as follows:

Table 8 to Subpart KKKK of Part 63—List of Hazardous Air Pollutants That Must Be Counted Toward Total Organic HAP Content if Present at 0.1 Percent or More by Mass
Chemical name | CAS No.
1,1,2,2-Tetrachloroethane | 79-34-5
1,1,2-Trichloroethane | 79-00-5
1,1-Dimethylhydrazine | 57-14-7
1,2-Dibromo-3-chloropropane | 96-12-8
1,2-Diphenylhydrazine | 122-66-7
1,3-Butadiene | 106-99-0
1,3-Dichloropropene | 542-75-6
1,4-Dioxane | 123-91-1
2,4,6-Trichlorophenol | 88-06-2
2,4/2,6-Dinitrotoluene (mixture) | 25321-14-6
2,4-Dinitrotoluene | 121-14-2
2,4-Toluene diamine | 95-80-7
2-Nitropropane | 79-46-9
3,3′-Dichlorobenzidine | 91-94-1
3,3′-Dimethoxybenzidine | 119-90-4
3,3′-Dimethylbenzidine | 119-93-7
4,4′-Methylene bis(2-chloroaniline) | 101-14-4
Acetaldehyde | 75-07-0
Acrylamide | 79-06-1
Acrylonitrile | 107-13-1
Allyl chloride | 107-05-1
alpha-Hexachlorocyclohexane (a-HCH) | 319-84-6
Aniline | 62-53-3
Benzene | 71-43-2
Benzidine | 92-87-5
Benzotrichloride | 98-07-7
Benzyl chloride | 100-44-7
beta-Hexachlorocyclohexane (b-HCH) | 319-85-7
Bis(2-ethylhexyl)phthalate | 117-81-7
Bis(chloromethyl)ether | 542-88-1
Bromoform | 75-25-2
Captan | 133-06-2
Carbon tetrachloride | 56-23-5
Chlordane | 57-74-9
Chlorobenzilate | 510-15-6
Chloroform | 67-66-3
Chloroprene | 126-99-8
Cresols (mixed) | 1319-77-3
DDE | 3547-04-4
Dichloroethyl ether | 111-44-4
Dichlorvos | 62-73-7
Epichlorohydrin | 106-89-8
Ethyl acrylate | 140-88-5
Ethylene dibromide | 106-93-4
Ethylene dichloride | 107-06-2
Ethylene oxide | 75-21-8
Ethylene thiourea | 96-45-7
Ethylidene dichloride (1,1-Dichloroethane) | 75-34-3
Formaldehyde | 50-00-0
Heptachlor | 76-44-8
Hexachlorobenzene | 118-74-1
Hexachlorobutadiene | 87-68-3
Hexachloroethane | 67-72-1
Hydrazine | 302-01-2
Isophorone | 78-59-1
Lindane (hexachlorocyclohexane, all isomers) | 58-89-9
m-Cresol | 108-39-4
Methylene chloride | 75-09-2
Naphthalene | 91-20-3
Nitrobenzene | 98-95-3
Nitrosodimethylamine | 62-75-9
o-Cresol | 95-48-7
o-Toluidine | 95-53-4
Parathion | 56-38-2
p-Cresol | 106-44-5
p-Dichlorobenzene | 106-46-7
Pentachloronitrobenzene | 82-68-8
Pentachlorophenol | 87-86-5
Propoxur | 114-26-1
Propylene dichloride | 78-87-5
Propylene oxide | 75-56-9
Quinoline | 91-22-5
Tetrachloroethene | 127-18-4
Toxaphene | 8001-35-2
Trichloroethylene | 79-01-6
Trifluralin | 1582-09-8
Vinyl bromide | 593-60-2
Vinyl chloride | 75-01-4
Vinylidene chloride | 75-35-4

Subpart SSSS—National Emission Standards for Hazardous Air Pollutants: Surface Coating of Metal Coil

28. Section 63.5090 is amended by revising paragraph (a) and adding paragraph (e) to read as follows:

§ 63.5090 Does this subpart apply to me?

(a) The provisions of this subpart apply to each facility that is a major source of HAP, as defined in § 63.2, at which a coil coating line is operated, except as provided in paragraphs (b) and (e) of this section.

* * * * *

(e) This subpart does not apply to the application of incidental markings (including letters, numbers, or symbols) that are added to bare metal coils and that are used for only product identification or for product inventory control. The application of letters, numbers, or symbols to a coated metal coil is considered a coil coating process and part of the coil coating affected source.

29. Section 63.5110 is amended by removing the definition for “Deviation” and adding definitions for “Deviation, before” and “Deviation, on and after” in alphabetical order to read as follows:

§ 63.5110 What special definitions are used in this subpart?

* * * * *

Deviation, before August 24, 2020, means any instance in which an affected source, subject to this subpart, or an owner or operator of such a source:

(1) Fails to meet any requirement or obligation established by this subpart including, but not limited to, any emission limitation (including any operating limit) or work practice standard; or

(2) Fails to meet any term or condition that is adopted to implement an applicable requirement in this subpart and that is included in the operating permit for any affected source required to obtain such a permit; or

(3) Fails to meet any emission limitation (including any operating limit) or work practice standard in this subpart during start-up, shutdown, or malfunction, regardless of whether or not such failure is permitted by this subpart.

Deviation, on and after August 24, 2020, means any instance in which an affected source, subject to this subpart, or an owner or operator of such a source:

(1) Fails to meet any requirement or obligation established by this subpart including, but not limited to, any emission limitation (including any operating limit) or work practice standard; or

(2) Fails to meet any term or condition that is adopted to implement an applicable requirement in this subpart and that is included in the operating permit for any affected source required to obtain such a permit.

* * * * *

30. Section 63.5121 is amended by revising paragraph (a) to read as follows:

§ 63.5121 What operating limits must I meet?

(a) Except as provided in paragraph (b) of this section, for any coil coating line for which you use an add-on control device, unless you use a solvent recovery system and conduct a liquid-liquid material balance according to § 63.5170(e)(1), you must meet the applicable operating limits specified in Table 1 to this subpart. You must establish the operating limits during performance tests according to the requirements in § 63.5160(d)(3) and Table 1 to § 63.5160. You must meet the operating limits established during the most recent performance test required in § 63.5160 at all times after you establish them.

* * * * *

31. Section 63.5130 is amended by revising paragraph (a) to read as follows:

§ 63.5130 When must I comply?

(a) For an existing affected source, the compliance date is June 10, 2005.

* * * * *

32. Section 63.5140 is amended by:

a. Revising paragraph (a);

b. Redesignating paragraph (b) as (c); and

c. Adding paragraph (b).

The revision and addition read as follows:

§ 63.5140 What general requirements must I meet to comply with the standards?

(a) Before August 24, 2020, you must be in compliance with the applicable emission standards in § 63.5120 and the operating limits in Table 1 to this subpart at all times, except during periods of start-up, shutdown, and malfunction of any capture system and control device used to comply with this subpart. On and after August 24, 2020 you must be in compliance with the applicable emission standards in § 63.5120 and the operating limits in Table 1 to this subpart at all times. If you are complying with the emission standards of this subpart without the use of a capture system and control device, you must be in compliance with the standards at all times.

(b) Before August 24, 2020, you must always operate and maintain your affected source, including air pollution control and monitoring equipment, according to the provisions in § 63.6(e)(1). On and after August 24, 2020, at all times, you must operate and maintain your affected source, including associated air pollution control equipment and monitoring equipment, in a manner consistent with safety and good air pollution control practices for minimizing emissions. The general duty to minimize emissions does not require the owner or operator to make any further efforts to reduce emissions if levels required by the applicable standard have been achieved. Determination of whether a source is operating in compliance with operation and maintenance requirements will be based on information available to the Administrator that may include, but is not limited to, monitoring results, review of operation and maintenance procedures, review of operation and maintenance records, and inspection of the affected source.

* * * * *

33. Section 63.5150 is amended by revising paragraph (a) introductory text, paragraph (a)(4)(i), and paragraph (b) to read as follows:

§ 63.5150 If I use a control device to comply with the emission standards, what monitoring must I do?

* * * * *

(a) To demonstrate continuing compliance with the standards, you must monitor and inspect each capture system and each control device required to comply with § 63.5120 following the date on which the initial performance test of the capture system and control device is completed. You must install and operate the monitoring equipment as specified in paragraphs (a)(1) through (4) of this section. On and after August 24, 2020, you must also maintain the monitoring equipment at all times in accordance with § 63.5140(b) and keep the necessary parts readily available for routine repairs of the monitoring equipment.

* * * * *

(4) * * *

(i) The monitoring plan must identify the operating parameter to be monitored to ensure that the capture efficiency measured during compliance tests is maintained, explain why this parameter is appropriate for demonstrating ongoing compliance, and identify the specific monitoring procedures.

* * * * *

(b) If an operating parameter monitored in accordance with paragraphs (a)(3) and (4) of this section is out of the allowed range specified in Table 1 to this subpart it will be considered a deviation from the operating limit.

34. Section 63.5160 is amended by revising Table 1 and paragraphs (b)(1)(i), (b)(2), (b)(4), (c), (d) introductory text, (d)(1) introductory text, (d)(1)(vi) introductory text, (d)(1)(vii), (d)(2), (d)(3) introductory text, (d)(3)(i)(A), (d)(3)(ii)(D) introductory text, and (e) introductory text to read as follows:

§ 63.5160 What performance tests must I complete?

Table 1 to § 63.5160—Required Performance Testing Summary
If you control HAP on your coil coating line by: | You must:
1. Limiting HAP or Volatile matter content of coatings | Determine the HAP or volatile matter and solids content of coating materials according to the procedures in § 63.5160(b) and (c).
2. Using a capture system and add-on control device | Except as specified in paragraph (a) of this section, conduct an initial performance test within 180 days of the applicable compliance date in § 63.5130, and conduct periodic performance tests within 5 years following the previous performance test, as follows: If you are not required to complete periodic performance tests as a requirement of renewing your facility's operating permit under 40 CFR part 70 or 40 CFR part 71, you must conduct the first periodic performance test before March 25, 2023, unless you already have conducted a performance test on or after March 25, 2018; thereafter, you must conduct a performance test no later than 5 years following the previous performance test. Operating limits must be confirmed or reestablished during each performance test. If you are required to complete periodic performance tests as a requirement of renewing your facility's operating permit under 40 CFR part 70 or 40 CFR part 71, you must conduct the periodic testing in accordance with the terms and schedule required by your permit conditions. For each performance test: (1) For each capture and control system, determine the destruction or removal efficiency of each control device according to § 63.5160(d) and the capture efficiency of each capture system according to § 63.5160(e), and (2) confirm or re-establish the operating limits.

* * * * *

(b) * * *

(1) * * *

(i) Count only those organic HAP in Table 3 to this subpart that are measured to be present at greater than or equal to 0.1 weight percent and greater than or equal to 1.0 weight percent for other organic HAP compounds.

* * * * *

(2) Method 24 in appendix A-7 of part 60. For coatings, you may determine the total volatile matter content as weight fraction of nonaqueous volatile matter and use it as a substitute for organic HAP, using Method 24 in appendix A-7 of part 60. As an alternative to using Method 24, you may use ASTM D2369-10 (2015), “Test Method for Volatile Content of Coatings” (incorporated by reference, see § 63.14). The determination of total volatile matter content using a method specified in this paragraph (b)(2) or as provided in paragraph (b)(3) of this section may be performed by the manufacturer of the coating and the results provided to you.

* * * * *

(4) Formulation data. You may use formulation data provided that the information represents each organic HAP in Table 3 to this subpart that is present at a level equal to or greater than 0.1 percent and equal to or greater than 1.0 percent for other organic HAP compounds in any raw material used, weighted by the mass fraction of each raw material used in the material. Formulation data may be provided to you by the manufacturer of the coating material. In the event of any inconsistency between test data obtained with the test methods specified in paragraphs (b)(1) through (3) of this section and formulation data, the test data will govern.

(c) Solids content and density. You must determine the solids content and the density of each coating material applied. You may determine the volume solids content using ASTM D2697-03(2014) Standard Test Method for Volume Nonvolatile Matter in Clear or Pigmented Coatings (incorporated by reference, see § 63.14) or ASTM D6093-97 (2016) Standard Test Method for Percent Volume Nonvolatile Matter in Clear or Pigmented Coatings Using a Helium Gas Pycnometer (incorporated by reference, see § 63.14), or an EPA approved alternative method. You must determine the density of each coating using ASTM D1475-13 “Standard Test Method for Density of Liquid Coatings, Inks, and Related Products” (incorporated by reference, see § 63.14) or ASTM D2111-10 (2015) “Standard Test Methods for Specific Gravity and Density of Halogenated Organic Solvents and Their Admixtures” (incorporated by reference, see § 63.14). The solids determination using ASTM D2697-03(2014) or ASTM D6093-97 (2016) and the density determination using ASTM D1475-13 or ASTM 2111-10 (2015) may be performed by the manufacturer of the material and the results provided to you. Alternatively, you may rely on formulation data provided by material providers to determine the volume solids. In the event of any inconsistency between test data obtained with the ASTM test methods specified in this section and formulation data, the test data will govern.

(d) Control device destruction or removal efficiency. If you are using an add-on control device, such as an oxidizer, to comply with the standard in § 63.5120, you must conduct performance tests according to Table 1 to § 63.5160 to establish the destruction or removal efficiency of the control device or the outlet HAP concentration achieved by the oxidizer, according to the methods and procedures in paragraphs (d)(1) and (2) of this section. During performance tests, you must establish the operating limits required by § 63.5121 according to paragraph (d)(3) of this section.

(1) Performance tests conducted to determine the destruction or removal efficiency of the control device must be performed such that control device inlet and outlet testing is conducted simultaneously. To determine the outlet organic HAP concentration achieved by the oxidizer, only oxidizer outlet testing must be conducted. The data must be reduced in accordance with the test methods and procedures in paragraphs (d)(1)(i) through (ix).

* * * * *

(vi) Method 25 or 25A in appendix A-7 of part 60 is used to determine total gaseous non-methane organic matter concentration. You may use Method 18 in appendix A-6 of part 60 to subtract methane emissions from measured total gaseous organic mass emissions as carbon. Use the same test method for both the inlet and outlet measurements, which must be conducted simultaneously. You must submit notification of the intended test method to the Administrator for approval along with notification of the performance test required under § 63.7 (b). You must use Method 25A if any of the conditions described in paragraphs (d)(1)(vi)(A) through (D) of this section apply to the control device.

* * * * *

(vii) Each performance test must consist of three separate runs, except as provided by § 63.7(e)(3); each run must be conducted for at least 1 hour under the conditions that exist when the affected source is operating under normal operating conditions. For the purpose of determining volatile organic matter concentrations and mass flow rates, the average of the results of all runs will apply. If you are demonstrating compliance with the outlet organic HAP concentration limit in § 63.5120(a)(3), only the average outlet volatile organic matter concentration must be determined.

* * * * *

(2) You must record such process information as may be necessary to determine the conditions in existence at the time of the performance test. Before August 24, 2020, operations during periods of start-up, shutdown, and malfunction will not constitute representative conditions for the purpose of a performance test. On and after August 24, 2020, you must conduct the performance test under representative operating conditions for the coating operation. Operations during periods of start-up, shutdown, or nonoperation do not constitute representative conditions for the purpose of a performance test. The owner or operator may not conduct performance tests during periods of malfunction. You must record the process information that is necessary to document operating conditions during the test and explain why the conditions represent normal operation. Upon request, you must make available to the Administrator such records as may be necessary to determine the conditions of performance tests.

(3) Operating limits. If you are using a capture system and add-on control device other than a solvent recovery system for which you conduct a liquid-liquid material balance to comply with the requirements in § 63.5120, you must establish the applicable operating limits required by § 63.5121. These operating limits apply to each capture system and to each add-on emission control device that is not monitored by CEMS, and you must establish the operating limits during performance tests required by paragraph (d) of this section according to the requirements in paragraphs (d)(3)(i) through (iii) of this section.

(i) * * *

(A) During performance tests, you must monitor and record the combustion temperature at least once every 15 minutes during each of the three test runs. You must monitor the temperature in the firebox of the thermal oxidizer or immediately downstream of the firebox before any substantial heat exchange occurs.

* * * * *

(ii) * * *

(D) You must develop and implement an inspection and maintenance plan for your catalytic oxidizer(s) for which you elect to monitor according to paragraph (d)(3)(ii)(C) of this section. The plan must address, at a minimum, the elements specified in paragraphs (d)(3)(ii)(D) (1) through (3) of this section.

* * * * *

(e) Capture efficiency. If you are required to determine capture efficiency to meet the requirements of § 63.5170(e)(2), (f)(1) and (2), (g)(2) through (4), or (i)(2) and (3), you must determine capture efficiency using the procedures in paragraph (e)(1), (2), or (3) of this section, as applicable.

* * * * *

35. Section 63.5170 is amended by revising Table 1 and paragraphs (c)(1) and (2), (c)(4) introductory text, (e)(2) introductory text, (f)(1) introductory text, (f)(2), (g)(2) introductory text, (g)(3) introductory text, (g)(4) introductory text, Equation 11 of paragraph (h)(6), (i) introductory text, and (i)(1) to read as follows:

§ 63.5170 How do I demonstrate compliance with the standards?

* * * * *

Table 1 to § 63.5170—Compliance Demonstration Requirements Index
If you choose to demonstrate compliance by: | Then you must demonstrate that:
1. Use of “as purchased” compliant coatings | a. Each coating material used during the 12-month compliance period does not exceed 0.046 kg HAP per liter solids, as purchased. Paragraph (a) of this section.
2. Use of “as applied” compliant coatings | a. Each coating material used does not exceed 0.046 kg HAP per liter solids on a rolling 12-month average as applied basis, determined monthly. Paragraphs (b)(1) of this section; or
| b. Average of all coating materials used does not exceed 0.046 kg HAP per liter solids on a rolling 12-month average as applied basis, determined monthly. Paragraph (b)(2) of this section.
3. Use of a capture system and control device | Overall organic HAP control efficiency is at least 98 percent on a monthly basis for individual or groups of coil coating lines; or overall organic HAP control efficiency is at least 98 percent during performance tests conducted according to Table 1 to § 63.5170 and operating limits are achieved continuously for individual coil coating lines; or oxidizer outlet HAP concentration is no greater than 20 ppmv and there is 100-percent capture efficiency during performance tests conducted according to Table 1 to § 63.5170 and operating limits are achieved continuously for individual coil coating lines. Paragraph (c) of this section.
4. Use of a combination of compliant coatings and control devices and maintaining an acceptable equivalent emission rate | Average equivalent emission rate does not exceed 0.046 kg HAP per liter solids on a rolling 12-month average as applied basis, determined monthly. Paragraph (d) of this section.

* * * * *

(c) * * *

(1) If the affected source uses one compliance procedure to limit organic HAP emissions to the level specified in § 63.5120(a)(1) or (3) and has only always-controlled work stations, then you must demonstrate compliance with the provisions of paragraph (e) of this section when emissions from the affected source are controlled by one or more solvent recovery devices.

(2) If the affected source uses one compliance procedure to limit organic HAP emissions to the level specified in § 63.5120(a)(1) or (3) and has only always-controlled work stations, then you must demonstrate compliance with the provisions of paragraph (f) of this section when emissions are controlled by one or more oxidizers.

* * * * *

(4) The method of limiting organic HAP emissions to the level specified in § 63.5120(a)(3) is the installation and operation of a PTE around each work station and associated curing oven in the coating line and the ventilation of all organic HAP emissions from each PTE to an oxidizer with an outlet organic HAP concentration of no greater than 20 ppmv on a dry basis. An enclosure that meets the requirements in § 63.5160(e)(1) is considered a PTE. Compliance of the oxidizer with the outlet organic HAP concentration limit is demonstrated either through continuous emission monitoring according to paragraph (c)(4)(ii) of this section or through performance tests according to the requirements of § 63.5160(d) and Table 1 to § 63.5160. If this method is selected, you must meet the requirements of paragraph (c)(4)(i) of this section to demonstrate continuing achievement of 100 percent capture of organic HAP emissions and either paragraph (c)(4)(ii) or paragraph (c)(4)(iii) of this section, respectively, to demonstrate continuous compliance with the oxidizer outlet organic HAP concentration limit through continuous emission monitoring or continuous operating parameter monitoring:

* * * * *

(e) * * *

(2) Continuous emission monitoring of control device performance. Use continuous emission monitors to demonstrate recovery efficiency, conduct performance tests of capture efficiency and volumetric flow rate, and continuously monitor a site specific operating parameter to ensure that capture efficiency and volumetric flow rate are maintained following the procedures in paragraphs (e)(2)(i) through (xi) of this section:

* * * * *

(f) * * *

(1) Continuous monitoring of capture system and control device operating parameters. Demonstrate compliance through performance tests of capture efficiency and control device efficiency and continuous monitoring of capture system and control device operating parameters as specified in paragraphs (f)(1)(i) through (xi) of this section:

* * * * *

(2) Continuous emission monitoring of control device performance. Use continuous emission monitors, conduct performance tests of capture efficiency, and continuously monitor a site specific operating parameter to ensure that capture efficiency is maintained. Compliance must be demonstrated in accordance with paragraph (e)(2) of this section.

(g) * * *

(2) Solvent recovery system using performance test and continuous monitoring compliance demonstration. For each solvent recovery system used to control one or more coil coating stations for which you choose to comply by means of performance testing of capture efficiency, continuous emission monitoring of the control device, and continuous monitoring of a capture system operating parameter, each month of the 12-month compliance period you must meet the requirements of paragraphs (g)(2)(i) and (ii) of this section:

* * * * *

(3) Oxidizer using performance tests and continuous monitoring of operating parameters compliance demonstration. For each oxidizer used to control emissions from one or more work stations for which you choose to demonstrate compliance through performance tests of capture efficiency, control device efficiency, and continuous monitoring of capture system and control device operating parameters, each month of the 12-month compliance period you must meet the requirements of paragraphs (g)(3)(i) through (iii) of this section:

* * * * *

(4) Oxidizer using continuous emission monitoring compliance demonstration. For each oxidizer used to control emissions from one or more work stations for which you choose to demonstrate compliance through capture efficiency testing, continuous emission monitoring of the control device, and continuous monitoring of a capture system operating parameter, each month of the 12-month compliance period you must meet the requirements in paragraphs (g)(4)(i) and (ii) of this section:

* * * * *

(h) * * *

(6) * * *

* * * * *

(i) Capture and control system compliance demonstration procedures using a CPMS for a coil coating line. If you use an add-on control device, to demonstrate compliance for each capture system and each control device through performance tests and continuous monitoring of capture system and control device operating parameters, you must meet the requirements in paragraphs (i)(1) through (3) of this section.

(1) Conduct performance tests according to the schedule in Table 1 to § 63.5160 to determine the control device destruction or removal efficiency, DRE, according to § 63.5160(d) and Table 1 to § 63.5160.

* * * * *

36. Section 63.5180 is amended by:

a. Revising paragraphs (f) introductory text and (f)(1);

b. Removing and reserving paragraph (f)(2);

c. Revising paragraphs (g)(2)(v), (h) introductory text, (h)(2) and (3);

d. Adding paragraph (h)(4); and

e. Revising paragraphs (i) introductory text, (i)(1) through (4), (i)(6), and (i)(9).

The revisions and addition read as follows:

§ 63.5180 What reports must I submit?

* * * * *

(f) Before August 24, 2020, you must submit start-up, shutdown, and malfunction reports as specified in § 63.10(d)(5) if you use a control device to comply with this subpart.

(1) Before August 24, 2020, if your actions during a start-up, shutdown, or malfunction of an affected source (including actions taken to correct a malfunction) are not completely consistent with the procedures specified in the source's start-up, shutdown, and malfunction plan specified in § 63.6 (e)(3) and required before August 24, 2020, you must state such information in the report. The start-up, shutdown, or malfunction report will consist of a letter containing the name, title, and signature of the responsible official who is certifying its accuracy, that will be submitted to the Administrator. Separate start-up, shutdown, or malfunction reports are not required if the information is included in the report specified in paragraph (g) of this section. The start-up, shutdown, and malfunction plan and start-up, shutdown, and malfunction report are no longer required on and after August 24, 2020.

* * * * *

(g) * * *

(2) * * *

(v) A statement that there were no deviations from the applicable emission limit in § 63.5120 or the applicable operating limit(s) established according to § 63.5121 during the reporting period, and that no CEMS were inoperative, inactive, malfunctioning, out-of-control, repaired, or adjusted.

(h) You must submit, for each deviation occurring at an affected source where you are not using CEMS to comply with the standards in this subpart, the semi-annual compliance report containing the information in paragraphs (g)(2)(i) through (iv) of this section and the information in paragraphs (h)(1) through (4) of this section:

* * * * *

(2) Before August 24, 2020, you must provide information on the number, duration, and cause of deviations (including unknown cause, if applicable) as applicable, and the corrective action taken. On and after August 24, 2020, you must provide information on the number, date, time, duration, and cause of deviations from an emission limit in § 63.5120 or any applicable operating limit established according to § 63.5121 (including unknown cause, if applicable) as applicable, and the corrective action taken.

(3) Before August 24, 2020, you must provide information on the number, duration, and cause for continuous parameter monitoring system downtime incidents (including unknown cause other than downtime associated with zero and span and other daily calibration checks, if applicable). On and after August 24, 2020, you must provide the information specified in paragraphs (h)(3)(i) and (ii) of this section.

(i) Number, date, time, duration, cause (including unknown cause), and descriptions of corrective actions taken for continuous parameter monitoring systems that are inoperative (except for zero (low-level) and high-level checks).

(ii) Number, date, time, duration, cause (including unknown cause), and descriptions of corrective actions taken for continuous parameter monitoring systems that are out of control as specified in § 63.8(c)(7).

(4) On and after August 24, 2020, for each deviation from an emission limit in § 63.5120 or any applicable operating limit established according to § 63.5121, you must provide a list of the affected source or equipment, an estimate of the quantity of each regulated pollutant emitted over any emission limit in § 63.5120, a description of the method used to estimate the emissions, and the actions you took to minimize emissions in accordance with § 63.5140(b).

(i) You must submit, for each deviation from the applicable emission limit in § 63.5120 or the applicable operation limit(s) established according to § 63.5121 occurring at an affected source where you are using CEMS to comply with the standards in this subpart, the semi-annual compliance report containing the information in paragraphs (g)(2)(i) through (iv) of this section, and the information in paragraphs (i)(1) through (12) of this section:

(1) The date and time that each malfunction of the capture system or add-on control devices started and stopped.

(2) Before August 24, 2020, the date and time that each CEMS was inoperative, except for zero (low-level) and high-level checks. On and after August 24, 2020, for each instance that the CEMS was inoperative, except for zero (low-level) and high-level checks, the date, time, and duration that the CEMS was inoperative; the cause (including unknown cause) for the CEMS being inoperative; and a description of corrective actions taken.

(3) Before August 24, 2020, the date and time that each CEMS was out-of-control, including the information in § 63.8(c)(8). On and after August 24, 2020, for each instance that the CEMS was out-of-control, as specified in § 63.8(c)(7), the date, time, and duration that the CEMS was out-of-control; the cause (including unknown cause) for the CEMS being out-of-control; and descriptions of corrective actions taken.

(4) Before August 24, 2020, the date and time that each deviation started and stopped, and whether each deviation occurred during a period of start-up, shutdown, or malfunction or during another period. On and after August 24, 2020, the date, time, and duration of each deviation from an emission limit in § 63.5120. For each deviation, an estimate of the quantity of each regulated pollutant emitted over any emission limit in § 63.5120 to this subpart, and a description of the method used to estimate the emissions.

* * * * *

(6) Before August 24, 2020, a breakdown of the total duration of the deviations during the reporting period into those that are due to start-up, shutdown, control equipment problems, process problems, other known causes, and other unknown causes. On and after August 24, 2020, a breakdown of the total duration of the deviations during the reporting period into those that are due to control equipment problems, process problems, other known causes, and other unknown causes.

* * * * *

(9) Before August 24, 2020, a brief description of the metal coil coating line. On and after August 24, 2020, a list of the affected source or equipment, including a brief description of the metal coil coating line.

* * * * *

37. Section 63.5181 is added to read as follows:

§ 63.5181 What are my electronic reporting requirements?

(a) Beginning no later than August 24, 2020, you must submit the results of each performance test as required in § 63.5180(e) following the procedure specified in paragraphs (a)(1) through (3) of this section.

(1) For data collected using test methods supported by the EPA's Electronic Reporting Tool (ERT) as listed on the EPA's ERT website (https://www.epa.gov/electronic-reporting-air-emissions/electronic-reporting-tool-ert) at the time of the test, you must submit the results of the performance test to the EPA via the Compliance and Emissions Data Reporting Interface (CEDRI). The CEDRI interface can be accessed through the EPA's Central Data Exchange (CDX) (https://cdx.epa.gov/). Performance test data must be submitted in a file format generated through the use of the EPA's ERT or an alternate electronic file format consistent with the extensible markup language (XML) schema listed on the EPA's ERT website.

(2) For data collected using test methods that are not supported by the EPA's ERT as listed on the EPA's ERT website at the time of the test, you must submit the results of the performance test in portable document format (PDF) using the attachment module of the ERT.

(3) If you claim that some of the performance test information being submitted under paragraph (a)(1) of this section is confidential business information (CBI), you must submit a complete file generated through the use of the EPA's ERT or an alternate electronic file consistent with the XML schema listed on the EPA's ERT website, including information claimed to be CBI, on a compact disc, flash drive or other commonly used electronic storage medium to the EPA. The electronic medium must be clearly marked as CBI and mailed to U.S. EPA/OAQPS/CORE CBI Office, Attention: Group Leader, Measurement Policy Group, MD C404-02, 4930 Old Page Rd., Durham, NC 27703. The same ERT or alternate file with the CBI omitted must be submitted to the EPA via the EPA's CDX as described in paragraph (a)(1) of this section.

(b) Beginning on August 24, 2020, the owner or operator shall submit the initial notifications required in § 63.9(b) and the notification of compliance status required in §§ 63.9(h) and 63.5180(d) to the EPA via the CEDRI. The CEDRI interface can be accessed through the EPA's CDX (https://cdx.epa.gov). The owner or operator must upload to CEDRI an electronic copy of each applicable notification in PDF. The applicable notification must be submitted by the deadline specified in this subpart, regardless of the method in which the reports are submitted. Owners or operators who claim that some of the information required to be submitted via CEDRI is CBI shall submit a complete report generated using the appropriate form in CEDRI or an alternate electronic file consistent with the XML schema listed on the EPA's CEDRI website, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(c) Beginning on March 25, 2021, or once the reporting template has been available on the CEDRI website for 1 year, whichever date is later, the owner or operator shall submit the semiannual compliance report required in § 63.5180(g) through (i), as applicable, to the EPA via the CEDRI. The CEDRI interface can be accessed through the EPA's CDX (https://cdx.epa.gov). The owner or operator must use the appropriate electronic template on the CEDRI website for this subpart (https://www.epa.gov/electronic-reporting-air-emissions/compliance-and-emissions-data-reporting-interface-cedri). The date on which the report templates become available will be listed on the CEDRI website. If the reporting form for the semiannual compliance report specific to this subpart is not available in CEDRI at the time that the report is due, you must submit the report to the Administrator at the appropriate addresses listed in § 63.13. Once the form has been available in CEDRI for 1 year, you must begin submitting all subsequent reports via CEDRI. The reports must be submitted by the deadlines specified in this subpart, regardless of the method in which the reports are submitted. Owners or operators who claim that some of the information required to be submitted via CEDRI is CBI shall submit a complete report generated using the appropriate form in CEDRI, including information claimed to be CBI, on a compact disc, flash drive, or other commonly used electronic storage medium to the EPA. The electronic medium shall be clearly marked as CBI and mailed to U.S. EPA/OAQPS/CORE CBI Office, Attention: Group Leader, Measurement Policy Group, MD C404-02, 4930 Old Page Rd., Durham, NC 27703. The same file with the CBI omitted shall be submitted to the EPA via the EPA's CDX as described earlier in this paragraph.

(d) If you are required to electronically submit a report through the CEDRI in the EPA's CDX, you may assert a claim of EPA system outage for failure to timely comply with the reporting requirement. To assert a claim of EPA system outage, you must meet the requirements outlined in paragraphs (g)(1) through (7) of this section.

(1) You must have been or will be precluded from accessing CEDRI and submitting a required report within the time prescribed due to an outage of either the EPA's CEDRI or CDX systems.

(2) The outage must have occurred within the period of time beginning five business days prior to the date that the submission is due.

(3) The outage may be planned or unplanned.

(4) You must submit notification to the Administrator in writing as soon as possible following the date you first knew, or through due diligence should have known, that the event may cause or caused a delay in reporting.

(5) You must provide to the Administrator a written description identifying:

(i) The date(s) and time(s) when CDX or CEDRI was accessed and the system was unavailable;

(ii) A rationale for attributing the delay in reporting beyond the regulatory deadline to the EPA system outage;

(iii) Measures taken or to be taken to minimize the delay in reporting; and

(iv) The date by which you propose to report, or if you have already met the reporting requirement at the time of the notification, the date you reported.

(6) The decision to accept the claim of EPA system outage and allow an extension to the reporting deadline is solely within the discretion of the Administrator.

(7) In any circumstance, the report must be submitted electronically as soon as possible after the outage is resolved.

(e) If you are required to electronically submit a report through CEDRI in the EPA's CDX, you may assert a claim of force majeure for failure to timely comply with the reporting requirement. To assert a claim of force majeure, you must meet the requirements outlined in paragraphs (h)(1) through (5) of this section.

(1) You may submit a claim if a force majeure event is about to occur, occurs, or has occurred or there are lingering effects from such an event within the period of time beginning five business days prior to the date the submission is due. For the purposes of this section, a force majeure event is defined as an event that will be or has been caused by circumstances beyond the control of the affected facility, its contractors, or any entity controlled by the affected facility that prevents you from complying with the requirement to submit a report electronically within the time period prescribed. Examples of such events are acts of nature (e.g., hurricanes, earthquakes, or floods), acts of war or terrorism, or equipment failure or safety hazard beyond the control of the affected facility (e.g., large scale power outage).

(2) You must submit notification to the Administrator in writing as soon as possible following the date you first knew, or through due diligence should have known, that the event may cause or has caused a delay in reporting.

(3) You must provide to the Administrator:

(i) A written description of the force majeure event;

(ii) A rationale for attributing the delay in reporting beyond the regulatory deadline to the force majeure event;

(iii) Measures taken or to be taken to minimize the delay in reporting; and

(iv) The date by which you propose to report, or if you have already met the reporting requirement at the time of the notification, the date you reported.

(4) The decision to accept the claim of force majeure and allow an extension to the reporting deadline is solely within the discretion of the Administrator.

(5) In any circumstance, the reporting must occur as soon as possible after the force majeure event occurs.

38. Section 63.5190 is amended by adding paragraphs (a)(5) and (c) to read as follows:

§ 63.5190 What records must I maintain?

(a) * * *

(5) On and after August 24, 2020, for each deviation from an emission limitation reported under § 63.5180(h) or (i), a record of the information specified in paragraphs (a)(5)(i) through (iv) of this section, as applicable.

(i) The date, time, and duration of the deviation, as reported under § 63.5180(h) and (i).

(ii) A list of the affected sources or equipment for which the deviation occurred and the cause of the deviation, as reported under § 63.5180(h) and (i).

(iii) An estimate of the quantity of each regulated pollutant emitted over any applicable emission limit in § 63.5120 to this subpart or any applicable operating limit established according to § 63.5121 to this subpart, and a description of the method used to calculate the estimate, as reported under § 63.5180(h) and (i).

(iv) A record of actions taken to minimize emissions in accordance with § 63.5140(b) and any corrective actions taken to return the affected unit to its normal or usual manner of operation.

* * * * *

(c) Any records required to be maintained by this subpart that are in reports that were submitted electronically via the EPA's CEDRI may be maintained in electronic format. This ability to maintain electronic copies does not affect the requirement for facilities to make records, data, and reports available upon request to a delegated air agency or the EPA as part of an on-site compliance evaluation.

39. Table 2 to subpart SSSS of part 63 is revised to read as follows:

Table 2 to Subpart SSSS of Part 63—Applicability of General Provisions to Subpart SSSS

You must comply with the applicable General Provisions requirements according to the following table:

General provisions reference | Subject | Applicable to subpart SSSS | Explanation
§ 63.1(a)(1)-(4) | General Applicability | Yes
§ 63.1(a)(6) | Source Category Listing | Yes
§ 63.1(a)(10)-(12) | Timing and Overlap Clarifications | Yes
§ 63.1(b)(1) | Initial Applicability Determination | Yes | Applicability to Subpart SSSS is also specified in § 63.5090.
§ 63.1(b)(3) | Applicability Determination Recordkeeping | Yes
§ 63.1(c)(1) | Applicability after Standard Established | Yes
§ 63.1(c)(2) | Applicability of Permit Program for Area Sources | Yes
§ 63.1(c)(5) | Extensions and Notifications | Yes
§ 63.1(e) | Applicability of Permit Program Before Relevant Standard is Set | Yes
§ 63.2 | Definitions | Yes | Additional definitions are specified in § 63.5110.
§ 63.3 | Units and Abbreviations | Yes
§ 63.4(a)(1)-(2) | Prohibited Activities | Yes
§ 63.4(b)-(c) | Circumvention/Fragmentation | Yes
§ 63.5(a) | Construction/Reconstruction | Yes
§ 63.5(b)(1), (3), (4), (6) | Requirements for Existing, Newly Constructed, and Reconstructed Sources | Yes
§ 63.5(d)(1)(i)-(ii)(F), (d)(1)(ii)(H), (d)(1)(ii)(J), (d)(1)(iii), (d)(2)-(4) | Application for Approval of Construction/Reconstruction | Yes | Only total HAP emissions in terms of tons per year are required for § 63.5(d)(1)(ii)(H).
§ 63.5(e) | Approval of Construction/Reconstruction | Yes
§ 63.5(f) | Approval of Construction/Reconstruction Based on Prior State Review | Yes
§ 63.6(a) | Compliance with Standards and Maintenance Requirements-Applicability | Yes
§ 63.6(b)(1)-(5), (b)(7) | Compliance Dates for New and Reconstructed Sources | Yes | Section 63.5130 specifies the compliance dates.
§ 63.6(c)(1), (2), (5) | Compliance Dates for Existing Sources | Yes | Section 63.5130 specifies the compliance dates.
§ 63.6(e)(1)(i)-(ii) | General Duty to Minimize Emissions and Requirement to Correct Malfunctions As Soon As Possible | Yes before August 24, 2020, No on and after August 24, 2020 | See § 63.5140(b) for general duty requirement.
§ 63.6(e)(1)(iii) | Operation and Maintenance Requirements | Yes
§ 63.6(e)(3)(i), (e)(3)(iii)-(ix) | SSMP Requirements | Yes before August 24, 2020, No on and after August 24, 2020
§ 63.6(f)(1) | SSM Exemption | Yes before August 24, 2020, No on and after August 24, 2020 | See § 63.5140(b) for general duty requirement.
§ 63.6(f)(2)-(3) | Compliance with Non-Opacity Emission Standards | Yes
§ 63.6(g) | Alternative Non-Opacity Emission Standard | Yes
§ 63.6(h) | Compliance with Opacity/Visible Emission Standards | No | Subpart SSSS does not establish opacity standards or visible emission standards.
§ 63.6(i)(1)-(14), (i)(16) | Extension of Compliance and Administrator's Authority | Yes
§ 63.6(j) | Presidential Compliance Exemption | Yes
§ 63.7(a)-(d) except (a)(2)(i)-(viii) | Performance Test Requirements | Yes
§ 63.7(e)(1) | Performance Testing | Yes before August 24, 2020, No on and after August 24, 2020 | See § 63.5160(d)(2).
§ 63.7(e)(2)-(4) | Conduct of Performance Tests | Yes
§ 63.7(f) | Alternative Test Method | Yes | EPA retains approval authority.
§ 63.7(g)-(h) | Data Analysis and Waiver of Tests | Yes
§ 63.8(a)(1)-(2) | Monitoring Requirements—Applicability | Yes | Additional requirements for monitoring are specified in § 63.5150(a).
§ 63.8(a)(4) | Additional Monitoring Requirements | No | Subpart SSSS does not have monitoring requirements for flares.
§ 63.8(b) | Conduct of Monitoring | Yes
§ 63.8(c)(1) | Operation and Maintenance of Continuous Monitoring System (CMS) | Yes before August 24, 2020, No on and after August 24, 2020 | Section 63.5150(a) specifies the requirements for the operation of CMS for capture systems and add-on control devices at sources using these to comply.
§ 63.8(c)(2)-(3) | CMS Operation and Maintenance | Yes | Applies only to monitoring of capture system and add-on control device efficiency at sources using these to comply with the standards. Additional requirements for CMS operations and maintenance are specified in § 63.5170.
§ 63.8(c)(4)-(5) | CMS Continuous Operation Procedures | No | Subpart SSSS does not require COMS.
§ 63.8(c)(6)-(8) | CMS Requirements | Yes | Provisions only apply if CEMS are used.
§ 63.8(d)-(e) | CMS Quality Control, Written Procedures, and Performance Evaluation | Yes | Provisions only apply if CEMS are used.
§ 63.8(f)(1)-(5) | Use of an Alternative Monitoring Method | Yes | EPA retains approval authority.
§ 63.8(f)(6) | Alternative to Relative Accuracy Test | No | Section 63.8(f)(6) provisions are not applicable because subpart SSSS does not require CEMS.
§ 63.8(g) | Data Reduction | No | Sections 63.5170, 63.5140, 63.5150, and 63.5150 specify monitoring data reduction.
§ 63.9(a) | Notification of Applicability | Yes
§ 63.9(b)(1) | Initial Notifications | Yes
§ 63.9(b)(2) | Initial Notifications | Yes | With the exception that § 63.5180(b)(1) provides 2 years after the proposal date for submittal of the initial notification for existing sources.
§ 63.9(b)(4)(i), (b)(4)(v), (b)(5) | Application for Approval of Construction or Reconstruction | Yes
§ 63.9(c)-(e) | Request for Extension of Compliance, New Source Notification for Special Compliance Requirements, and Notification of Performance Test | Yes | Notification of performance test requirement applies only to capture system and add-on control device performance tests at sources using these to comply with the standards.
§ 63.9(f) | Notification of Visible Emissions/Opacity Test | No | Subpart SSSS does not require opacity and visible emissions observations.
§ 63.9(g) | Additional Notifications When Using CMS | No | Provisions for COMS are not applicable.
§ 63.9(h)(1)-(3) | Notification of Compliance Status | Yes | Section 63.5130 specifies the dates for submitting the notification of compliance status.
§ 63.9(h)(5)-(6) | Clarifications | Yes
§ 63.9(i) | Adjustment of Submittal Deadlines | Yes
§ 63.9(j) | Change in Previous Information | Yes
§ 63.10(a) | Recordkeeping/Reporting—Applicability and General Information | Yes
§ 63.10(b)(1) | General Recordkeeping Requirements | Yes | Additional requirements are specified in § 63.5190.
§ 63.10(b)(2)(i)-(ii) | Recordkeeping of Occurrence and Duration of Startups and Shutdowns and Recordkeeping of Failures to Meet Standards | Yes before August 24, 2020, No on and after August 24, 2020 | See § 63.5190(a)(5).
§ 63.10(b)(2)(iii) | Maintenance Records | Yes
§ 63.10(b)(2)(iv)-(v) | Actions Taken to Minimize Emissions During Startup, Shutdown, and Malfunction | Yes before August 24, 2020, No on and after August 24, 2020 | See § 63.5190(a)(5).
§ 63.10(b)(2)(vi) | Recordkeeping for CMS Malfunctions | Yes before August 24, 2020, No on and after August 24, 2020 | See § 63.5190(a)(5).
§ 63.10(b)(2)(vii)-(xiv) | Other CMS Requirements | Yes
§ 63.10(b)(3) | Recordkeeping Requirements for Applicability Determinations | Yes
§ 63.10(c) | Additional CMS Recordkeeping Requirements | No | See § 63.5190(a)(5).
§ 63.10(d)(1)-(2) | General Reporting Requirements and Report of Performance Test Results | Yes | Additional requirements are specified in § 63.5180(e).
§ 63.10(d)(3) | Reporting Opacity or Visible Emissions Observations | No | Subpart SSSS does not require opacity and visible emissions observations.
§ 63.10(d)(4) | Progress Reports for Sources with Compliance Extensions | Yes
§ 63.10(d)(5) | Startup, Shutdown, Malfunction Reports | Yes before August 24, 2020, No on and after August 24, 2020
§ 63.10(e) | Additional Reporting Requirements for Sources with CMS | No
§ 63.10(f) | Recordkeeping/Reporting Waiver | Yes
§ 63.11 | Control Device Requirements/Flares | No | Subpart SSSS does not specify use of flares for compliance.
§ 63.12 | State Authority and Delegations | Yes
§ 63.13(a) | Addresses | Yes before August 24, 2020, No on and after August 24, 2020
§ 63.13(b) | Submittal to State Agencies | Yes
§ 63.13(c) | Submittal to State Agencies | Yes before August 24, 2020, No unless the state requires the submittal via CEDRI, on and after August 24, 2020
§ 63.14 | Incorporation by Reference | Yes | Subpart SSSS includes provisions for alternative ASTM and ASME test methods that are incorporated by reference.
§ 63.15 | Availability of Information/Confidentiality | Yes

40. Table 3 to subpart SSSS of part 63 is added to read as follows:

Table 3 to Subpart SSSS of Part 63—List of Hazardous Air Pollutants That Must Be Counted Toward Total Organic HAP Content if Present at 0.1 Percent or More by Mass
Chemical name | CAS No.
1,1,2,2-Tetrachloroethane | 79-34-5
1,1,2-Trichloroethane | 79-00-5
1,1-Dimethylhydrazine | 57-14-7
1,2-Dibromo-3-chloropropane | 96-12-8
1,2-Diphenylhydrazine | 122-66-7
1,3-Butadiene | 106-99-0
1,3-Dichloropropene | 542-75-6
1,4-Dioxane | 123-91-1
2,4,6-Trichlorophenol | 88-06-2
2,4/2,6-Dinitrotoluene (mixture) | 25321-14-6
2,4-Dinitrotoluene | 121-14-2
2,4-Toluene diamine | 95-80-7
2-Nitropropane | 79-46-9
3,3′-Dichlorobenzidine | 91-94-1
3,3′-Dimethoxybenzidine | 119-90-4
3,3′-Dimethylbenzidine | 119-93-7
4,4′-Methylene bis(2-chloroaniline) | 101-14-4
Acetaldehyde | 75-07-0
Acrylamide | 79-06-1
Acrylonitrile | 107-13-1
Allyl chloride | 107-05-1
alpha-Hexachlorocyclohexane (a-HCH) | 319-84-6
Aniline | 62-53-3
Benzene | 71-43-2
Benzidine | 92-87-5
Benzotrichloride | 98-07-7
Benzyl chloride | 100-44-7
beta-Hexachlorocyclohexane (b-HCH) | 319-85-7
Bis(2-ethylhexyl)phthalate | 117-81-7
Bis(chloromethyl)ether | 542-88-1
Bromoform | 75-25-2
Captan | 133-06-2
Carbon tetrachloride | 56-23-5
Chlordane | 57-74-9
Chlorobenzilate | 510-15-6
Chloroform | 67-66-3
Chloroprene | 126-99-8
Cresols (mixed) | 1319-77-3
DDE | 3547-04-4
Dichloroethyl ether | 111-44-4
Dichlorvos | 62-73-7
Epichlorohydrin | 106-89-8
Ethyl acrylate | 140-88-5
Ethylene dibromide | 106-93-4
Ethylene dichloride | 107-06-2
Ethylene oxide | 75-21-8
Ethylene thiourea | 96-45-7
Ethylidene dichloride (1,1-Dichloroethane) | 75-34-3
Formaldehyde | 50-00-0
Heptachlor | 76-44-8
Hexachlorobenzene | 118-74-1
Hexachlorobutadiene | 87-68-3
Hexachloroethane | 67-72-1
Hydrazine | 302-01-2
Isophorone | 78-59-1
Lindane (hexachlorocyclohexane, all isomers) | 58-89-9
m-Cresol | 108-39-4
Methylene chloride | 75-09-2
Naphthalene | 91-20-3
Nitrobenzene | 98-95-3
Nitrosodimethylamine | 62-75-9
o-Cresol | 95-48-7
o-Toluidine | 95-53-4
Parathion | 56-38-2
p-Cresol | 106-44-5
p-Dichlorobenzene | 106-46-7
Pentachloronitrobenzene | 82-68-8
Pentachlorophenol | 87-86-5
Propoxur | 114-26-1
Propylene dichloride | 78-87-5
Propylene oxide | 75-56-9
Quinoline | 91-22-5
Tetrachloroethene | 127-18-4
Toxaphene | 8001-35-2
Trichloroethylene | 79-01-6
Trifluralin | 1582-09-8
Vinyl bromide | 593-60-2
Vinyl chloride | 75-01-4
Vinylidene chloride | 75-35-4

[FR Doc. 2020-00303 Filed 2-24-20; 8:45 am]

BILLING CODE 6560-50-P